DEPARTMENT OF COMMERCE

National Oceanic and Atmospheric Administration

50 CFR Part 679

[Docket No. 010313063-1063-01; I.D. 121200A]

RIN 0648-AO20

Fisheries of the Exclusive Economic Zone Off Alaska; Revisions to Recordkeeping and Reporting Requirements

AGENCY: National Marine Fisheries Service (NMFS), National Oceanic and Atmospheric Administration (NOAA), Commerce.

ACTION: Proposed rule; request for comments.

SUMMARY: NMFS proposes revisions to several sections of regulations that pertain to permits, recordkeeping, and reporting requirements for crab and groundfish fisheries off Alaska. The proposed changes are necessary to remove obsolete text, clarify and simplify existing text, facilitate management of the fisheries, promote compliance with the regulations, and facilitate enforcement efforts. This action is intended to further the goals and objectives of the fishery management programs for crab and groundfish fisheries off Alaska.

DATES: Comments must be received by September 7, 2001.

ADDRESSES: Comments must be sent to Sue Salveson, Assistant Administrator, Sustainable Fisheries Division, NMFS, Alaska Region, P.O. Box 21668, Juneau, AK 99802 (Attn: Lori Gravel), or delivered to Federal Building, Fourth Floor, 709 West 9th Street, Juneau, AK, and marked Attn: Lori Gravel. Copies of the Regulatory Impact Review (RIR) prepared for this action may be obtained from the same address or by calling the Alaska Region, NMFS, at 907-586-7228. Send comments on collection-of-information requirements to the same address and to the Office of Information and Regulatory Affairs (OIRA), Office of Management and Budget (OMB), Washington, DC 20503 (Attn: NOAA Desk Officer).

FOR FURTHER INFORMATION CONTACT: Patsy A. Bearden, 907-586-7228.

SUPPLEMENTARY INFORMATION:

Background

NMFS manages the groundfish fisheries in the Exclusive Economic Zone (EEZ) off Alaska and the crab fisheries in the EEZ of the Bering Sea and Aleutian Islands area according to fishery management plans (FMPs) prepared by the North Pacific Fishery Management Council (Council) under the authority of the Magnuson-Stevens Fishery Conservation and Management Act, 16 U.S.C. 1801 et seq. The FMPs are implemented by regulations at 50 CFR part 679. General regulations that also pertain to these fisheries appear in subpart H to 50 CFR part 600.

This action proposes revisions to several sections of the implementing regulations for these FMPs that pertain to permits, recordkeeping and reporting. Most of the proposed revisions are technical edits and clarifications to existing recordkeeping and reporting (R&R) requirements and are described under the section-by-section analysis. The balance of the proposed revisions are more substantial and are highlighted in this document. They would alter current R&R procedures.

Proposed Changes

Several terms would be standardized in this proposed rule and others would be corrected for uniformity wherever they appear. “Central GOA regulatory area” would replace in regulatory text: “Central area of the GOA”, “Central Gulf”, “Central regulatory area of the GOA”, and “GOA central area”. “Western GOA regulatory area” would replace: “Western area of the GOA”, “Western Gulf”, “Western regulatory area of the GOA”, and “GOA western area”. “Eastern GOA regulatory area” would replace: “Eastern area of the GOA”, “Eastern Gulf”, “Eastern regulatory area of the GOA”, and “GOA eastern area”. “Stationary floating processor” would replace “Vessel of the United States operating solely as a mothership in Alaska State waters”. “BSAI” would replace “Bering Sea and Aleutian Islands management area”. “GOA” would replace “Gulf of Alaska management area”. “Maximum retainable amount” would replace “Maximum retainable bycatch amount”. “Exempted fishery” would replace “Experimental fishery”. The term “Bycatch” would be replaced with “Incidental catch” when the meaning is fish caught while targeting on some other fish, but does not include discard of fish that were released or returned to the sea, regardless of whether such fish are brought fully on board a fishing vessel.

The term “ADF&G Number” would be replaced by “ADF&G vessel registration number”. The term “ADF&G processor number” would be replaced by “ADF&G processor code”. In certain logbooks, the term “ADF&G vessel No.” would be replaced by “ADF&G processor code.”

The term “CDQ delivery number” would be replaced by “Date fishing began” wherever it appears in regulatory text, logbooks, and forms. The term “CDQ observer” would be replaced in appropriate regulatory text by “Level 2 observer” to comply with changes in the American Fisheries Act (AFA) program and observer requirements. The gear type “jig/troll” would be separated into two separate gear types, “jig” and “troll.”

Cross references and parenthetical notes would be added for clarity and to point the reader to other sections for additional information.

Figures

Figure 19 would be added to describe Shelikof Strait Conservation Area (SSCA), and the text at § 679.22(b)(3)(iii)(B) would be changed to refer to Figure 19.

Figure 20 would be added to describe the Steller Sea Lion Conservation Area (SCA) of the Bering Sea, and the text at § 679.22(a)(11)(iv)(B) would be changed to refer to Figure 20.

Tables

Table 1—Product and Delivery Codes would be revised.

Relevant to the Individual Fishing Quota (IFQ) Program, the introductory paragraph under IFQ codes would be revised to explain that only two product codes would be authorized for IFQ or CDQ Pacific halibut and that all of the product codes on Table 1 are authorized for IFQ or non-IFQ sablefish.

To accomplish a more accurate accounting of IFQ species weight, effective January 1, 2002, the IFQ landing reporting system (includes automated terminals (ATMs) and manual landings) would require an additional question about whether the fish species weight includes ice and slime, “YES” or “NO.” If YES, the program would calculate a 2-percent deduction from the weight debited from the IFQ permit account. Those fish which have been washed prior to weighing would not be eligible for a positive ice-and-slime response or 2-percent deduction. It is anticipated that any future ice-and-slime products could be easily calculated using the 2-percent approach, without causing disruption to persons submitting reports or to the database.

Also effective January 1, 2002, the following ice-and-slime codes would be removed: 51—Whole fish/food fish with ice & slime; 54—Gutted, head on, with ice & slime; 55—Gutted, head off, with ice & slime; 57—Headed and gutted, Western cut, with ice & slime; 58—Headed and gutted, Eastern cut, with ice and slime. Removal of the ice-and-slime product codes would keep NMFS' product codes consistent with the Alaska Department of Fish & Game (ADF&G) product codes while meeting the needs of the IFQ program for accurate account management.

Product code 02 would be revised by removing two words—“processed for”—from the description of “Whole fish/bait. Processed for bait. Sold” to read “Whole fish/bait. Bait. Sold”. The existing definition mentions processing, which is not appropriate, because no processing takes place.

Product code 11 would be revised from “kirimi” to read “kirimi (steaks)” to further align with ADF&G descriptions.

Product codes 41 and 42, which currently appear on Table 1, would be moved from the discard/disposition section into the general use code section.

Code 88 would be added to mean “Whole fish, discard, infested. Flea-infested fish, parasite-infested fish.”

Code 89 would be added to mean “Whole fish, discard, decomposed. Decomposed or previously discarded fish.”

Code 96 would be removed and replaced by codes 88 and 89. Code 96 meant “discard, decomposed. Flea-infested fish, parasite-infested fish, decomposed, or previously discarded fish”.

Because five major systems use the same product codes, it is necessary that the product codes be uncomplicated, simple, and consistent: (1) When IFQ products are entered through the IFQ reporting system; (2) when groundfish products are reported electronically, either through the shoreside processor electronic logbook report (SPELR) (with the SPELR, the computer keeps track of balances based on the product code itself and does not require separate sections for summary as is the case for the logbooks) or the electronic weekly production report (WPR); (3) when groundfish products are reported in logbooks and WPRs to NMFS; (4) when groundfish products are reported on ADF&G fish tickets; and (5) when groundfish products are reported on the State of Alaska (State) Commercial Operator's Annual Report (COAR). These revisions to Table 1 would place all of the required codes together in one location.

An explanatory footnote (1) and appropriate codes marked with the footnote (1) would be added to use whole fish codes to record round weight of a fish, even if the whole fish is not used (e.g., bait, eaten on board).

The regulatory descriptions of product designations would be removed from the Definitions section, § 679.2 and added to Table 1. Regulatory text discussing use of codes at § 679.5(a)(6)(iii)(F)(2), (3), (4), (5), (6) and (7) would be removed and added to Table 1 as a series of notes within each appropriate code.

Table 2—Species Codes. The species codes would be arranged in alphabetical order for easier reference.

A footnote would be added to Table 2 to revise the code categories formerly called “federally managed” and “State code” to read “FMP species” and “non-FMP species”. This revision would allow a finer description of species that have complex management. For example, black and blue rockfish were removed from the Gulf of Alaska (GOA) FMP but are still part of the Bering Sea and Aleutian Islands Management Area (BSAI) FMP, and come under the “other rockfish” Total Allowable Catch (TAC). Codes 142 (black rockfish, BSAI) and 167 (blue rockfish, BSAI) are added as FMP species. Codes 142 (black rockfish, GOA) and 167 (blue rockfish, GOA) are added as non-FMP species. Jellyfish presents another problem, since it is not federally managed; yet it is not represented by a State code. Another problem is that some species are federally managed at times, and State managed at other times (e.g., Pacific cod). Regulations at § 679.5 require that FMP species be recorded and reported in logbooks and forms. Non-FMP species may be recorded and reported at the discretion of the participant. A note would be added to the table title to explain which species codes are defined as FMP species (Federal groundfish and Federal prohibited species).

The code for Pacific herring would be changed from 230 to 235. Code 230 is the code for a directed fishery; code 235 is the code for prohibited species.

Code 260*, a non-FMP species code, would be revised from “Codling, Pacific flatnose” to read “Pacific flatnose” to agree with the State species description.

Code 701* would be changed to an FMP species code and would read “701—skate, longnose”.

Code 888, a species code used only with the product transfer report (PTR) meaning “mixed species tote”, would be removed because use of this code is in opposition to requiring individual species identification as products. This code was created to assist small processors with small shipments. However, NMFS discovered that the code causes confusion for shipments of species in any quantities from both small and large processors, because shipment weights of individual species are unknown and these species and weights are not deducted from the logbooks.

The forage fish codes and descriptions would be removed from § 679.2 (Definitions) and added to Table 2 as FMP species codes.

The following non-FMP codes would be removed because they are too general in description and not useful for management: 190* Greenling, general; 510 Smelt, general; 880* Oysters; and 896* Sea urchin.

Code 951 would be changed from “multispine” to read “multispina.”

The following non-FMP species codes would be indicated by “*” and would be added to Table 2: 215* Prowfish; 216* Lumpsucker; 515* Smelt, surf; 625* Jellyfish; 680* Sturgeon, general; 714* Ratfish; 715* Skilfish; 720* Albacore; 890* Snails; 892* Sea urchin, red; 893* Sea urchin, green; 951* Multispina crab; and 953* Crab, Verrilli.

Table 3—Product Recovery Rates. A footnote would be added to instruct readers how to obtain round weight of groundfish from product weight, IFQ net weight of Pacific halibut from product weight of halibut, and round weight of Pacific halibut from net weight. Code 86 would be added to the column for values for whole fish product codes. Code 96 would be removed and codes 88 and 89 would be added as a column for values of Infested or Decomposed Fish. The PRR for gutted octopus of § 0.69” would be revised to read § 0.81” based on new research from ADF&G.

Effective January 1, 2002, Table 3 would be revised by removing the IFQ ice-and-slime codes (see Table 1) and corresponding values in conjunction with changes in the IFQ landing reporting requirements. The row entry for “IFQ sablefish” would be removed causing the PRR values to be the same as “sablefish” once the ice-and-slime codes are removed.

Various types of pollock kirimi products have been developed over the years. No PRR has been assigned for these products as a group although industry reports indicate a range of yields from about 18 percent to about 42 percent depending on product form, fish size and buyer specifications. An average PRR for these products is estimated at 25 percent. Pollock kirimi is not an approved product for the purpose of roe retention so producers of pollock kirimi during pollock roe season must discard pollock roe. In response to an industry recommendation, the PRR for pollock kirimi would be established at 0.25 in Table 3.

Table 7—Communities Determined to Be Eligible to Apply for Community Development Quotas. Table 7 would be revised to add seven new communities recognized as Western Alaska Community Development Quota (CDQ) communities based on their location. Add Grayling to the Bering Strait CDQ Group; add Ekwok, Levelock, and Portage Creek and also list Pilot Point and Ugashik as two separate communities in the Bristol Bay CDQ Group; and add Mountain Village, Napuskiuk, Napakiak, and Oscarville to the Southwest Coastal Lowlands CDQ Group.

Table 8—Harvest Zone Codes. Table 8 would be revised by removing code A for “EEZ off Alaska” and adding two new harvest zone codes to give better distinction to NMFS' groundfish database: Code A1 for “BSAI EEZ off Alaska” and code A2 for “GOA EEZ off Alaska.” The requirement to record Harvest zone codes would be removed from the PTR.

Table 9—Required Logbooks, Reports Forms, and Electronic Logbook Reports from Participants in the Federal Groundfish Fisheries. Table 9 would be revised by removing the entry for “Buying Station Daily Cumulative Logbook (DCL)” and replacing it with “Buying Station Report (BSR)”. The table also would be revised by removing the requirement for a buying station check-in and check-out report.

Table 10—Gulf of Alaska Retainable Percentages. Table 10 would be revised by adding species codes next to the species name in the basis species column. Footnote numbers (1) would be added next to grouped species name in the basis species column so that the terms can be looked up in the GOA specifications in the Federal Register or on the Alaska Region Home Page at (http://www.fakr.noaa.gov/ sustainablefisheries/ 2000harvestspecs.htm). The abbreviation SEEO would be corrected to SEO; the meaning of SEO is Southeast Outside District.

Table 11—Bering Sea and Aleutian Islands Management Area Retainable Percentages. Table 11 would be revised by adding a footnote to explain that certain fixed gear restrictions affect the use of the product recovery rate (PRR) values in Table 11. Table 11 is for people using any of the authorized gear types to calculate incidental catch based on a target species. However, if a person is aboard a vessel using fixed gear, retention of sablefish is different from what the table indicates in the following ways: (1) If you have IFQ quota, you must keep all sablefish that are caught (§ 679.7(f)(11)); and (2) if you do not have IFQ quota, you must not retain any sablefish that are caught (§ 679.7(f)(3)(ii)). The footnote would alert the participants to use the table for incidental catch calculations, except when IFQ sablefish and fixed gear are involved. In addition, Table 11 would be revised by adding species codes next to the species name in the basis species column. Footnote numbers (1) would be added next to the grouped species name in the basis species column so that the terms can be identified in the BSAI specifications in the Federal Register or on the Alaska Region Home Page at (http://www.fakr.noaa.gov/ sustainablefisheries).

Table 19—Seabird Avoidance Gear Codes. Table 19 would be added to present seabird avoidance gear codes for use with logbooks of vessels using longline or pot gear.

Groundfish Logbooks and Forms

The term “discard/donation” would be replaced by “discard/disposition” to better describe products that are utilized but not necessarily landed. An additional sheet would be added to each logbook, a goldenrod logsheet, for use by the observer. The distribution list on each logsheet would be corrected on all logsheets to represent the correct distribution sequence. “Jig/troll” would be separated into two separate gear types: “jig” and “troll.” The field entitled “target species” would be replaced by “target species code”. The date on the logsheets would be changed from “2000” to read “2001”.

The “Management Program” block would replace the “CDQ” block, and would be added to the catcher vessel longline and pot gear daily fishing logbook (DFL). The management block lists separate programs under which fish accounting is required (i.e., CDQ, IFQ, Research Program, and Exempted Fishery Program). An operator or manager may use any number of these programs, and if so, must enter the identifying number for the program. A new logsheet must be maintained for each program. A new logsheet must be maintained if more than one identifying number is used within each program.

Removed Definition

“CDQ delivery number” would be removed; the program computer will create an identifying code based on the date fishing started.

Added Definitions

“Agent” would be added to identify a person who may act on behalf of the owner, operator, or manager of a catcher vessel, catcher/processor, mothership, shoreside processor, stationary floating processor, buying station or IFQ Registered Buyer to apply for permits or benefits on behalf of applicants.

“Associated processor” would be added to identify the legal connection between a buying station and a federally permitted mothership, shoreside processor, or stationary floating processor.

“Endorsement” would be added to present cross references to “area endorsement” for the groundfish LLP permits; “area/species endorsement” for the crab LLP permits; and “area endorsements” for the scallop LLP permit.

“Experimental fishery” would be added as a cross reference to § 679.6 and to comply with a national change in use from “experimental fishery” to “exempted fishery.”

“Gear” would be added to create a cross reference to the definition of “authorized fishing gear.”

“Harvest zone codes” would be added as a cross reference to Table 8 to this part.

“Incidental catch or incidental species” would be added to mean fish caught while targeting on some other species, but does not include discard of fish that were released or returned to the sea, whether or not such fish are brought fully on board a fishing vessel. An incidental catch is any species or species group for which a maximum retainable amount is calculated and is expressed as a percentage of the weight of the total fish on board (see Tables 10 and 11 to this part).”

“Product transfer report (PTR)” would be added as a cross reference to § 679.5(g).

“Representative” would be added as a cross reference to § 679.5(b).

“Seabird avoidance gear” would be added to read “(see § 679.24(e), § 679.42(b)(2), and Table 19 to this part).”

“Shoreside processor electronic logbook report (SPELR)” would be added as a cross reference to § 679.5(d).

“Tagged halibut or sablefish” would be added as a cross reference to § 679.40(g).

“Weekly production report (WPR)” would be added as a cross reference to § 679.5(i).

Revised Definitions

“Active/inactive periods” would be revised to become a cross reference to § 679.5(a)(7)(i).

“Ancillary product” would be revised to become a cross reference to Table 1 to this part, and the definition text would be added to Table 1.

“Bycatch species” would be revised to read “bycatch or bycatch species” to mean fish caught and released while targeting another species or caught and released while targeting the same species.

Paragraph (1)(v) of “fishing trip” would be revised to exclude catcher vessels which do not operate on a weekly reporting period.

“Forage fish” would be revised to become a cross reference to Table 2 to this part.

“Gear deployment” would be revised to read “gear deployment (or to set gear)” and to describe both position and time.

Paragraph (1) Position of gear deployment (lat. and long. to the nearest minute). “Trawl gear” is unchanged. “Longline gear” would be changed to read “hook-and-line gear” and would be changed from “where the gear enters the water” to read “the beginning position of a set of hook-and-line gear.” “Jig or troll gear” would be added to mean “the position where the jig or troll gear enters the water.” “Pot gear” would be revised from “where the first pot enters the water” to read “the position of the first pot in a string of pots.”

Under paragraph (2) “Time of gear deployment (A.l.t.),” “trawl gear” would be added to read “the time when the trawl gear reaches the fishing level and begins to fish.” “Hook-and-line gear” would be added to read “the time when the first hook-and-line gear of a set is deployed. “Jig or troll gear” would be added to read “the time when jig or troll gear enters the water.” “Pot gear” would be added to read “the time when the first pot in a string of pots is deployed.”

“Gear retrieval” would be revised to read “gear retrieval (or to haul gear)” and to create two elements within gear retrieval: position and time where previously “gear retrieval” was defined only in terms of position. Also, the requirement to record time would be revised from “Alaska local time (A.l.t.), to the nearest hour” to read “Alaska local time” without specifying to the nearest hour. Many fishermen have commented that sometimes only minutes separate activities and to round to the nearest hour results in confusing entries.

Paragraph (1) Position of gear retrieval (lat. and long. to the nearest minute). “Trawl gear” is unchanged. “Hook-and-line or longline pot gear” would be split into “hook-and-line” and “pot gear.” “Hook-and-line gear” would be added to mean “the position where the last hook-and-line gear of a set leaves the water, regardless of where the majority of the set took place.” “Pot gear” would be added to mean “the position where the last pot of a set is retrieved, regardless of where the majority of the set took place.” “Jig or troll gear” remains unchanged.

Paragraph (2), Time of gear retrieval (A.l.t.) would be added. “Trawl gear” would be added to mean “the time when retrieval of trawl gear cable commences.” “Hook-and-line gear” would be added to mean “the time when the last hook-and-line gear of a set leaves the water.” “Jig or troll gear” would be added to mean “the time when the jig or troll gear leaves the water.” “Pot gear” would be added to mean “the time when the last pot of a set is retrieved.”

“Groundfish” would be revised by adding cross references to the definitions for license limitation program groundfish, CDQ species, and IR/IU species; and as a cross reference to § 679.20 and to FMP species presented in Table 2 to this part.

“Logbook” would be revised by removing the buying station daily cumulative logbook.

“Person” would be revised to include non-citizens. The term “person” is intended to apply to any person—U.S. citizen and non-U.S. citizen alike (e.g., the prohibitions section).

“Primary product” would be revised to create a cross reference to Table 1, and the definition text added to Table 1.

“Prohibited species” would be added, unchanged from § 679.21(b)(1) to make it easier to find.

“Reprocessed or rehandled product” would be revised to create a cross reference to Table 1 to this part, and the definition text added to Table 1.

“Sablefish (black cod)” would be revised by adding cross references to IFQ sablefish; fixed gear sablefish at § 679.31(b); and sablefish as a prohibited species at § 679.24(c)(2)(ii).”

“Set” would be revised to improve consistency of recording and reporting of pot gear information and to more precisely define gear deployment and retrieval when the fishermen are using pot gear.

Section 679.4 Permits

General Permit Information

Paragraph (a) would be added to summarize who is qualified for and who must obtain a permit. Paragraph (a)(1) would be added as a table presentation showing program/permit types available, effective dates, and other information. Paragraph (a)(2) would be added as a table presentation showing permit and logbook requirements by type of participant and fishery. Former paragraphs (a)(1) through (6) would be redesignated as paragraphs (a)(3) through (a)(8) respectively. The heading of paragraph (a)(3) would be revised to a Question and Answer (Q&A) format. Newly redesignated paragraph (a)(3)(iii) would be revised to remove the words “buying station”, because only vessel buying stations are required to obtain a permit and vessels are already mentioned in the paragraph. Paragraph (a)(3)(v) would be added to state that permits are issued free-of-charge; this statement originally was found at paragraphs (b)(1) and (f)(1), but all permits are issued free-of-charge.

Federal Fisheries Permit

Section 679.4(b)(3)(ii) would be divided into paragraphs (b)(3)(ii) and (iii) to present equally these two requirements. Paragraph (b)(3)(iv) would be added; this information was formerly found only on the permit application and needs to be included in the regulations.

The heading for paragraph (b)(5) would be revised to the Q&A format. Paragraph (b)(5) would be reorganized. Paragraph (b)(5)(iii) would be revised to ask whether the vessel is used as a stationary floating processor. A stationary floating processor, even if it is a vessel, would take on the identity of a shore facility and would be issued a Federal processor permit.

IFQ Permits

The heading for paragraph (d) would be revised to include the word “permits.” Paragraph (d)(2) would be revised to list all of the persons who NMFS requires to have a Registered Buyer permit listed in one place. The heading for paragraph (d)(3) would be revised to a Q&A format and paragraph (d)(3)(i)(A) would be revised to include all persons who may need renewal of IFQ permits and cards.

Federal Processor Permits

The heading for paragraph (f)(2) would be revised to the Q&A format. Paragraph (f)(2) would be reorganized. Paragraph (f)(2)(iii) would be added to incorporate the stationary floating processor. A stationary floating processor, even if it is a vessel, would take on the identity of a shore facility and would be issued a Federal processor permit. Questions would be added to paragraph (f)(2)(iv) as to whether the shoreside processor is replacing a previous processor at this facility; if yes, name of previous processor; and whether there are multiple processors at this facility.

Section 679.5 Recordkeeping and Reporting

General Requirements

Section 679.5 would be reorganized by removing duplication within sections, shortening descriptions of mundane tasks, and presenting options in tabular form so that specific requirements may be quickly located. The logbooks with similar time limits would be listed in one reference table in paragraph (a). Requirements for the mothership daily cumulative production logbook (DCPLo) (formerly § 679.5(e)) and the shoreside processor DCPL (formerly § 679.5(f)) would be integrated into general sections at § 679.5(a). In several instances, headings in the Q&A format would replace existing headings. In-text tables would be used to display complex relationships to sort out multiple options, steps, conditions, and choices.

The heading for paragraph (a)(1) would be revised to the Q&A format. Paragraph (a)(1)(i) would be revised to add that the owner, operator, or manager of the listed participants is responsible for compliance with R&R. Paragraph (a)(1)(i)(D) would be added; this paragraph was moved from former paragraph(a)(2) and adds that the shoreside processor and stationary floating processor also are participants. Paragraph (a)(1)(i)(E) would be added to explain the meaning of operator and manager. The headings for paragraphs (a)(1)(ii) and (iii) would be revised to the Q&A format. Paragraph (a)(1)(iii) would be redesignated as paragraph (a)(1)(iii)(A). The heading for paragraph (a)(1)(iv) would be removed and paragraph (a)(1)(iv) would be redesignated as paragraph (a)(1)(iii)(B). Paragraphs (a)(1)(iv)(A) through (C) would be redesignated and revised as paragraphs (a)(1)(iii)(B)(1) and (2), respectively. Paragraphs (a)(1)(iv)(A)(1) and (2) would be redesignated as paragraphs (a)(1)(iii)(B)(1)(i) and (ii), respectively. Paragraph (a)(1)(v) would be redesignated as paragraph (a)(1)(iv). Paragraph (a)(1)(v) introductory paragraph would be redesignated as paragraph (a)(1)(v)(A) and would be revised to clarify that catcher vessels over 60 ft (18.3 m) LOA must meet this requirement. Paragraph (a)(1)(v)(B) would be added to explain that participants using longline or pot gear who are not involved with the CDQ or IFQ fisheries need also to use this logbook. Paragraph (a)(3) would be redesignated as paragraph (a)(2). Paragraphs (a)(3)(i) and (ii) would be combined into paragraph (a)(2)(i). Paragraph (a)(3)(iii) would be redesignated as paragraph (a)(2)(ii). Paragraph (a)(2)(iv) would be added to explain that a buying station owner, operator or manager must be associated with a processor prior to receiving groundfish. Paragraph (a)(4) would be redesignated as paragraph (a)(3). Paragraph (a)(4)(iii) would be removed because the buying station logbook has been removed as a requirement.

Paragraph (a)(3)(iv) would be redesignated as paragraph (a)(4) and would be revised by: Removing the expiration date from the heading; adding the words “or receiving pollock harvested in a directed pollock fishery” that are newly required under the AFA; changing references from paragraph (f)(3) to paragraph (d) and from paragraph (f)(4) to paragraph (e); and removing the last sentence because it duplicates newly redesignated paragraph (a)(2)(i).

Section 679.5(a) would be revised to present common descriptions in one section, to eliminate duplication, and to ensure uniformity in R&R requirements. Paragraph (a)(5)(i) would be revised to include the name and signature of the operator or manager. Paragraph (a)(5)(ii) would be revised to present catcher vessel identification; name of catcher vessel was formerly at paragraph (a)(5)(i). Paragraph (a)(5)(iii) would be revised to present shoreside processor or stationary floating processor identification; name of shoreside processor was formerly at paragraph (a)(5)(i). In addition, the geographic location of plant would be requested, because some processors have more than one plant. Paragraph (a)(5)(vi) would be redesignated as paragraph (a)(5)(iv) to present mothership or catcher/processor identification; name of mothership or catcher/processor was formerly at paragraph (a)(5)(i). Paragraph (a)(5)(iv) would be redesignated as paragraph (a)(5)(v) and would be revised to present buying station identification; name of buying station was formerly at paragraph (a)(5)(i) and the remainder of the information was at paragraph (a)(5)(iv). In addition, the vehicle registration number of the buying station would be requested, in the event that the buying station is a truck. Paragraph (a)(5)(v) would be removed and incorporated into § 679.5(b); this would be done to keep all of the representative information together. Paragraph (a)(5)(vi) would be removed because the signature information would be included at paragraph (a)(5)(i).

Paragraph (a)(6) would be revised by adding introductory text. Paragraph (a)(6)(i) would be revised to account for removal of the introductory text. Paragraph (a)(6)(ii) would be revised to incorporate use of the “inactive” boxes on the logbook from paragraph (a)(7)(i). Paragraph (a)(6)(ii)(C) would be added to instruct user on completion of inactive box due to surrendered permit. Paragraph (a)(6)(iii)(B) would be redesignated as paragraphs (a)(6)(iii)(A), and a table would be added presenting description of dates to be recorded in the logbook and buying station report (BSR) by participant. Paragraphs (a)(6)(iii)(B)(1) through (3) would be removed because the logbook formats have changed. A new paragraph (a)(6)(iii)(B) would be added to describe week-ending date. Paragraph (a)(6)(iii)(C) would be unchanged. Former paragraph (a)(6)(iii)(A) would be redesignated as paragraph (a)(6)(iii)(D) and the heading revised. A new paragraph (a)(6)(iii)(E) introductory text would be added to describe logbook numbering. Paragraph (a)(6)(iii)(E)(1) would describe numbering of logbooks of the same gear type. Paragraph (a)(6)(iii)(E)(2) would describe numbering of logbooks of different gear types. Paragraph (c)(1) would be redesignated as paragraph (a)(6)(iii)(E)(3) and revised to instruct about separate DFLs for each vessel, paginated separately. Paragraph (a)(6)(iii)(E) would be redesignated as paragraph (a)(6)(iii)(F) and revised to remove mention of the buying station daily cumulative logbook (DCL) and to simplify the text.

Paragraph (a)(6)(iii)(F) would be removed. This paragraph described product codes, whole fish codes, discard product codes, and product designations. All of the information contained formerly in this section would be added to Table 1 to this part. Paragraph (a)(6)(iii)(G) would be removed. This paragraph described species codes. All of the information contained formerly in this section would be added to Table 2 to this part.

The heading for paragraph (a)(7) would be revised. Paragraph (a)(7)(i) would be added to paragraph (a)(6)(ii). A new paragraph (a)(7)(i) would be added to describe fishing activity, active period and inactive period by participant formerly found in paragraphs (a)(7)(ii), (iii) and (iv). A new paragraph (a)(7)(ii) would be added to describe recording of non-activity formerly found in paragraphs (a)(7)(ii), (iii) and (iv), (a)(8), (a)(9), and (a)(10). A new paragraph (a)(7)(iii) would be added to describe recording of fishing activity formerly found in paragraphs (a)(7)(ii), (iii) and (iv). A new paragraph (a)(7)(iii)(E) would be added to describe recording of participant information when not active.

A new paragraph (a)(7)(iv) would be added to describe weight, formerly found in paragraphs (a)(8), (a)(9), and (a)(10). A new paragraph (a)(7)(v) in tabular format would be added to describe recording of weight, formerly found in paragraphs (a)(8), (a)(9), and (a)(10). Three new paragraphs (a)(7)(vi), (vii), and (viii) would be added as cross references to Tables 1 and 2.

Paragraph (a)(7)(v)(A) would be redesignated as paragraph (a)(7)(ix) and revised. New paragraph (a)(7)(x) would be added to present all of the occasions that would trigger a separate logsheet, WPR, or check-in/check-out report. Paragraph (a)(7)(v)(B) would be redesignated as paragraph (a)(7)(xi) and revised. New paragraph (a)(7)(xii) would be added to present areas with a reporting area that need to be reported if harvest was with trawl gear, formerly found in paragraphs (a)(8), (a)(9), and (a)(10). Paragraph (a)(7)(v)(C) would be redesignated as paragraph (a)(7)(xiii) and revised. A new requirement for shoreside processor or stationary floating processor would be added to record the dates each observer was present.

Paragraph (a)(7)(v)(D) would be redesignated as paragraph (a)(7)(xiv) to describe crew size and would be revised. Former paragraph (a)(7)(v)(E) would be redesignated as paragraph (a)(7)(xv) and revised. This revision in tabular form adds other special programs to record, similar to the CDQ program and instructs how to record them.

Paragraph (a)(8) and paragraph (a)(8)(i) would be revised. A new requirement would be added as paragraph (a)(8)(ii) to describe how to record landings as product under certain conditions. Paragraph (a)(9), the heading for paragraph (a)(9)(i) and the text of paragraph (a)(9)(i) would be revised. Former paragraph (a)(11) would be redesignated as paragraph (a)(9)(ii) and revised because this paragraph refers to production. Paragraph (a)(10) would be revised. This paragraph would present requirements by participant type. Paragraph (a)(10)(vii) would be added to present time limit requirements for all participants in tabular form for recording discards and disposition.

A new paragraph (a)(11) would be added to present delivery information, formerly found at paragraphs (a)(15) and (a)(16), by participant type.

Paragraph (a)(13)(ii)(A) would be revised to describe what “on-site” means. Paragraph (a)(13)(ii)(B) would be revised to remove mention of the buying station. Paragraphs (a)(13)(ii)(C) through (F) would be removed because some of the instructions are duplicative of regulations found at other locations. Also the buying station logbook would be removed; therefore, the detailed instructions on handling the DCL would not be necessary.

Paragraph (a)(14) introductory text would be removed as duplicative text. Paragraph (a)(14)(i) would be revised. Paragraphs (a)(14)(ii) and (iii) would be revised to remove the buying station DCL and to add the goldenrod logsheet to all logbooks. Former paragraphs (a)(15) and (a)(16) would be removed and incorporated into new paragraph (a)(11).

New paragraph (a)(11) would add a comparison of different transfer forms in the regulations (VAR, PTR, IFQ shipment report, IFQ transshipment authorization, IFQ vessel clearance, IFQ departure report, and IFQ dockside sale receipt).

Representative

Section 679.5(b) would be revised to incorporate former paragraph (a)(5)(v), representative’s identification. This revision would bring all of the requirements for the representative to one location.

Catcher Vessel DFLs and Catcher/Processor DCPLs

Section 679.5(a)(7)(xiv) and (c)(1) would be removed and incorporated into paragraph (a)(6)(iii)(E)(3). Paragraph (c)(2) would be removed and incorporated into paragraph (a)(11)(iv). Paragraph (c)(3) would be incorporated into earlier sections for those items that have common description and all duplicative text would be removed.

Paragraph (c)(1) would add a new requirement in the longline and pot gear DFL and DCPL to record bird avoidance gear code when using longline gear. A check-box would be added to allow the operator, after completing all information regarding gear on one logsheet, to check the box on each subsequent logsheet if all gear information remains the same instead of re-entering that information on subsequent logsheets. The column entitled “All other species” would be changed from “pounds” to read ”(lb or mt).” The column entitled “Landing date” in the DFL delivery block would be replaced with “Date.” The title of the delivery block in the DCPL would be changed from “IFQ landings” to “Delivery,” because this logsheet is used by both IFQ and non-IFQ participants. The term “haul” would be removed from the DFL and DCPL in order to establish a standard method for recording pot gear information. Records would be defined in terms of “set” and the option to record “haul” would be removed. “Haul or set No.” would be removed and replaced with “set No.” “Begin position of haul or set” would be removed and replaced with “begin position of set.” “End position of haul or set” would be removed and replaced with “end position of set.”

In the trawl gear DFL and DCPL, the requirement to record “haul or set number” would be revised to “haul number.”

Buying Station Report (BSR)

Section 679.5(d) describing the buying station daily cumulative logbook (DCL) would be removed and in its place a new requirement, the BSR, would be added. The information required by the BSR would be the same as required by the multi-copy DCL. The BSR would allow the public a more flexible method of recording catcher vessel deliveries, by using an 8½ × 11 inch (0.21 × 0.27 m) sheet that can be easily photocopied. In addition, if a catcher vessel operator by prior arrangement with a processor will ship his groundfish catch directly to that processor that is not located where the catcher vessel is offloaded, the catcher vessel operator would complete a BSR to describe the catch and send the completed BSR with the shipment via truck or airline. When the shipment arrives at the processor, the information from the BSR would be incorporated into the DCPL.

Mothership DCPL

Paragraph (e), mothership DCPL requirements, would be removed because the text incorporated into general requirements at paragraph (a) for those items that have common description and all duplicative text would be removed. In the mothership DCPL, the field requesting information on crew size would be changed from: “number of processing crew, number of other crew, and total number of crew” to read “crew size.” This change would make the mothership DCPL consistent with the other processor logbooks.

Shoreside Processor DCPL

Section 679.5(f), shoreside processor DCPL requirements, would be removed because the text would be incorporated into general requirements at paragraph (a) for those items that have common description and all duplicative text would be removed.

In the shoreside processor DCPL, the field “date” would be replaced by “week-ending date”, because each page may be used for 1 week.

Shoreside Processor Electronic Logbook Report (SPELR)

Paragraph (f)(3) would be removed and redesignated as paragraph (e) and the heading for paragraph (e) would be revised. A new requirement at paragraph (e)(1)(i)(B) would extend the required use of the SPELR to shoreside processors or stationary floating processors that receive pollock harvested in a directed pollock fishery. All SPELR records must be available for inspection and must be retained for 3 years after the end of the fishing year.

SPELR Printed Reports

Requirements for the SPELR printed reports (formerly § 679.4(f)(4)) would be added at new paragraph (f), and the expiration date for the paragraph on SPELR printed reports would be removed. All SPELR printed reports must be available for inspection and must be retained for 3 years after the end of the fishing year. The owner or manager would be required to sign and enter date of signature onto each SPELR printed report.

Groundfish Product Transfer Report (PTR)

Section 679.5(g) would be revised by consolidating the two existing PTR formats (one for processor vessels, one for shoreside processors) into one, and the text that describes the information required would be clarified and simplified. A box to identify type of processor, a box to identify whether sender is the shipper or receiver, and a column entitled “species weight” to accommodate information on mixed species transfers would all be added. This column would be used to enter information for specific species products that are packaged together in one box and shipped to one destination. The weight of each product by species and product code would be recorded in addition to number of units, unit weight, and total weight.

The U.S. Coast Guard (USCG) document number of vessel processors, the page number along with the requirement to maintain a continuous numbering of the PTRs, the use of the term “offload,” and use of the harvest zones and the requirement to record them would be removed. The use of product code 888 of the PTR would be prohibited.

The current requirement for a PTR is to obtain the total fish product weight for each species/product transferred, which includes recording the number of production units and average fish product weight of one production unit. Because all shoreside processors and many catcher/processors and motherships now have at-sea scales on board, an option would be added to allow actual scale weights for the total fish product weight and for each species/product. The intention of these revisions would be to allow a standard, straightforward form with options under a variety of conditions.

Submittal requirements would be changed to include electronic submittal as well as FAX submittal of the PTRs to NMFS.

Check-in/Check-Out Reports

Section 679.5(h) would be reorganized and revised for clarity. Submittal requirements would be changed to include electronic submittal as well as FAX submittal of the reports to NMFS.

In the mothership and catcher/processor check-in and check-out report, replace the existing management block and add “species” after “target” in the fields requesting target species codes.

In the shoreside processor check-in and check-out report, replace the existing management block and add “or process” after the words “ceased to receive”.

Weekly Production Report (WPR)

Section 679.5(i) would be reorganized and revised for clarity. Submittal requirements would be changed to include electronic submittal as well as FAX submittal of the reports to NMFS.

In the mothership and catcher/processor WPR and shoreside processor WPR, the existing management block would be replaced with the new version. The gear type “jig/troll” would be separated into “jig” and “troll”. The word “code” would be added after “target species.”

Daily Production Report (DPR)

In the DPR, the existing management block would be replaced with the new version. The gear type “jig/troll” would be separated into “jig” and “troll.” The word “code” would be added after “target species.”

U.S. Vessel Activity Report (VAR)

Section 679.5(k) would be reorganized and revised for clarity. A new question would be added to ask the type of vessel (catcher vessel, catcher/processor or mothership). Two new harvest zone codes would be added to describe the EEZ of the BSAI and the GOA. Submittal requirements would be changed to include electronic submittal as well as FAX submittal of the reports to NMFS.

IFQ Recordkeeping and Reporting Requirements

The manner in which Registered Buyers indicate the presence of ice and slime in reported weights of IFQ fish products in IFQ landing reports would be changed. In the current system, Registered Buyers indicate the presence of ice and slime by selecting a product code in the “50” number series, all of which indicate that the reported weight includes ice and slime and for which the stored system product recovery rate (PRR) or conversion factor (CF) includes a correction to account for the non-flesh weight. The proposal would eliminate the “50” series product codes, and their PRRs and CFs.

The current PRRs and CFs result in too small an IFQ equivalent weight deduction, and a de facto deduction for ice and slime that actually exceeds the intended 2 percent. In addition, the current reporting system is not synchronized with the code system of the Alaska Department of Fish and Game (ADF&G) (in which the “50” series has not been adopted), and additionally has proven to be inflexible when an inseason need arises to authorize reporting of additional product forms that include ice and slime. To address this, the reporting system would be modified by: (1) eliminating the “50” series special codes; and instead (2) asking a specific question about whether the reported weight includes ice and slime (in addition to flesh weight). The database would use both the reported product code and the ice/slime question answer to determine how to convert the reported weight to the “IFQ equivalent weight” to be deducted from the appropriate account. To accomplish this, the IFQ database structure would be modified by making extensive changes to the programming code (i.e., the code that calculates, stores, and accomplishes editing of previously entered landings data).

For example, if eastern cut sablefish (product 08) is reported with ice and slime, the system would multiply the reported weight by 0.98 and multiply the resulting flesh weight by 1 ÷ 0.63 to derive the IFQ equivalent weight for which the account is debited. If reported as being without ice and slime, the flesh weight would be converted by simply multiplying the reported product weight by 1 ÷ 0.63.

The following tables illustrate IFQ equivalent weight differences between the current calculation method (using the “50” series product codes and their PRRs and CFs) and the proposed method (which would deduct the 2 percent ice and slime weight then convert the remaining flesh using “standard” PRRs and CFs). Sample data are shown for 100 and 100,000 pounds of halibut or sablefish weight reported for selected products.

Halibut Sample Conversion Data
Reported weight (lb) | Product description | Current system: Halibut product | Current system: Conversion factor | Current system: Current IFQ equivalent weight (lb) | Proposed system: Halibut product | Proposed system: Conversion factor | Proposed system: Proposed IFQ equivalent weight (lb)
100 | Gutted | 04 | 0.9 | 90 lb | 04 | 0.9 | 90
100 | Gutted w/IS¹ | 54 | 0.88 | 88 (−0.2 lb → 2.2% IS allowance) | 04 | 0.9 | 88.2
100,000 | Gutted w/IS | 54 | 0.88 | 88,000 (−200 lb; → 2.2% IS allowance) | 04 | 0.9 | 88,200
100 | H&G | 05 | 1.0 | 100 | 05 | 1.0 | 100
100 | H&G w/IS | 55 | 0.98 | 98 | 05 | 1.0 | 98
100,000 | H&G w/IS | 55 | 0.98 | 98,000 | 05 | 1.0 | 98,000
¹ Means Ice and Slime.

Sablefish Sample Conversion Data
Reported weight (lb) | Product description | Current system: Halibut product | Current system: Conversion factor | Current system: Current IFQ equivalent weight (lb) | Proposed system: Halibut product | Proposed system: Conversion factor | Proposed system: Proposed IFQ equivalent weight (lb)
100 | Whole | 01 | 1.0 | 100 | 01 | 1.0 | 100
100 | Whole w/IS ¹ | 51 | 1.02 | 98.04 | 01 | 1.0 | 98
100 | Gutted, head on | 04 | 0.89 | 112.36 | 04 | 0.89 | 112.36
100 | Gutted, head on w/IS | 54 | 0.91 | 109.89 (−0.22 lb; → 2.2% IS allowance) | 04 | 0.89 | 110.11
100,000 | Gutted, head on w/IS | 54 | 0.91 | 109,890 (−222 lb; → 2.2% IS allowance) | 04 | 0.89 | 110,112
100 | Eastern cut | 08 | 0.63 | 158.73 | 08 | 0.63 | 158.73
100 | Eastern cut w/IS | 58 | 0.65 | 153.85 (−1.71 lb; → 3.1% IS allowance) | 08 | 0.63 | 155.56
100,000 | Eastern cut w/IS | 58 | 0.65 | 153,846 (−1,710 lb; → 3.1% IS allowance) | 08 | 0.63 | 155,556
¹ IS means Ice and Slime.

Section 679.5(l) would be reorganized and revised for clarity.

Prior Notice of Landing. The prior notice of IFQ landing (§ 679.5(l)(1) would be revised by adding a requirement to record the IFQ regulatory area in which the IFQ halibut or IFQ sablefish were harvested and by adding a clarification of exemption for submittal of the prior notice of landing.

Landing Report. The landing report (§ 679.5(l)(2)) would be revised by adding requirements to debit all IFQ catch aboard a vessel and to record gear type reported by cardholder, whether ice and slime is included in the weight of fish (effective January 1, 2002), and whether halibut is incidental catch concurrent with legal landing of salmon or a legal landing of lingcod harvested with dinglebar gear. In addition, if the vessel operator is the Registered Buyer reporting the IFQ landing, the accurate weight of IFQ sablefish processed product obtained before the offload may be substituted for the initial accurate scale weight at time of offload.

Shipment Report. The shipment report (§ 679.5(l)(3)) would be revised by adding a requirement to describe short-distance movement of IFQ fish when a Registered Buyer's facility is a short distance from where the fish were landed.

Transshipment Authorization. Section 679.5(l)(4) would be revised by adding the list of required information to obtain a transshipment authorization).

Vessel Clearance and Departure Report. Section 679.5(l)(5) would be revised by reorganizing and revising the text to show that a departure report (a document) is a type of vessel clearance and is issued only under specific conditions. A vessel clearance occurs when a vessel physically goes into a port to obtain prelanding written clearance of the vessel by a NOAA Office for Enforcement (NOFE) representative. A departure report clearance occurs when a vessel operator informs NOFE by telephone of intentions to obtain a prelanding written clearance for the vessel at a port in a state other than Alaska.

IFQ Cost Recovery Program

Paragraph 679.5(l)(7) would be changed to allow electronic submittal of the annual register buyer/shoreside processor IFQ Buyer Report and of the IFQ Permit Holder Fee Submission Form and fees from permit holders.

Consolidated Weekly ADF&G Fish Tickets From Motherships

Section 679.5(m) would be revised to clarify the Federal requirement for motherships to complete ADF&G fish tickets, detailing information requirements for each delivering catcher vessel as well as for the mothership. The deadline for operators of motherships to submit completed fish tickets to ADF&G would be revised from 30 days to 45 days.

Groundfish CDQ Fisheries

Section 679.5(n)(1)(i) would be revised to add a heading in the Q&A format, insert “stationary floating processor” and to add a sentence indicating that if using the SPELR to report to NMFS, a CDQ delivery report is not required. Section 679.5(n)(1)(ii) would be revised to remove the term, “operator” because that term refers to personnel aboard a vessel. Section 679.5(n)(1)(iii) would be revised to conform to the format and content of the revised CDQ delivery report.

Section 679.5(n)(2)(i) would be revised to add a heading in the Q&A format and to insert “stationary floating processor”.

Section 679.5(n)(2)(ii) would be revised to reformat the text for clarity. Section 679.5(n)(2)(iii), (iv), and (v) would be revised to conform to the format and content of the revised CDQ catch report.

Catcher Vessel Cooperative Pollock Catch Report

The heading for § 679.5(o) would be revised to remove the expiration date.

Section 679.7 Prohibitions

Section 679.7(a)(10) would be amended to add prohibitions against mutilation of permits and cards, inaccurate information, and false information. Paragraph (a)(11)(i) would be added to prohibit the use of a catcher vessel or catcher/processor as a tender vessel before offloading all groundfish harvested or processed by that vessel. Paragraph (a)(11)(ii) would be amended to add a prohibition against operating a vessel or land-based buying station without an associated processor.

Section 679.21 Prohibited Species Bycatch Management

In § 679.21(b)(1), the definition for “prohibited species” would be removed and placed in the definitions section (§ 679.2) in alphabetical order.

Section 679.22 Closures

Section 679.22(a)(11)(iv)(B) would be revised to add a cross reference to Figure 20-Steller Sea Lion Conservation Area. Paragraph (b)(3)(iii)(B) would be revised to add a cross reference to Figure 19-Shelikof Conservation Area.

Section 679.24 Gear Limitations

Section 679.24(a)(1) currently refers to marking of longline marker buoys. This section would be revised to extend the requirement to include hook-and-line, longline pot, and pot-and-line gear. In paragraph (a)(1)(iii), “vessel's registration” number' would be replaced with “vessel's ADF&G registration number”.

Section 679.24(b)(2) refers to net-sounder devices on pelagic trawl gear. This requirement is obsolete and would be removed. Modern net-sounders do not print recordings but rather provide real-time video images of much improved quality.

Section 679.24(e)(1) would be amended to add a requirement that the operator record the appropriate bird avoidance gear code (see Table 19 to this part) in the catcher vessel longline and pot DFL or catcher/processor longline and pot DCPL.

Section 679.31 CDQ Reserves

In § 679.31, paragraph (d)(2) would be removed (the paragraph expired on December 31, 1999). Paragraph (d)(1) would be added to paragraph (d).

Section 679.32 Groundfish and Halibut CDQ Catch Monitoring

Section 679.32(a)(2) would be removed due to an expired date. Paragraph (a)(1) would be redesignated as paragraph (a).

Section 679.40 Sablefish and Halibut QS

New paragraphs (a)(2)(i)(C) and (D) would be added to the definition of “Qualified person” to mean a citizen of the United States at the time of application for QS and a corporation, partnership, association, or other entity that would have qualified to document a fishing vessel as a vessel of the United States during the QS qualifying years of 1988, 1989, and 1990.

Section 679.41 Transfer of Quota Shares and IFQ

Section 679.41(i)(2), which deals with IFQ category redesignation for IFQ transfer, would be removed because the date of effectiveness expired February 24, 1997. Paragraph (i)(3) would be redesignated as paragraph (i)(2).

Section 679.42 Limitations on Use of QS and IFQ

In § 679.42, paragraph (c)(2) would be revised. Paragraphs (c)(2)(i) and (c)(2)(ii) would be added to include halibut or sablefish landings offshore and made into product prior to offload. Paragraph (c)(3) would be added to require that all IFQ catch onboard a vessel be debited from the IFQ permit holder's account under which the catch was harvested.

Classification

Notwithstanding any other provision of law, no person is required to respond to nor shall a person be subject to a penalty for failure to comply with a collection of information subject to the requirements of the PRA unless that collection of information displays a currently valid Office of Management and Budget (OMB) control number.

This proposed rule contains collection-of-information requirements subject to the Paperwork Reduction Act (PRA).

The following requirements and estimated response times have been approved by OMB and are organized by their OMB control number:

0648-0206: 5 hours for an exempted fishery progress report; 5 hours for an exempted fishery permit application; and 30 minutes for a High Seas Power Troller Salmon Permit.

0648-0213: 35 minutes for Weekly Cumulative Mothership ADF&G Fish Tickets; 14 minutes for U.S. Vessel Activity Report.

0648-0269: 1 hour for CDQ Delivery Report; and 15 minutes for CDQ catch report.

0648-0316: 40 hours for an application; 40 hours for documentation by a distributor; 6 minutes for labeling and product tracking of a shipment by a vessel or processor; and 15 minutes to provide documentation on a vessel or processor).

0648-0401: 30 minutes for daily completion of the SPELR and the estimated time to electronically submit the SPELR (30 min./day); and 5 minutes for estimated time to print the SPELR reports.

0648-0428: 8 hours to complete and submit the COAR.

The following requirements are new or revised and have been submitted to OMB for approval:

0648-0206: 20 minutes for the Federal Fisheries Permit/Federal Processor Permit Application.

0648-0213: 17 minutes for Catcher Vessel trawl gear DFL; 28 minutes for Catcher Vessel longline and pot gear DFL; 31 minutes for Catcher/processor trawl gear DCPL; 41 minutes for Catcher/processor longline and pot gear DCPL; 31 minutes for Shoreside processor DCPL; 31 minutes for Mothership DCPL; 8 minutes for Shoreside Processor Check-in/Check-out Report; 7 minutes for Mothership or Catcher/processor Check-in/Check-out Report; 11 minutes for Product transfer report; 17 minutes for Weekly Production Report; 11 minutes for Daily Production Report; estimated time to electronically submit the weekly production report (5 min./report); 5 minutes to electronically submit the check-in/check-out report; 23 minutes for buying station report.

0648-0272: 12 minutes for IFQ Prior notice of landing; 12 minutes for IFQ Landing report; 18 minutes for IFQ Shipment report; 12 minutes for IFQ Transshipment authorization; 12 minutes for IFQ Vessel clearance; 6 minutes for IFQ Departure report; 6 minutes for IFQ Dockside sale; 6 minutes for Administrative waiver.

0648-0353: 15 minutes to paint each buoy with the vessel name and Federal permit number, or ADF&G registration number.

The estimated response times shown include the time to review instructions, search existing data sources, gather and maintain the data needed, and complete and review the collection of information.

Public comment is sought regarding whether these proposed collections of information are necessary for the proper performance of the functions of the agency, including whether the information shall have practical utility; the accuracy of the burden estimate; ways to enhance the quality, utility, and clarity of the information to be collected; and ways to minimize the burden of the collection of information, including through the use of automated collection techniques or other forms of information technology. Send comments on these or any other aspects of the collection of information to NMFS and OMB (see ADDRESSES).

The NMFS Alaska Region prepared an Regulatory Impact Review/Initial Regulatory Flexibility Analysis (RIR/IRFA) that describes the impact this proposed rule, if adopted, would have on small entities. The number of small entities to which the proposed rule will apply are identified as: 1,254 catcher vessels; 47 catcher processors; 32 onshore processors, 6 CDQ groups; 268 buying stations; 1,613 halibut fishing operations; and 92 Registered Buyers.

This RIR/IRFA analyzes proposed amendments to regulations at 50 CFR part 679 that would revise R&R regulations for the Alaska groundfish fisheries and for the IFQ halibut and sablefish fisheries off of Alaska. The objectives of the proposed actions are: to clarify and simplify the regulations pertaining to the management of the groundfish fisheries and the IFQ halibut and sablefish fisheries in the waters of the BSAI and the GOA; to ease certain regulatory burdens to reduce the cost of operation for fishermen and increase compliance with regulations; to reduce the costs of enforcing fisheries regulations; to enhance the value of the pollock fisheries managed under the AFA; to reduce the costs of compliance with pollock reasonable and prudent alternatives (RPAs) for Steller sea lion protection; and to reduce the costs and increase the effectiveness of regulations protecting migratory birds identified as endangered or threatened under the Endangered Species Act (ESA). It provides the analyses required under Executive Order 12866 and the RFA.

Eight groups of regulatory changes are identified in the analysis, each being independent of the other. Any one of them may be adopted in combination with any possible grouping of the others. Because of this, the RIR and the accompanying IRFA evaluate each of the eight proposals independently. Each of the proposals is evaluated against a “no action” alternative and the costs and benefits relative to the “no action” alternative are identified.

1. Regulatory Housekeeping. Remove obsolete text, clarify and simplify existing text, and reorganize text to remove duplication. Add, revise, and remove definitions. Because the changes do not impose new responsibilities on small entities, there are no added costs.

2. Buying Station Daily Cumulative Logbook (DCL). Remove the requirement to obtain, complete, and submit the DCL. Add a requirement to complete, maintain, and distribute a Buying Station Report (BSR). As with the DCL, the processors who receive fish from buying stations must compile data from the BSRs; unlike the DCL, processors will not be required to file quarterly reports with NMFS. NMFS estimates that the annual costs for this activity for at-sea tenders would be about $312 per buying station per processor. The cost for 268 at-sea tenders would be about $83,616. This estimate assumes all tender permits are active and all at-sea tenders are in complete compliance. Costs for on-shore buying stations cannot be determined since the number of on-shore buying stations cannot be estimated with current data. NMFS estimates that its costs would be about $670 per year for preparation and delivery of the BSR.

Substitution of the BSR for the DCL should benefit operators of buying stations by reducing their paperwork costs. It will benefit processors to the extent that the buying stations are their subsidiaries and they share in the reduced paperwork costs. NMFS estimates a reduction in public and private costs (a benefit) of about $8,700 per year. This estimate assumes all tender permits are active and in complete compliance with the program and does not take in to account the unknown number of land-based buying stations. There are no apparent costs to implement this proposal.

3. Shoreside Processor Electronic Logbook Report (SPELR). Extend the requirement to use the SPELR for processors buying from AFA catcher vessels past January 16, 2001, and require shoreside processors or stationary floating processors that receive pollock harvested in a directed pollock fishery to use the SPELR. Regulations at § 679.5(f)(3) currently require managers of shoreside processors or stationary floating processors, who receive groundfish deliveries from AFA catcher vessels, to record and submit a SPELR for each catcher vessel delivery and to retain printed reports for the duration of the fishing year. Currently, 19 firms use the SPELR system under the Federal AFA regulations. Two firms that are not currently using the SPELR are making progress in bringing the SPELR system on line. NMFS estimates that adoption of the SPELR requires the use of a personal computer with a value of about $1,000 and 1-2 weeks of staff time. The upper limit of this cost is estimated to be about $4,000 per firm.

The SPELR brings three classes of benefits: (a) Reduced annual R&R costs for NMFS and for firms adopting the SPELR, (b) enhanced value from the AFA statute, and (c) reduced costs of compliance with pollock RPAs for Steller sea lion protection. The annual R&R costs for firms and NMFS can be estimated. Each firm that adopts the SPELR will have annual SPELR expenses, but will no longer have to file or maintain the WPR or DCPL. The SPELR is expected to cost $941 per year while the savings on the WPR and DCPL is expected to be $2,508. NMFS will incur an additional $133 to receive SPELR reports from a new firm, but will save $627 per year on WPR and DCPL paperwork. The net overall paperwork savings should be about $2,194 per year for each firm that adopts the SPELR. Since two firms are expected to adopt, the total cost is $4,388 per year.

The cost of adopting the SPELR system is the cost to each firm of acquiring a computer and converting to the data processing system and software used by the SPELR. These costs are estimated to be $4,000 per firm. Four firms not using the SPELR would have to begin using it under this regulation, and three of these firms are known to have already made significant progress toward adopting the SPELR. As noted, 19 firms are currently required to use the SPELR because they buy groundfish from AFA catcher vessels. Another two firms would be required to begin using the SPELR under the provisions of the proposed rule requiring that firms accepting deliveries of pollock from fisheries targeting pollock use the SPELR. On the basis of anecdotal information, 13 of these firms are believed to be large firms, employing or affiliated with firms that employ more than 500 persons. The sizes of another eight of these firms are not known. For the purpose of this analysis, these have been treated as small firms, although this may overestimate the numbers of small firms. Six CDQ groups will also be impacted. CDQ groups are considered to be small non-profit entities.

4. IFQ Program. Eight changes are proposed for the regulations for the IFQ halibut and sablefish programs.

Weight prior to offload. Some of the vessels landing IFQ halibut and IFQ sablefish are catcher/processors that freeze and package IFQ halibut and sablefish on board before delivery. In many cases, the vessel operator acts as an IFQ Registered Buyer taking possession of the IFQ fish and making the landing report. These operations often calculate the weight of product that they produce at the time of production. However, current regulations at § 679.5(l)(2)(vi) require that Registered Buyers, taking possession of IFQ fish at landing, record the product code and initial accurate scale weight made at the time offloading commences for IFQ species sold and retained. Frozen product requires a second weighing of the fish. This regulatory change would redesignate § 679.5(1)(2)(vi)(J) as § 679.5(1)(2)(vi)(J)(1) and add a new paragraph (l)(2)(vi)(J)(2) to allow a vessel operator, if he or she is a Registered Buyer reporting the IFQ landing, to substitute the “accurate weight of IFQ sablefish processed product obtained before the offload” for the “initial accurate weight at time of offload.” NOFE would still be able to monitor the offload and weigh the product if necessary for the purpose of auditing under other regulations.

Debit all catch to IFQ account; Vessel operator responsible for landing. Regulatory changes would make it clear that fishermen who set aside part of their IFQ catch for home consumption would be required to debit that harvest against their IFQ account; a vessel operator has an obligation to offload all IFQ fish to a Registered Buyer. A new § 679.5(l)(2)(i)(C) would be added to clarify that the weight of any halibut or sablefish offshore landings made by a catcher/processor into product (frozen) prior to offload at the landing site must be properly debited from the IFQ permit holder's account under which the catch was harvested. These regulatory changes would not add new requirements to the IFQ halibut and IFQ sablefish program but would only clarify existing regulations. If this clarification reduced efforts to by-pass the reporting requirements, or made it easier to prosecute those requirements, it would reduce program costs. Because the requirement does not impose new responsibilities on fishermen, it does not add to their costs.

Regulatory area on prior notice of IFQ landing report. This change would amend § 679.5(l)(1)(iii) to add a question to the Prior Notice of IFQ Landing Report; fishermen would be required to report on the IFQ regulatory area within which IFQ halibut or IFQ sablefish were harvested. The benefit of the regulation would be the improved compliance with IFQ regulations. The cost would be the burden of answering the additional question when the prior notice of landing was made. This cost would be very small since the information is already known when the Prior Notice of IFQ Landing is made. In 2000, 10,279 prior notices of landing were submitted. If the answer to the question added 30 seconds to each notice, the total additional time would have been 86 hours. At $20 per hour (the pay for a Federal GS-7 in Alaska, including COLA), the total cost would have valued at about $1,700.

IFQ landing report. Additional information would be collected in the landings reports filled out by Registered Buyers that would reduce the costs of monitoring landings made under the exemption. This information would include the gear type used to harvest the fish and regardless of whether the IFQ fish were landed concurrently with salmon or dinglebar lingcod.

The benefits from these proposed changes would be increased flexibility and consequent reduced operating costs for dinglebar lingcod fishermen who hold halibut QS, and in addition, an improved ability by NMFS to target its enforcement assets. The cost to registered buyers of collecting and reporting the additional information would be small.

Registered buyers complete landings reports using automated terminals. These terminals lead the buyers through a series of question prompts. The change would require the addition to prompts for the gear type used in the landing and for information on whether or not salmon or lingcod taken with dinglebar gear was landed concurrently with the IFQ fish. This information should be known to or readily available to the registered buyer. In 2000, about 10,057 landings reports were submitted. At 1 minute for the two additional questions, the total additional time required would have been about 168 hours. At $20 per hour (the pay for a Federal GS-7 in Alaska, including COLA), the total cost would have valued at about $3,400.

IFQ shipment report. Regulations at § 679.5(l)(3) would be amended to add a requirement to the IFQ Shipment Report to allow short-distance movement of IFQ fish accompanied by an ATM landing receipt by a Registered Buyer to his or her processing plant. Currently Registered Buyers are required to complete and file an IFQ shipment report before they move fish away from the place where they are landed. Many firms, whose plants are located away from landing places, are inconvenienced by the need to complete the form before moving the fish from the place where they were landed to the place where they will be processed. This regulatory change would reduce the costs for this class of Registered Buyer. NOFE would still receive a landing report from the landing place; the IFQ shipment report would still be required from the Registered Buyer before the buyer disposed of the fish to other parties. The most important use for Shipment Reports is to provide the ability to audit Registered Buyers' landings by monitoring movements of fish being moved in the chain of possession from the Registered Buyer. There are no costs associated with this regulatory change and there will be cost savings to Registered Buyers whose plants are located at a distance from landings places.

IFQ transshipment authorization. Regulations at § 679.5(l)(4) would be amended to revise the regulatory text describing the IFQ Transshipment Authorization by adding a list of required information to obtain a transshipment authorization. Vessel operators transshipping (from one vessel to another) IFQ halibut and IFQ sablefish are required to obtain a Transshipment Authorization at least 24 hours before the transshipment. This gives NOFE time to decide whether or not to monitor the transshipments, plan resources, and arrange the logistics for monitoring the transshipment. This change is principally needed to monitor the offloading of freezer longliners to tramp freighters. NOFE routinely collects certain information from persons requesting the authorization to find out when and where the transshipment will occur and how long it might take. This change will provide a basis in regulation for the specific information collected when an authorization is requested. This should not increase the costs for fishing operations or for the operations taking possession of the fish at sea since it would not affect the requirement for authorizations. It may reduce enforcement costs by clarifying the types of information that are required when an authorization is requested.

IFQ vessel clearance report and the IFQ departure report. This proposed change will make the vessel clearance and departure report regulations clearer and may reduce the amount of time it takes to find, read and interpret them. The substantive part of the change involves the revision of the departure report requirement to prevent IFQ fishing after the report is filed. This change clarifies the intent of the regulation that departure reports be filed after IFQ fishing has finished. While almost all departure reports are believed to have been filed after fishing has been concluded, at least one in the last 2 years was not. The intent is to close this loophole. The benefit will be an enhanced ability to enforce the IFQ program. There is no cost to fishermen from this change because a departure report can be filed as easily after fishing is concluded as before it is concluded.

5. Product Transfer Report (PTR). Regulations at § 679.5(g) currently require the operators of motherships, catcher/processors, or managers of shoreside processors or stationary floating processors to record each transfer of groundfish product (including unprocessed fish) or donated prohibited species, on a PTR. An important enforcement document, the PTR provides the principal information for the movement of volumes of groundfish into and out of the facilities of a processor and provides a check on buyer purchase reports. Because of its importance, the PTR is used with audits and by physical inspection of product.

This change would provide processors more flexibility in adapting their responses to their working procedures and may result in some private sector time savings. If the regulation change reduces the time taken to fill out the PTRs by 10 percent, it would produce a private sector cost savings of about $1,568 per year. There are no implementation or other costs.

NMFS estimates that 171 processors (110 catcher/processors, 3 motherships, and 58 shoreside processors or stationary floating processors) must currently file a PTR for each transfer of product an average of 25 times a year generating 4,275 PTRs per year. The estimated time requirement for a PTR is 11 minutes. Total time devoted to PTRs is estimated to be 784 hours a year. NMFS estimates that the total cost of PTR preparation is $15,675 (this does not include costs of submittal to NMFS by FAX).

Forty-seven catcher/processors and 32 shoreside processors are assumed to be small entities. The remaining operations are assumed to be large entities. Six CDQ groups would also be impacted. CDQ groups are considered to be small non-profit entities. The new PTR format would reduce the costs to NOAA and USCG enforcement efforts and would allow for more effective enforcement of product transfer rules.

6. Marking of Gear. The proposed rule would increase the financial costs to a few small entities by extending requirements to mark identification information on marker buoys that currently apply only to longline gear to include also hook-and-line, longline pot, and pot-and-line gear. Most fishermen have their marker buoys properly identified and would not be adversely affected by this regulation. Fishermen affected by this regulation would incur the costs of marking their own marker buoys and legally would not be able to use another fisherman's marker buoys. State regulations (5 AAC 28.050) currently require crab and groundfish pots to carry the ADF&G registration number of the vessel operating the gear. Since many Pacific cod fishermen already participate in State groundfish and crab fisheries, they would already be subject to this requirement. The regulation extends the marker buoy requirement to vessels using pot gear to fish for groundfish. In 1999, 254 catcher-vessels caught groundfish with pot gear off of Alaska; 13 catcher-processors also used pot gear. In 1999, no pot vessels had Alaska groundfish landings with ex-vessel or product value over $3,000,000. Six CDQ groups will also be impacted. CDQ groups are considered to be small non-profit entities. Marking of marker buoys reduces the costs to NOAA and USCG enforcement efforts and allows for more effective enforcement of gear rules.

7. Seabird Avoidance Gear. The proposed rule would add a requirement for operators of catcher vessels over 60 ft (18.3 m) LOA and catcher/processors using hook-and-line gear to record in the logbook the type of bird avoidance gear used on the vessel. A regulation currently exists at § 679.24(e) that requires bird avoidance gear be used. This proposed regulation merely makes it a requirement to record the code in the logbook that describes the type of gear used. NMFS estimates that it would take approximately 1 minute per haul for a vessel operator to collect information on what type of avoidance gear is being used and to enter the information into the log. Based on 19,245 hauls, the cost in time to the entire hook-and-line fleet would be approximately 321 hours per year. Evaluating this time at a cost of $20/hour (the average wages and benefits for a Federal GS-7 employee in Alaska, including COLA), the cost imposed would be $6,415 per year.

A copy of this analysis is available from NMFS (see ADDRESSES).

This proposed rule has been determined to be significant for purposes of Executive Order 12866.

List of Subjects in 50 CFR Part 679

Alaska, Fisheries, Recordkeeping and reporting requirements.

Dated: July 20, 2001.
John Oliver,
Acting Assistant Administrator for Fisheries, National Marine Fisheries Service.

For the reasons set forth in the preamble, 50 CFR part 679 is proposed to be amended as follows:

PART 679—FISHERIES OF THE EXCLUSIVE ECONOMIC ZONE OFF ALASKA

1. The authority citation for 50 CFR part 679 continues to read as follows:

Authority: 16 U.S.C. 773 et seq., 1801 et seq., and 3631 et seq.

2. In § 679.2 the definitions for “Bycatch species,” “CDQ delivery number,” “Gear deployment,” “Gear retrieval,” and “Sablefish” are removed; the definitions for “Active/inactive periods,” “Ancillary product,” the introductory text of “Area/species endorsement,” “paragraph (1)(v) of Fishing trip,” “Forage fish,” “Groundfish,” “Logbook,” “Person,” “Primary product,” “Reprocessed or rehandled product,” and “Set,” are revised; the definitions for “Agent,” “Associated processor,” “Bycatch or bycatch species,” “Endorsement,” “Experimental fishery,” “Gear,” “Gear deployment (or to set gear),” “Gear retrieval (or to haul gear),” “Harvest zone codes,” “Incidental catch or incidental species,” “Product transfer report (PTR),” “Prohibited species,” “Representative,” “Sablefish (black cod),” “Seabird avoidance gear,” “Shoreside processor electronic logbook report (SPELR),” “Tagged halibut or sablefish,” and “Weekly production report (WPR)” are added to read as follows:

§ 679.2 Definitions.

* * * * *

Active/inactive periods. (see § 679.5(a)(7)(i)).

* * * * *

Agent. (1) For purposes of permits issued under § 679.4, means a person appointed and maintained within the United States who may apply for permits and may otherwise act on behalf of the owner, operator, and manager of a catcher vessel, catcher/processor, mothership, shoreside processor, stationary floating processor, buying station, or on behalf of the IFQ registered buyer.

(2) For purposes of groundfish product distribution under § 679.5(g), means a buyer, distributor, or shipper but not a buying station, who may receive and distribute groundfish on behalf of the owner, operator, and manager of a catcher/processor, mothership, shoreside processor, or stationary floating processor.

(3) For purposes of IFQ recordkeeping and reporting under § 679.5(l), means a person who on behalf of the Registered Buyer may submit IFQ reports.

* * * * *

Ancillary product (see Table 1 to this part).

* * * * *

Area/species endorsement means (for purposes of LLP) a designation on a license that authorizes a license holder to deploy a vessel to conduct directed fishing for the designated crab species in Federal waters in the designated area (see Figures 16 and 17 to this part). Area/species endorsements for crab species licenses are as follows:

* * * * *

Associated processor means, a federally permitted mothership, shoreside processor, or stationary floating processor that has a contract or agreement with a buying station to conduct groundfish buying station activities for that processor.

* * * * *

Bycatch or bycatch species means fish caught and released while targeting the same species.

* * * * *

Endorsement. (1) (See area endorsement for purposes of the groundfish LLP permits);

(2) (See area/species endorsement for purposes of the crab LLP permits); and

(3) (See § 679.4(g)(3)(ii) area endorsements for purposes of the scallop permit).

Experimental fishery (see Exempted fishery, § 679.6).

* * * * *

Fishing trip means:

(1) * * *

(v) The end of a weekly reporting period (except a catcher vessel), whichever comes first.

* * * * *

Forage fish (see Table 2 to this part).

* * * * *

Gear (see the definition for Authorized fishing gear of this section).

Gear deployment (or to set gear) means:

(1) Position of gear deployment (lat. and long.):

(i) For trawl gear. The position where the trawl gear reaches the fishing level and begins to fish.

(ii) For hook-and-line gear. The beginning position of a set of hook-and-line gear.

(iii) For jig or troll gear. The position where the jig or troll gear enters the water.

(iv) For pot gear. The position of the first pot in a string of pots.

(2) Time of gear deployment (A.l.t.):

(i) For trawl gear. The time when the trawl gear reaches the fishing level and begins to fish.

(ii) For hook-and-line gear. The time when the first hook-and-line gear of a set is deployed.

(iii) For jig or troll gear. The time when jig or troll gear enters the water.

(iv) For pot gear. The time when the first pot in a string of pots is deployed.

Gear retrieval (or to haul gear) means: (1) Position of gear retrieval (lat. and long.):

(i) For trawl gear. The position where retrieval of trawl gear cable commences.

(ii) For hook-and-line gear. The position where the last hook-and-line gear of a set leaves the water, regardless of where the majority of the set took place.

(iii) For jig or troll gear. The position where the jig or troll gear leaves the water.

(iv) For pot gear. The position where the last pot of a set is retrieved, regardless of where the majority of the set took place.

(2) Time of gear retrieval (A.l.t.):

(i) For trawl gear. The time when retrieval of trawl gear cable commences.

(ii) For hook-and-line gear. The time when the last hook-and-line gear of a set leaves the water.

(iii) For jig or troll gear. The time when the jig or troll gear leaves the water.

(iv) For pot gear. The time when the last pot of a set is retrieved.

Groundfish means (1) FMP species as listed in Table 2 to this part.

(2) Target species and the “other species” category, specified annually pursuant to § 679.20(a)(2) (See also the definitions for: License limitation groundfish; CDQ species; and IR/IU species of this section).

* * * * *

Harvest zone codes (see Table 8 to this part).

* * * * *

Incidental catch or incidental species means fish caught while targeting on some other species, but does not include discard of fish that were released or returned to the sea, whether or not such fish are brought fully on board a fishing vessel. An incidental catch is any species or species group for which a maximum retainable amount is calculated and is expressed as a percentage of the weight of the total fish on board (see Tables 10 and 11 to this part).

* * * * *

Logbook means Daily Cumulative Production Logbook (DCPL) or Daily Fishing Logbook (DFL) required by § 679.5.

* * * * *

Person means any individual (whether or not a citizen or national of the United States), any corporation, partnership, association, or other entity (whether or not organized, or existing under the laws of any state), and any Federal, state, local, or foreign government or any entity of any such aforementioned governments.

* * * * *

Primary product (see Table 1 to this part).

* * * * *

Product transfer report (PTR) (see § 679.5(g)).

Prohibited species means any of the species of Pacific salmon (Oncorhynchus spp.), steelhead trout (Oncorhynchus mykiss), Pacific halibut (Hippoglossus stenolepis), Pacific herring (Clupea harengus pallasi), king crab, and Tanner crab, caught by a vessel regulated under this part while fishing for groundfish in the BSAI or GOA, unless retention is authorized by other applicable laws, including the annual management measures published in the Federal Register pursuant to § 300.62 of this title.

* * * * *

Representative (see § 679.5(b)).

Reprocessed or rehandled product (see Table 1 to this part).

* * * * *

Sablefish (black cod) means Anoplopoma fimbria. (See also IFQ sablefish; fixed gear sablefish at § 679.31(b); and sablefish as a prohibited species at § 679.24(c)(2)(ii)).

* * * * *

Seabird avoidance gear (see § 679.24(e), § 679.42(b)(2), and Table 19 to this part).

Set means a string of longline gear, a string of pots, or a group of pots with individual pots deployed and retrieved in the water in a similar location with similar soak time. In the case of pot gear, when the pots in a string are hauled more than once in the same position, a new set is created each time the string is retrieved and re-deployed. A set includes a test set, unsuccessful harvest, or when gear is not working and is pulled in, even if no fish are harvested.

* * * * *

Shoreside processor electronic logbook report (SPELR) (see § 679.5(d)).

* * * * *

Tagged halibut or sablefish (see § 679.40(g)).

* * * * *

Weekly production report (WPR) (see § 679.5(i)).

* * * * *

3. In § 679.4 paragraphs (a)(1) through (a)(6) are redesignated as paragraphs (a)(3) through (a)(8) respectively; paragraph (a) introductory text, paragraphs (a)(1), (a)(2), (a)(3)(v), (b)(3)(iii), and (b)(3)(iv) are added; and paragraph (a) heading, newly redesignated (a)(3) heading, newly redesignated paragraph (a)(3)(iii), paragraphs (b)(3)(ii), (b)(4)(ii), (b)(5), (d) heading, (d)(2), the heading of paragraph (d)(3), and paragraphs (d)(3)(i)(A), (f)(2), and (f)(4)(ii) are revised to read as follows:

§ 679.4 Permits.

(a) Requirements. Only persons who are U.S. citizens are authorized to receive or hold permits under this section, with the exception that an IFQ card issued to an individual person designated by a QS or IFQ permit holder as a master employed to fish his/her IFQ need not be held by a U.S. citizen.

(1) What permits are available? Various types of permits are issued for programs codified at 50 CFR part 679. These permits are listed in the following table. The date of effectiveness for each permit is given along with certain reference paragraphs for further information.

If program permit type is: | Permit is in effect from issue date through the end of: | See paragraphs for more information:
(i) IFQ:
(A) Registered Buyer permit | Specified fishing year | § 679.4(d)(2)
(B) Halibut & sablefish permits | Specified fishing year | § 679.4(d)(3)(i)(B)
(C) Halibut & sablefish cards | Specified fishing year | § 679.4(d)(3)(i)(C)
(ii) CDQ Halibut:
Halibut permit and Halibut card | Specified fishing year | § 679.32(f)
(iii) AFA:
(A) Catcher/processor permit | 12/31/04 | § 679.4(f)
(B) Catcher vessel permit | 12/31/04 | § 679.4(f)
(C) Mothership permit | 12/31/04 | § 679.4(f)
(D) Inshore processor permit | 12/31/04 | § 679.4(f)
(E) Inshore cooperative permit | Calendar year | § 679.4(f)
(F) Replacement vessel permit | Takes dates of replaced vessel's permit | § 679.4(f)
(iv) Groundfish:
(A) Federal fisheries permit | 3 years | § 679.4(b)
(B) Federal processor permit | 3 years | § 679.4(f)
(v) High seas salmon permit | Indefinite | § 679.4(h)
(vi) High Seas Fishing Compliance Act (HSFCA) permit | 5 years | § 300.10 of this title
(vii) License Limitation Program (LLP); Groundfish license and Crab license | Specified fishing year or interim (active until further notice) | § 679.4(k)
(viii) Exempted fisheries permits | 1 year or less | § 679.6
(ix) Research permits | 1 year or less | § 600.745(a) of this chapter
(x) Prohibited species donation program permits | Salmon: 3 years halibut: through 12/31/00 | § 679.26

(2) Permit and logbook required by participant and fishery. For the various types of permits issued, different recordkeeping and reporting requirements are shown in the following table, based on type of participant and fishery in which one participates.

Type of participant | Fishery | Applicable logbook type | Federal permits required
(i) Catcher Vessels greater than 60 ft LOA using longline or pot gear | Groundfish and/or IFQ or CDQ Pacific halibut | CV longline and pot DFL | Federal fisheries permit, groundfish LLP permit, if IFQ fishing: (A) IFQ permit & card. (B) IFQ Registered Buyer permit (if applicable). (C) If CDQ halibut fishing: CDQ halibut permit & card.
(ii) Catcher Vessels greater than 60 ft LOA using trawl gear | Groundfish | CV trawl DFL | Federal Fisheries Permit Groundfish LLP Permit AFA permit.
(iii) Catcher/processor using longline or pot gear | Groundfish and/or IFQ or CDQ Pacific halibut | C/P longline and pot DCPL | Federal fisheries permit groundfish LLP permit if IFQ fishing: (A) IFQ permit & card. (B) IFQ Registered Buyer permit (if applicable). (C) If CDQ halibut fishing: CDQ halibut permit & card.
(iv) Catcher/processor using trawl gear | Groundfish | C/P trawl DCPL | Federal Fisheries Permit Groundfish LLP Permit AFA permit.
(v) Catcher vessel or catcher/processor | Scallops | N/A | Scallop LLP permit Federal Fisheries Permit (if retain any groundfish).
(vi) Catcher vessel or catcher/processor | Crab | N/A | Crab LLP permit Federal Fisheries Permit (if retain any groundfish, including bait).
(vii) Mothership | Groundfish | MS DCPL | Federal Fisheries Permit AFA permit.
(viii) Shoreside processor or stationary floating processor | Groundfish | SS DCPL or SPELR | Federal Processor Permit AFA permit IFQ Registered Buyer permit (if receive IFQ or CDQ halibut).
(ix) Tender vessel or land-based buying station | Groundfish | N/A | Federal fisheries permit (if tender vessel).

(3) How do you obtain a permit? * * *

(iii) Complete a separate application for each vessel or processor, and retain a copy of each completed application.

* * * * *

(v) All permits are issued free of charge.

* * * * *

(b) * * *

(3) * * *

(ii) A Federal fisheries permit is issued to a vessel to function as a support vessel or as any combination of the other four categories (catcher vessel, catcher/processor, mothership, tender vessel).

(iii) A vessel permitted as a catcher/processor, catcher vessel, mothership, or tender vessel also may conduct all operations authorized for a support vessel.

(iv) A vessel permitted as a support vessel may not conduct activities as a catcher vessel, catcher/processor, mothership, and/or tender vessel.

(4) * * *

(ii) A Federal fisheries permit is surrendered when the original permit is submitted to and received by the Program Administrator, RAM Program, Juneau, AK.

* * * * *

(5) How do I obtain a Federal fisheries permit? To obtain a Federal fisheries permit, the owner must complete a Federal fisheries permit application and provide the following information for each vessel to be permitted:

(i) Permit application information. Indicate whether application is for a new or amended Federal fisheries permit and if revision, enter the current Federal fisheries permit number.

(ii) Owner information. Indicate the name(s), permanent business mailing address, business telephone number, business FAX number, and business e-mail address of the owner; and the name of any person or company (other than the owner) that manages the operations of the vessel.

(iii) Vessel information. Indicate the vessel name and homeport (city and state); U.S. Coast Guard (USCG) documentation number; the ADF&G vessel registration number; ADF&G processor code; vessel's LOA (ft), registered length (ft), gross tonnage, net tonnage, and shaft horsepower; whether this is a vessel of the United States; and whether this vessel will be used as a stationary floating processor.

(iv) Federal fisheries permit information. Indicate area of operation you request; if a catcher/processor or a catcher vessel, the gear types used for groundfish fishing; if a mothership or catcher/processor operating in the GOA, choose inshore or offshore component.

* * * * *

(d) IFQ permits.* * *

(2) Registered buyer permit. A Registered buyer permit is required of:

(i) Any person who receives IFQ halibut, CDQ halibut or IFQ sablefish from the person(s) who harvested the fish;

(ii) Any person who harvests IFQ halibut or IFQ sablefish and transfers such fish:

(A) In a dockside sale;

(B) Outside of an IFQ regulatory area; or

(C) Outside the State of Alaska.

(iii) A vessel operator who obtains a vessel clearance (see § 679.5(l)(5)(iv)).

(3) How do I obtain an IFQ permit, IFQ card, or Registered Buyer Permit? (i) IFQ permits and cards—(A) Issuance. The Regional Administrator will renew IFQ permits and cards annually or at other times as needed to accommodate transfers, revocations, appeals resolution, and other changes in QS or IFQ holdings, and designation of masters under § 679.42.

* * * * *

(f) * * *

(2) How do I obtain a Federal processor permit? To obtain a Federal processor permit, the owner must complete a Federal processor permit application and provide the following information for each shoreside processor and stationary floating processor to be permitted:

(i) Permit application information. Indicate whether application is for a new or amended Federal processor permit and if a revision, the current Federal processor permit number.

(ii) Owner information. Indicate the name(s), permanent business mailing address, business telephone number, business FAX number, and business e-mail address of the owner; and the name of any person or company (other than the owner) who manages the operations of the shoreside processor or stationary floating processor.

(iii) Stationary floating processor information. Indicate the vessel name and homeport (city and state); USCG documentation number; ADF&G vessel registration number; ADF&G processor code; the vessel's LOA (ft) and registered length (ft), gross tonnage, net tonnage and shaft horsepower; whether this is a vessel of the United States; and whether this vessel will be used as a stationary floating processor.

(iv) Shoreside processor information. Indicate the shoreside processor's name; name and physical location of facility or plant at which the shoreside processor is operating (street, city, state, zip code); whether the shoreside processor is replacing a previous processor at this facility; and if yes, name of previous processor; whether there are multiple processors at this facility; whether the owner named in paragraph (f)(2)(ii) of this section owns this facility; shoreside processor ADF&G Processor Code, business telephone number, FAX number, and e-mail address.

(v) Signature. The owner or agent of the owner of the shoreside processor or stationary floating processor must sign and date the application. If the owner is a company, the agent of the owner must sign and date the application.

* * * * *

(4) * * *

(ii) A Federal processor permit is surrendered when the original permit is submitted to and received by the Program Administrator, RAM Program, Juneau, AK.

* * * * *

4. Section 679.5 is amended by revising paragraph (a) through (k), (l)(1) through (6), (l)(7)(i)(D) introductory text, (m) through (o), and adding paragraph (p) to read as follows:

§ 679.5 Recordkeeping and reporting.

(a) General requirements—(1) Applicability—(i) Who must comply with recordkeeping and reporting requirements? Except as provided in paragraphs (a)(1)(iii) and (iv) of this section, the owner, operator, or manager of the following participants must comply with the recordkeeping and reporting requirements of this section:

(A) Any catcher vessel, mothership, catcher/processor, or tender vessel, 5 net tons or larger, that is required to have a Federal fisheries permit under § 679.4.

(B) Any shoreside processor, stationary floating processor, mothership, or buying station that receives groundfish from vessels issued a Federal fisheries permit under § 679.4.

(C) Any buying station that receives or delivers groundfish in association with a mothership issued a Federal fisheries permit under § 679.4(b) or with a shoreside processor or stationary floating processor issued a Federal processor permit under § 679.4(f).

(D) Any shoreside processor or stationary floating processor that is required to have a Federal processor permit under § 679.4.

(E) For purposes of this section, “operator or manager” means “the operator of a catcher/processor or mothership, the manager of a shoreside processor or stationary floating processor, or the operator or manager of a buying station.”

(ii) What fish need to be recorded and reported? A shoreside processor, stationary floating processor, mothership, or buying station subject to recordkeeping and reporting requirements must report all groundfish and prohibited species received, including:

(A) Fish received from vessels not required to have a federal fisheries permit.

(B) Fish received under contract for handling or processing for another processor.

(iii) Who is exempt from recordkeeping and reporting requirements? (A) Catcher vessels less than 60 ft (18.3 m) LOA. A catcher vessel less than 60 ft (18.3 m) LOA is not required to comply with recordkeeping and reporting requirements contained in paragraphs (a) through (k) of this section.

(B) Catcher vessels that take groundfish in crab pot gear for use as crab bait on that vessel. (1) Owners or operators of catcher vessels who, during open crab season, take groundfish in crab pot gear for use as crab bait on board their vessels, and the bait is neither transferred nor sold, are exempt from Federal recordkeeping and reporting requirements contained in paragraphs (a) through (j) of this section. This exemption does not apply to fishermen who:

(i) Catch groundfish for bait during an open crab season and sell that groundfish or transfer it to another vessel, or

(ii) Participate in a directed fishery for groundfish using any gear type during periods that are outside an open crab season for use as crab bait on board their vessel.

(2) No groundfish species listed by NMFS as “prohibited” in a management or regulatory area may be taken in that area for use as bait.

(iv) Who needs to use the combined groundfish/IFQ logbook?

(A) Any catcher vessel 60 ft (18.3 m) or greater LOA or catcher/processor, that participates in an IFQ sablefish fishery, IFQ halibut fishery, or CDQ halibut fishery and that retains any groundfish from the GOA or BSAI, must use a combined groundfish/IFQ logbook (catcher vessel or catcher/processor longline and pot gear logbook) to record all IFQ, CDQ halibut and groundfish.

(B) Any catcher vessel 60 ft (18.3 m) or greater LOA or catcher/processor that is using longline or pot gear in the groundfish fisheries of the GOA or BSAI must use a combined groundfish/IFQ logbook (catcher vessel or catcher/processor longline and pot gear logbook) to record all IFQ, CDQ halibut and groundfish.

(2) Responsibility. (i) The owner of a catcher vessel, catcher/processor, mothership, or buying station receiving from a catcher vessel and delivering to a mothership, a shoreside processor, a stationary floating processor, or buying station receiving from a catcher vessel and delivering to a shoreside processor or stationary floating processor:

(A) Is responsible for complying with the applicable recordkeeping and reporting requirements of this section.

(B) Must ensure that the operator, manager, or representative (see paragraph (b) of this section) complies with the applicable recordkeeping and reporting requirements of this section.

(ii) The signature of the owner, operator, or manager on the DFL or DCPL is verification of acceptance of the responsibility required in paragraph (a)(2)(i) of this section.

(iii) The operator or manager of a buying station must operate with an associated mothership, shoreside processor, or stationary floating processor before receiving groundfish.

(3) Groundfish logbooks and forms. (i) The Regional Administrator will prescribe and provide groundfish logbooks and forms required under this section for a catcher vessel 60 ft (18.3 m) or greater LOA, a catcher/processor, a mothership, a shoreside processor, a stationary floating processor, and a buying station (see Table 9 to this part).

(ii) The operator or manager must use the current edition of the logbooks and forms or obtain approval from the Regional Administrator to use current electronic versions of the logbooks and forms.

(4) Shoreside processor electronic logbook report (SPELR). The manager of a shoreside processor or stationary floating processor receiving groundfish from AFA catcher vessels or receiving pollock harvested in a directed pollock fishery is required to use SPELR or NMFS-approved software described at paragraph (e) of this section to report every delivery from all catcher vessels and is required to maintain the SPELR and printed reports as described at paragraph (f) of this section. The owner or manager of a shoreside processor or stationary floating processor that is not required to use SPELR under paragraph (e) of this section may use, upon approval by the Regional Administrator, SPELR or NMFS-approved software in lieu of the shoreside processor DCPL and shoreside processor WPR.

(5) Participant identification information. The operator or manager must record on all required records, reports, and logbooks, as appropriate:

(i) Name and signature. Name and signature of operator or manager.

(ii) Catcher vessel. If a catcher vessel, the name as displayed in official documentation, Federal fisheries permit number and ADF&G vessel registration number.

(iii) Shoreside processor or stationary floating processor. If a shoreside processor or stationary floating processor, the processor name as displayed in official documentation, ADF&G processor code, and Federal processor permit number. If a shoreside processor, the geographic location of plant.

(iv) Mothership or catcher/processor. If a mothership or catcher/processor, the name as displayed in official documentation, ADF&G processor code and Federal fisheries permit number.

(v) Buying station. If a buying station, the name as displayed in official documentation; ADF&G vessel registration number (if a vessel) or vehicle registration number (if a vehicle); name, ADF&G processor code, and Federal fisheries permit number of the associated mothership, or name, geographic location of plant, ADF&G processor code, and Federal processor permit number of the associated shoreside processor or stationary floating processor to which groundfish deliveries were made.

(6) Maintenance of records. The operator or manager must:

(i) Maintain in English all records, reports, and logbooks in a legible, timely, and accurate manner; if handwritten, in indelible ink; if computer-generated, in a printed paper copy; and based on A.l.t.

(ii) Account for each day of the fishing year, January 1 through December 31, in the DFL or DCPL. Unless the appropriate box is checked to indicate an active period-no fishing or inactive period, records are assumed to be for an active period. Record the first day of the fishing year, January 1, on the first page of the DFL or DCPL. Record time periods consecutively in the logbook.

(A) If a vessel owner or operator is granted reinstatement of a Federal fisheries permit after having surrendered it within the same fishing year, recordkeeping and reporting requirements as defined in this section must be continuous throughout that year, without interruption of records.

(B) If a shoreside processor owner or manager is granted reinstatement of a Federal processor permit after having surrendered it within the same fishing year, recordkeeping and reporting requirements as defined in this section must be continuous throughout that year, without interruption of records.

(C) If inactive due to surrender of a Federal fisheries or processor permit, the operator or manager must mark the inactive box, write “surrender of permit,” and follow complete instructions for recording an inactive period.

(iii) Record in the appropriate report, form, and logbook, when applicable, the date of activity and type of participant as presented in the following table:

(A) Date of activity, as month-day-year.

Date of | If a¹ | Means the date when | In the
(1) Delivery | (i) CV | Delivery of harvest was completed | DFL
| (ii) SS, SFP, MS | Delivery of harvest was completed | DCPL
| (iii) BS | Delivery of harvest was completed | BSR
(2) Landing | SS, SFP | Sorting and weighing of a delivery by species was completed | DCPL
(3) Production | SS, SFP | Production was completed
(4) Discard or disposition | (i) CV using longline or pot gear | Discard or disposition occurred | DFL
| (ii) SS, SFP, MS | Discard or disposition occurred at the facility; or | DCPL
|  | Received blue discard logsheet from a catcher vessel, not the actual date of discard or disposition indicated on the blue discard logsheet; or
|  | Received BSR from a buying station, not the actual date of discard or disposition indicated on the BSR.
¹ CV = Catcher vessel; SS = Shoreside processor; SFP = stationary floating processor; MS = mothership; Catcher/processor = C/P; BS = Buying station

(B) Week-ending date. The last day of the weekly reporting period: 2400 hours, A.l.t., Saturday night (except during the last week of each year, when it ends on December 31).

(C) Time, in military format, A.l.t.

(D) Page numbering. (1) Number the pages in each logbook and BSR consecutively, beginning with page 1 and continuing for the remainder of the fishing year.

(2) If a shoreside processor or stationary floating processor, number the DCPL pages within Part I and Part II separately, beginning with page 1. If in an inactive period, the manager needs only to record in Part I.

(E) Logbook numbering—(1) Two logbooks of same gear type. If more than one logbook of the same gear type is used in a fishing year, the page numbers must follow the consecutive order of the previous logbook.

(2) Two logbooks of different gear types. If two logbooks of different gear types are used in a fishing year, the page numbers in each logbook must start with page 1.

(3) Two logbooks for pair trawl. If two catcher vessels are dragging a trawl between them (pair trawl), two logbooks must be maintained, a separate DFL by each vessel to record the amount of the catch retained and fish discarded by that vessel, each separately paginated.

(F) Original/revised report. Except for a DFL or DCPL, if a report is the first one submitted to the Regional Administrator for a given date, gear type, and reporting area, indicate ORIGINAL REPORT. If a report is a correction to a previously submitted report for a given date, gear type, and reporting area, indicate REVISED REPORT.

(G) Position coordinates, position in lat. and long.

(7) What is an active status? (i) Fishing activity, active periods, and inactive periods. The operator or manager daily must record in the appropriate logbook the status of fishing activity as active or inactive according to the following table:

If participant is a . . . | Fishing activity is . . . | An active period is . . . | An inactive period is . . .
(A) CV ¹ | Harvest or discard of groundfish | When gear remains on the grounds in a reporting area (except 300, 400, 550, or 690), regardless of the vessel location | When no gear remains on the grounds in a reporting area.
(B) SS, SFP, MS | Receipt, discard, or processing of groundfish | When checked in or processing | When not checked in or not processing.
(C) C/P | Harvest, discard, or processing of groundfish | When checked in or processing | When not checked in or not processing.
(D) BS | Receipt, discard, or delivery of groundfish | When conducting fishing activity for an associated processor | When not conducting fishing activity for an associated processor.
¹ CV = Catcher vessel; SS = Shoreside processor; SFP = stationary floating processor; MS = mothership; Catcher/processor = C/P; BS = Buying station

(ii) What do I record if I'm not active? If not active, the operator or manager must record in the appropriate logbook or form a brief explanation according to the following table:

The operator or manager must enter: | In the ... | If ...
(A) No receipt | (1) DCPL | No deliveries received for a day.
| (2) DCPL, WPR | No deliveries received during a weekly reporting period.
(B) No landings | (1) DCPL, DPR | No landings occurred for a day.
| (2) DCPL, WPR | No landings occurred during a weekly reporting period.
(C) No production | (1) DCPL, DPR | No production occurred for a day.
| (2) DCPL, WPR | No production occurred for a weekly reporting period.
(D) No discard or Disposition | (1) DCPL, DFL, BSR or DPR | No discards or dispositions occurred for a day.
| (2) DCPL, WPR | No discards or dispositions occurred for a weekly reporting period.

(iii) Recording activity on logsheets. When recording fishing activity in an appropriate logbook, the operator or manager must:

(A) Active. If active, complete a separate logsheet for each day (except a shoreside processor or stationary floating processor).

(B) Active but not fishing. If active but not fishing, complete on one logsheet:

(1) Check “active but not fishing.”

(2) Record the date of the first day when active but not fishing under “Start date.”

(3) Indicate brief explanation that you are active but not fishing.

(4) Record the date of the last day when active but not fishing.

(C) Inactive. If inactive, complete on one logsheet:

(1) Check “inactive.”

(2) Record the date of the first day when inactive under “Start date.”

(3) Indicate brief explanation that you are inactive.

(4) Record the date of the last day when inactive.

(D) Two or more quarters. If the “inactive” time period or “active but not fishing” time period extends across two or more successive quarters, the operator or manager must complete two logsheets: the first to indicate the last day of the first “inactive” or “active but not fishing” quarter and the next page to indicate the first day of the second “inactive” or “active but not fishing” quarter.

(E) Participant information if not active. If using one logsheet to record a period when inactive or active-not-fishing, record the participant information as described at paragraph (a)(8) of this section.

(iv) Weight of fish. When recording weight in a logbook or form, the operator or manager must follow the guidelines in the tables in paragraphs (a)(7)(iv)(C) and (D) and (a)(7)(iv)(F) through (I) of this section and must:

(A) Indicate whether records of weight are in pounds or metric tons.

(1) If a DFL, DCPL, BSR, and shoreside processor check-in report or check-out report, record weight in pounds or in metric tons to the nearest 0.001 mt, but be consistent throughout the year.

(2) If a WPR or DPR, record weight in metric tons to the nearest 0.001.

(B) Record the weight of groundfish landings, groundfish product, and groundfish or prohibited species Pacific herring discard or disposition weight by species codes as defined in Table 2 to this part and product codes and product designations as defined in Table 1 to this part. Except for product information provided by shoreside processors or stationary floating processors [which is the sum of product weight separately by BSAI or GOA management area], the operator or manager must summarize groundfish weights separately by reporting area, management program information, gear type, and if trawl gear used, whether harvest was caught in the CVOA or the COBLZ.

(C) Daily catch weight. The operator or manager must enter daily catch weight per the following table:

Enter . . . | In a . . . | If a . . .
(1) Estimated total round catch weight of groundfish, listed by CV or BS | DCPL | SS, SFP
(2) Estimated total round catch weight of groundfish by haul | Trawl DFL | CV
(3) Estimated total round catch weight of groundfish by haul, excluding pollock and Pacific cod | Trawl DCPL | C/P
(4) Estimated total round catch weight of groundfish listed by CV or BS, excluding pollock and Pacific cod | DCPL | MS
(5) Estimated total round catch weight of groundfish by set, excluding CDQ/IFQ Pacific halibut and IFQ sablefish | Longline or pot DFL | CV
(6) Estimated total round catch weight of groundfish by set, excluding CDQ/IFQ Pacific halibut, IFQ sablefish, pollock and Pacific cod | Longline or pot DCPL | C/P
(7) If a CV reported discards on a blue discard logsheet but did not deliver groundfish, enter “0” in this column | (i)DCPL | MS, SS, SFP
| (ii)BSR | BS

(D) Daily landings weight. The operator or manager must enter daily landings weight per the following table:

Enter . . . | In a . . . | If a . . .
(1) Obtain actual weights for each groundfish species received and retained by: Sorting according to species codes and direct weighing of that species, or weighing the entire delivery and then sorting and weighing some or all of the groundfish species individually to determine their weight. | DCPL, DPR | SS, SFP
(2) Record daily combined scale weights of landings by species and product codes | DCPL, DPR | SS, SFP

(E) Daily product weight. The operator or manager of a SS, SFP, MS, or C/P must enter total daily fish product weight or actual scale weight of fish product by species and product codes in the DCPL and DPR.

(F) Daily discard or disposition weight and number. The operator or manager must enter daily discard or disposition weight and number per the following table:

Enter . . . | In a . . . | If a . . .
(1) The daily estimated total weight of discards or disposition for Pacific herring and each groundfish species or species group | DCPL, DFL, BSR, ADF&G fish ticket | CV, BS, SS, SFP, MS, C/P
(2) The daily estimated numbers of whole fish discards or disposition of prohibited species Pacific salmon, steelhead trout, Pacific halibut, king crab, and C. opilio or C. bairdi Tanner crabs | DCPL, DFL, BSR, ADF&G fish ticket | CV, BS, SS, SFP, MS, C/P

(G) Balance brought forward. The operator or manager must enter the balance brought forward per the following table:

Enter . . . | In a . . . | If a . . .
(1) The total product balance brought forward from the previous day | DCPL | MS, C/P
(2) The total estimated discards or disposition balance brought forward from the previous day | DFL, DCPL | CV, MS, C/P

(H) Zero balance. The operator or manager must enter zero balance per the following table:

Record weights as zero | In a . . . | If a . . .
(1) After the offload or transfer of all fish or fish product onboard and prior to the beginning of each fishing trip | DFL | CV
(2) After the offload or transfer of all fish or fish product onboard, if such offload occurs prior to the end of a weekly reporting period. Nothing shall be carried forward | DCPL | MS, C/P
(3) At the beginning of each weekly reporting period. Nothing shall be carried forward from the previous weekly reporting period | DCPL | MS, C/P

(I) Cumulative totals. The operator or manager must enter cumulative totals per the following table:

Enter . . . | In a . . . | If a . . .
(1) Weekly cumulative totals, calculated by adding the daily totals and balance carried forward | DCPL, WPR | MS, C/P
(2) Weekly cumulative totals, calculated by adding the daily totals | DCPL, WPR | SS, SFP
(3) Cumulative total discards or disposition since last delivery. Enter the cumulative estimated total discards or disposition since last delivery calculated by adding the daily totals and balance carried forward from the day before | DFL | CV

(v) Numbers of fish. The operator or manager must record the estimated numbers of whole fish discards or disposition of prohibited species Pacific salmon, steelhead trout, Pacific halibut, king crab, and C. opilio or C. bairdi Tanner crabs.

(vi) Species codes. To record species information for federally managed groundfish, the operator or manager must use Table 2 to this part to determine species codes.

(vii) Product codes and product designations. To record product information for federally managed groundfish, the operator or manager must use Table 1 to this part to determine product codes and product designations.

(viii) Target codes. To record target species information for federally managed groundfish, the operator or manager must use Table 2 to this part to determine species codes. Target species may be recorded as primary and secondary.

(ix) Gear type information—(A) Longline or pot gear. If a catcher vessel or catcher/processor using longline or pot gear, the operator or manager must indicate the gear type used to harvest the fish and appropriate ``gear ID''. If gear information is the same on subsequent pages, check the appropriate box instead of re-entering the information.

(B) If gear type is . . . | Then enter . . .
(1) Pot | Number of pots set
(2) Hook-and-line | (i) Check the appropriate box to indicate whether gear is fixed hook (conventional or tub), autoline, or snap (optional, but may be required by IPHC regulations).
| (ii) Length of skate to the nearest foot (optional, but may be required by IPHC regulations).
| (iii) Size of hooks, hook spacing in feet, and number of hooks per skate (optional, but may be required by IPHC regulations).
| (iv) Number of skates set
| (v) Number of skates lost (if applicable) (optional, but may be required by IPHC regulations).
(3) Longline | Bird avoidance gear code (see Table 19 to this part).

(x) Separate logsheet, WPR, check-in/check-out report. The operator or manager must use a separate page (logsheet, WPR, check-in/check-out report) according to the table in paragraph (a)(7)(xii) of this section:

(A) For each day of an active period, except shoreside processor or stationary floating processors may use one logsheet for each day of an active period or use one logsheet for up to 7 days.

(B) If harvest from more than one reporting area.

(C) If harvest from COBLZ or RKCSA within a reporting area. Use two separate logsheets, the first to record the information from the reporting area that includes COBLZ or RKCSA, and the second to record the information from the reporting area that does not include COBLZ or RKCSA.

(D) If harvest with more than one gear type.

(E) If harvest under a separate management program. If harvest from more than one program of the same management type, use a separate logsheet for each identifying program number.

(xi) Reporting area. The operator or manager must record the reporting area code (see Figures 1 and 3 to this part) where gear retrieval (see § 679.2) was completed, regardless of where the majority of the set took place. Record in the DFL, BSR, DCPL, SPELR, WPR, DPR, and mothership or catcher/processor check-in/check-out report.

(xii) Areas within a reporting area. If harvest was caught using trawl gear, the operator or manager must indicate whether fishing occurred in the COBLZ or RKCSA:

| Area | Reference
(A) COBLZ | BSAI C. opilio Bairdi Bycatch Limitation Zone | Figure 13 to this part.
(B) RKCSA | Red King Crab Savings Area | Figure 11 to this part.

(xiii) Observer information. Record the number of observers aboard or on site, the name of the observer(s), and the observer cruise number(s) in the DFL and DCPL. If a shoreside processor or stationary floating processor, record also the dates present for each observer.

(xiv) Number of crew or crew size. Record the number of crew, excluding certified observer(s), on a mothership or catcher/processor WPR and in the BSR; on the last day of the weekly reporting period in a mothership or catcher/processor DCPL; and in the DFL on the last day of a trip for a catcher vessel.

(xv) Management program. Indicate whether harvest occurred under one of the listed management programs in a DFL, BSR, DCPL, SPELR, WPR, DPR, or check-in/check-out report. If harvest is not under one of these management programs, leave blank.

If harvest made under . . . . program | Indicate yes and record the . . . . | Reference
(A) CDQ | CDQ group number | Subpart C to part 679.
(B) Exempted Fishery | Exempted fishery permit number | § 679.26.
(C) Research | Research program permit number | § 600.745(a) of this chapter.
(D) IFQ | IFQ permit number(s) | Subpart D to part 679.

(8) Landings information—(i) Requirement. The manager of a shoreside processor or stationary floating processor must record landings information for all retained species from groundfish deliveries.

(A) If recording in DCPL, or DPR, enter date of landing and daily weight and weekly cumulative weight by species code and product code.

(B) If recording in WPR, enter weekly cumulative weight by species code and product code.

(ii) Landings as product. If a shoreside processor or stationary floating processor receives groundfish, records them as landings in Part IB of the DCPL, and transfers these fish to another processor without further processing, the manager must also record the species code, product code, and weight of these fish in Part II of the DCPL prior to transfer.

(9) Product information—(i) Requirement. The operator of a catcher/processor or mothership or the manager of a shoreside processor or stationary floating processor must record groundfish product information for all retained species from groundfish deliveries.

(A) If recording in DCPL or DPR, enter date of production (shoreside processor or stationary floating processor only); daily weight, balance forward (except shoreside processor or stationary floating processor), and weekly cumulative weight by species code, product code, and product designation.

(B) If recording in WPR, enter weekly cumulative weight by species code, product code, and product designation.

(ii) Custom processing. The operator of a catcher/processor or mothership or the manager of a shoreside processor or stationary floating processor must record products that result from custom processing by you for another processor. If you receive unprocessed or processed groundfish to be handled or processed for another processor or business entity, enter these groundfish in a DCPL and a WPR consistently throughout a fishing year using one of the following two methods:

(A) Combined records. Record landings (if applicable), discards or dispositions, and products of contract-processed groundfish routinely in the DCPL, SPELR, WPR, and DPR without separate identification; or

(B) Separate records. Record landings (if applicable), discards or dispositions, and products of custom-processed groundfish in a separate DCPL, WPR, and DPR identified by the name, Federal processor permit number or Federal fisheries permit number, and ADF&G processor code of the associated business entity.

(10) Discard or disposition information—(i) Shoreside processor, stationary floating processor, mothership—(A) DCPL or DPR. (1) Except as described in paragraph (a)(10)(v) of this section, the manager of a shoreside processor or stationary floating processor, and the operator of a mothership must record in a DCPL and DPR, discard or disposition information that occurred on and was reported by a catcher vessel, that occurred on and was reported by a buying station, and that occurred prior to, during, and after production of groundfish.

(2) Discard or disposition information must include: Date of discard or disposition (only shoreside processor or stationary floating processor); daily weight of groundfish; daily weight of Pacific herring PSC; daily number of PSC animals; balance forward (except shoreside processor or stationary floating processor); and weekly cumulative weight of groundfish and herring PSC; weekly cumulative number of PSC animals; species codes and product codes.

(B) WPR. The manager of a shoreside processor or stationary floating processor, and the operator of a mothership must record in a WPR, discard or disposition information to include: week-ending date; weekly cumulative weight of groundfish and herring PSC; and weekly cumulative number of PSC animals by species code and product code.

(ii) Catcher/processor—(A) DCPL or DPR. (1) The operator of a catcher/processor must record in a DCPL and DPR, discard or disposition information that occurred prior to, during, and after production of groundfish.

(2) Discard or disposition information must include: daily weight of groundfish; daily weight of herring PSC; daily number of PSC animals, balance forward, and weekly cumulative weight of groundfish and herring PSC; and weekly cumulative number of PSC animals by species code and product code.

(B) WPR. The operator of a catcher/processor must record in a WPR, discard or disposition information to include: week-ending date; weekly cumulative weight of groundfish and herring PSC; and weekly cumulative number of PSC animals by species code and product code.

(iii) Buying station. The operator or manager of a buying station must record in a BSR discard or disposition information that occurred on and was reported by a catcher vessel and that occurred on and prior to delivery to an associated processor. Discard or disposition information must include: daily weight of groundfish, daily weight of herring PSC, and daily number of PSC animals by species code and product code.

(iv) Catcher vessel. Except as described in paragraph (a)(10)(vi) of this section, the operator of a catcher vessel must record in a DFL discard or disposition information that occurred on and prior to delivery to a buying station, mothership, shoreside processor, or stationary floating processor. Discard or disposition information must include daily weight of groundfish, daily weight of herring PSC, and daily number of PSC animals by species code and product code.

(v) Exemption: Catcher vessel unsorted codends. If a catcher vessel is using trawl gear and deliveries to a mothership, shoreside processor, stationary floating processor, or buying station are of unsorted codends, the catcher vessel is exempt from recording discards in the DFL and from submittal of the blue discard logsheet for that delivery.

(vi) Discard quantities over maximum retainable amount. When fishing in an IFQ fishery and the fishery for Pacific cod or rockfish is closed to directed fishing in that reporting area as described in § 679.20, the operator must retain and record up to and including the maximum retainable amount for Pacific cod or rockfish as defined in Table 10 or 11 to this part; quantities over this amount must be discarded and recorded as discard in the logbook.

(vii) Discard or disposition logbook recording time limits. The operator or manager must record discards and disposition information in the logbook within the time limits given in the following table:

If participant is a ¹ . . . | Record information . . .
(A) MS, SS, SFP | By noon each day to record the previous day’s discard/disposition that:
| (1) Occurs on site after receipt of groundfish from a CV or BS;
| (2) Occurs during processing of groundfish received from a CV or BS;
| (3) Was reported on a blue DFL received from a CV delivering groundfish;
| (4) Was reported on a BSR received from a BS delivering groundfish, if different from blue DFL.
(B) CV, C/P | By noon each day to record the previous day’s discard/disposition.
(C) BS | By noon each day to record the previous day’s discard/disposition that:
| (1) Was reported on a blue DFL received from a CV delivering groundfish.
| (2) Occurs on BS after receipt of harvest from a CV.
| (3) Occurs prior to delivery of harvest to a MS, SS, or SFP.
¹ CV=Catcher vessel; SS=Shoreside processor; SFP=stationary floating processor; MS=mothership; Catcher/processor=C/P; BS=Buying station

(11) Delivery information—(i) Mothership, shoreside processor or stationary floating processor. The operator of a mothership or manager of a shoreside processor or stationary floating processor must record delivery information in a DCPL or SPELR when unprocessed groundfish deliveries are received from a buying station or a catcher vessel. Discards must also be recorded when no groundfish are delivered but the blue discard logsheet containing records of discards is submitted by a catcher vessel (e.g., an IFQ fish delivery with no groundfish incidental catch).

(ii) Buying station. (A) The operator or manager of a buying station must record delivery information in a BSR when unprocessed groundfish deliveries are received from a catcher vessel and also when no groundfish are delivered but the blue discard logsheet containing records of discards is submitted by a catcher vessel (e.g., an IFQ fish delivery with no groundfish incidental catch).

(B) In addition, a catcher vessel operator by prior arrangement with a processor may function as a buying station for his own catch by: Shipping his groundfish catch with a copy of the BSR directly to that processor via truck or airline in the event that the processor is not located where the harvest is offloaded; or by driving a truck that contains his catch and a copy of the BSR to the processor. When the shipment arrives at the processor, the information from the BSR would be incorporated by the manager of the shoreside processor or stationary floating processor into the DCPL.

(iii) Required delivery information, Mothership, shoreside processor, stationary floating processor, or buying station—(A) Date of delivery. Enter date of delivery.

(B) CV or BS. If a mothership, shoreside processor, or stationary floating processor, the manager or operator must:

(1) Enter CV or BS to indicate delivery from catcher vessel or buying station, respectively.

(2) If delivery is from a buying station, keep the BSR for each delivery on file throughout the fishing year and for 3 years after the end of the fishing year.

(C) Receive discard report. Indicate whether the blue discard logsheet was received from the catcher vessel at the time of catch delivery; if delivery from a buying station, leave this column blank; if blue discard logsheet not received from catcher vessel, enter NO and the response code (example: NO-L) to describe the reason for non-submittal as follows:

If blue DFL not submitted by catcher vessel, record number followed by . . . | To indicate the catcher vessel
(1) P | Does not have a Federal fisheries permit.
(2) P | Is under 60 ft (18.3 m) LOA and does not have a Federal fisheries permit.
(3) L | Is under 60 ft (18.3 m) LOA and has a Federal fisheries permit.
(4) U | Delivered an unsorted codend.

(D) Name and ADF&G vessel registration number (if applicable) of the catcher vessel or buying station delivering the groundfish;

(E) Time when receipt of groundfish delivery was completed;

(F) Mothership begin position. If a mothership, the mothership’s begin position coordinates when receiving the groundfish delivery;

(G) ADF&G fish ticket numbers. (1) If a mothership, shoreside processor, or stationary floating processor and receiving unprocessed groundfish from a catcher vessel, record in the DCPL and WPR the AD&FG fish ticket number issued to each catcher vessel; if receiving unprocessed groundfish from an associated buying station, record in the DCPL and WPR the AD&FG fish ticket numbers issued by the buying station to the catcher vessel.

(2) If a buying station and receiving unprocessed groundfish from a catcher vessel, record in the BSR the ADF&G fish tickets numbers issued to each catcher vessel.

(H) Fish ticket numbers, state other than Alaska. If a shoreside processor located in a state other than Alaska and receiving unprocessed groundfish from a catcher vessel, record in the DCPL and WPR the fish ticket numbers issued for that non-Alaska state along with the two-character abbreviation for that state.

(I) Catch receipt numbers, state other than Alaska. If a shoreside processor located in a state other than Alaska where no fish ticket system is available and receiving unprocessed groundfish from a catcher vessel, record in the DCPL the catch receipt number issued to the catcher vessel.

(iv) Catcher vessel using trawl gear. If a catcher vessel using trawl gear, indicate whether sorting of codend onboard or bleeding from a codend occurred prior to delivery to a mothership, shoreside processor, stationary floating processor, or buying station. If delivery is an unsorted codend, see paragraph (a)(10)(vi) of this section. Delivery information required: The delivery date; the ADF&G fish ticket number(s) received for delivery; and recipient’s name and ADF&G processor code.

(v) Catcher vessel using longline or pot gear. If IFQ delivery, information required: the delivery date; the ADF&G fish ticket number(s) received at delivery; name of IFQ Registered Buyer receiving harvest; name of unloading port (see paragraph (l)(5)(vi) of this section and Table 14 to this part) or landing location. If non-IFQ delivery, information required: the delivery date; the ADF&G fish ticket number(s) received at delivery; name of recipient receiving harvest; name of unloading port (see Table 14 to this part) or landing location.

(12) Alteration of records. (i) The operator, manager, or any other person may not alter or change any entry or record in a logbook, except that an inaccurate or incorrect entry or record may be corrected by lining out the original and inserting the correction, provided that the original entry or record remains legible.

(ii) No person except an authorized officer may remove any original page of any logbook.

(13) Inspection and retention of records—(i) Inspection. The operator of a catcher vessel or catcher/processor or mothership, the manager of a shoreside processor or stationary floating processor, or the operator of a buying station must make all logbooks, reports, forms, and mothership-issued fish tickets required under this section available for inspection upon the request of an authorized officer for the time periods indicated in paragraph (a)(13)(ii) of this section.

(ii) Retention of records. The operator or manager must retain logbooks and forms as follows:

(A) On site. On site at the shoreside facility or onboard the vessel until the end of the fishing year during which the records were made and for as long thereafter as fish or fish products recorded in the logbooks and forms are retained.

(B) For 3 years. Make them available upon request of an authorized officer for 3 years after the end of the fishing year during which the records were made.

(14) Submittal and distribution of logbooks and forms—(i) Submittal of forms. The operator or manager must submit to NMFS the check-in report, check-out report, VAR, WPR, DPR, and PTR (see Table 9 to this part), as applicable, by:

(A) Faxing the NMFS printed form to the FAX number on the form; or

(B) Telexing a data file to the telex number on the form.

(C) Transmitting a data file with required information and forms to NMFS by e-mail, modem, or satellite (specifically INMARSAT standards A, B, or C).

(D) With the approval of the Regional Administrator, using the voluntary electronic reporting format for the check-in report, check-out report, WPR, and shoreside processor electronic logbook delivery report.

(ii) Logbook copy sets. (A) The copy sets of each logbook are described in the following table:

Type of logbook | Copy sets
(1) Catcher vessel longline and pot gear DFL | White, blue, green, yellow, goldenrod.
(2) Catcher vessel trawl gear DFL | White, blue, yellow, goldenrod.
(3) Catcher/processor longline and pot gear DCPL | White, green, yellow, goldenrod.
(4) Catcher/processor trawl gear DCPL | White, yellow, goldenrod.
(5) Mothership DCPL | White, yellow, goldenrod.
(6) Shoreside processor DCPL | White, yellow, goldenrod.

(B) [Reserved]

(iii) Logsheet distribution. The logsheet distribution is described in the following table:

If logsheet is . . . | >Then, the operator or manager must . . .
(A) White | Retain, permanently bound in the logbook.
(B) Yellow | Submit quarterly to: NOAA Office for Enforcement, Alaska Region, Logbook Program, P.O. Box 21767, Juneau, AK 99802-1767 on the following schedule:
| 1st quarter by May 1 of that fishing year
| 2nd quarter by August 1 of that fishing year
| 3rd quarter by November 1 of that fishing year
| 4th quarter by February 1 of the following fishing year.
(C) Blue | (1) Catcher vessel. Except when delivering an unsorted codend (see paragraph (a)(10)(vi) of this section), submit to the buying station, mothership, shoreside processor or stationary floating processor that receives the harvest.
| (2) Buying station. Submit upon delivery of catch to an associated mothership, shoreside processor, or stationary floating processor any blue discard logsheet received from catcher vessels delivering groundfish to the buying station.
(D) Green | Longline and pot gear DFL and DCPL. To support a separate IFQ data collection by the IPHC under the joint NMFS/IPHC logbook program; check with the IPHC for submittal and retention requirements.
(E) Goldenrod | Submit to the observer onboard or onsite after the logsheet is signed by the operator or manager.

(iv) Logbook time limits. The following table displays the responsibilities of the operator or manager to submit the identified logsheet within a specified time limit:

If a . . . | The operator or manager must . . . | Time limit
(A) CV | Submit the blue DFL logsheets to the MS, SS, SFP, or BS receiving the catch | >Within 2 hours after completion of catch delivery.
(B) CV or C/P | (1) DFL, DCPL using trawl gear: record time, position, CDQ group number and estimated total groundfish catch weight for each haul or set | Within 2 hours after completion of gear retrieval.
| (2) DFL, DCPL using longline or pot gear: record set number, time and date set, time and date hauled, begin and end position, number of pots set, and estimated total catch weight of groundfish for each set | Within 2 hours after completion of gear retrieval.
| (3) DFL, DCPL: notwithstanding other time limits, record all information required in the DFL or DCPL | Within 2 hours after the vessel's catch is off-loaded.
(C) CV, C/P, MS, SS or SFP | (1) DFL, DCPL: record discard or disposition information | By noon each day to record the previous day's discard/disposition.
| (2) DFL, DCPL: sign the completed logsheets | By noon of the day following the week-ending date of the weekly reporting period.
| (3) DFL, DCPL: submit the goldenrod logsheet to the observer | After signature of operator or manager.
(D) C/P, MS, SS, or SFP | (1) DFL, DCPL: record all other required information | By noon of the day following completion of production.
| (2) DFL, DCPL: record product information | By noon each day for the previous day's production.
(E) MS, SS or SFP | (1) DFL, DCPL: record delivery information | Within 2 hours after completion of receipt of each groundfish delivery.
| (2) DFL, DCPL: record all other information required in the logbook | By noon of the day following the day the receipt of groundfish was completed.
(F) SS or SFP | DCPL: record landings information | By noon each day to record the previous day's landings.
Note: SS = shoreside processor; SFP = stationary floating processor; C/P = catcher/processor; CV = catcher vessel; MS = mothership; BS = buying station

(15) Transfer document comparison. When the operator or manager is participating in both the groundfish fisheries and the IFQ fisheries, certain exceptions to submittal of forms are provided by the following table:

| VAR | PTR | IFQ trans shipment authorization | IFQ vessel clearance | IFQ departure report | IFQ dockside sale receipt | IFQ shipment report
| § 679. 5(k) | § 679.5(g) | § 679. 5(l)(4) | § 679. 5(l)(5) | § 679. 5(l)(5) | § 679. 5(l)(3)(iv) | § 679. 5(l)(3)
(i) If a catcher vessel leaving Alaska with groundfish but no IFQ product onboard | X
(ii) If a mothership or catcher/processor leaving Alaska with groundfish but no IFQ product onboard | X | X
(iii) If a vessel leaving Alaska with IFQ sablefish or halibut but no other groundfish onboard |  |  |  | X | X
(iv) If a vessel leaving Alaska with IFQ sablefish or halibut and other groundfish onboard | X | X |  | X | X
(v) Transfer of groundfish |  | X
(vi) Transfer of CDQ sablefish |  |  |  |  |  |  | X
(vii) Transfer of IFQ fish |  |  |  |  |  | X | X
(viii) Transfer of IFQ between vessels |  |  | X

(b) Representative. (1) The operator of a catcher vessel, mothership, catcher/processor, or buying station delivering to a mothership or manager of a shoreside processor or buying station delivering to a shoreside processor or stationary floating processor may identify one contact person to complete the logbook and forms and to respond to inquiries from NMFS. Designation of a representative under this paragraph does not relieve the owner, operator, or manager of responsibility for compliance under paragraph (a)(2) of this section.

(2) Except for a DFL, BSR, PTR, or DCPL, the operator or manager must provide the following representative identification information: The representative's name; daytime business telephone number (including area code); and FAX or telex number. In addition, if completing a DPR, a VAR, or a mothership or catcher/processor check-in/check-out report, the representative's COMSAT number.

(c) Catcher vessel DFL and catcher/processor DCPL—(1) Longline and pot DFL and DCPL. In addition to information required at paragraphs (a) and (b) of this section, the operator of a catcher vessel or a catcher/processor using longline or pot gear to harvest groundfish and the operator of a catcher vessel or a catcher/processor using longline or pot gear to harvest IFQ sablefish or IFQ halibut must record in the DFL or DCPL:

(i) Gear type;

(ii) IFQ permit number of the operator, if any, and of each IFQ holder aboard the vessel;

(iii) Groundfish CDQ group number;

(iv) Halibut CDQ permit number;

(v) The set number, sequentially by year;

(vi) Date, time, and begin position coordinates of gear deployment;

(vii) Begin and end buoy or bag numbers (optional, but may be required by IPHC regulations);

(viii) Date, time, and end position coordinates of gear retrieval;

(ix) Begin and end gear depths, recorded to the nearest fathom (optional, but may be required by IPHC regulations);

(x) Number of skates or pots set;

(xi) Number of skates or pots lost (optional, but may be required by IPHC regulations);

(xii) Target species code;

(xiii) Estimated catch weight of IFQ halibut and CDQ halibut to the nearest pound, indicate “CDQ” above the amount of CDQ halibut;

(xiv) Estimated weight of IFQ sablefish to the nearest pound;

(xv) Indicate whether IFQ sablefish product is Western cut, Eastern cut, or round weight;

(xvi) Number of sablefish;

(xvii) The bird avoidance gear code;

(xviii) If a catcher/processor, enter separately the round catch weight of pollock and Pacific cod to the nearest pound or metric ton and the estimated total round catch weight of all retained species combined, except sablefish, halibut, pollock and Pacific cod to at least the nearest 0.001 mt;

(xix) If a catcher vessel, the estimated total round catch weight of all species combined, except sablefish and halibut.

(2) Trawl gear DFL and DCPL. In addition to information required at paragraphs (a) and (b) of this section, the operator of a catcher vessel or a catcher/processor using trawl gear to harvest groundfish must record in the DFL or DCPL:

(i) Whether nonpelagic trawl or pelagic trawl;

(ii) Haul number, sequentially by year;

(iii) Time and begin position coordinates of gear deployment;

(iv) Date, time, and end position coordinates of gear retrieval;

(v) Average sea depth and average gear depth, recorded to the nearest meter or fathom and whether depth recorded in meters or fathoms;

(vi) Target species code;

(vii) If a catcher/processor, enter separately the round catch weight of pollock, Pacific cod, and the estimated total round catch weight of all retained species except Pacific cod and pollock, and indicate whether weight is recorded to the nearest pound or metric ton;

(viii) If a catcher vessel, enter the estimated total round catch weight of all retained species.

(d) Buying station report (BSR)—(1) Requirement. In addition to information required at paragraphs (a) and (b) of this section, the operator or manager of a buying station must:

(i) Enter on each BSR the name, ADF&G processor code, and Federal fisheries or processor permit number of its associated processor;

(ii) Record each delivery of unprocessed groundfish or donated prohibited species to an associated processor on a separate BSR.

(iii) Ensure that a BSR, along with any blue discard logsheets received from a catcher vessel, accompanies each groundfish delivery from the landing site to the associated processor.

(iv) Retain a copy of each BSR.

(2) Time limits and submittal. The operator or manager must record all information required and sign the BSR within 2 hours of completion of delivery from catcher vessel.

(e) Shoreside processor electronic logbook report (SPELR).

(1) The owner or manager must use SPELR or NMFS-approved software for the duration of the fishing year to report every delivery from all catcher vessels and maintain the SPELR and printed reports as described at paragraph (f) of this section, if a shoreside processor or stationary floating processor:

(i) Receives groundfish from AFA catcher vessels;

(ii) Receives pollock harvested in a directed pollock fishery.

(2) The owner or manager of a shoreside processor or stationary floating processor that is not required to use SPELR under paragraph (e)(1) of this section may use, upon approval by the Regional Administrator, SPELR or NMFS-approved software in lieu of the shoreside processor DCPL and shoreside processor WPR. Processors using the SPELR must maintain the SPELR and printed reports as described in this paragraph (e) and at paragraph (f) of this section.

(3) Exemptions. The owner or manager who uses the SPELR per paragraphs (e)(1) and (2) of this section is exempt from the following requirements:

(i) Maintain shoreside processor DCPL.

(ii) Submit quarterly DCPL logsheets to NOFE, Juneau, as described at paragraph (a)(14)(iii) of this section.

(iii) Maintain and submit WPRs to the Regional Administrator as described at paragraph (i) of this section.

(iv) If receiving deliveries of fish under a CDQ program, submit CDQ delivery reports to the Regional Administrator as described at paragraph (n)(1) of this section.

(4) Time limit and submittal. (i) The SPELR must be submitted daily to NMFS as an electronic file. A dated return-receipt will be generated and sent by NMFS to the processor confirming receipt and acceptance of the report. The owner or manager must retain the return receipt as proof of report submittal. If an owner or manager does not receive a return receipt from NMFS, the owner or manager must contact NMFS within 24 hours for further instruction on submittal of SPELRs.

(ii) Daily information described at paragraph (e)(6) of this section must be entered into the SPELR each day on the day they occur.

(iii) Information for each delivery described at paragraph (e)(7) of this section must be submitted to the Regional Administrator by noon of the following day for each delivery of groundfish.

(5) Information entered once (at software installation) or whenever it changes. The owner or manager must enter the following information into the SPELR when software is installed or whenever any of the information changes:

(i) Shoreside processor or stationary floating processor name, ADF&G processor code, Federal processor permit number, and processor e-mail address;

(ii) State port code as described in Table 14 to this part;

(iii) Name, telephone and FAX numbers of representative.

(6) Information entered daily. The owner or manager must daily enter the following information into the SPELR:

(i) Whether no deliveries or no production;

(ii) Number of observers on site;

(iii) Whether harvested in BSAI or GOA;

(iv) Product by species code, product code, and product designation;

(v) Product weight (in lb or mt).

(7) Information entered for each delivery. The owner or manager must enter for each delivery the following information into the SPELR:

(i) Date fishing began; delivery date; vessel name and ADF&G vessel registration number; ADF&G fish ticket number of delivery; management program name and identifying number (if any); gear type of harvester; landed species of each delivery by species code, product code, and weight (in pounds or mt); ADF&G statistical area(s) where fishing occurred and estimated percentage of total delivered weight corresponding to each area; and whether delivery is from a buying station.

(ii) If delivery received from a buying station, indicate name and type of buying station (vessel, vehicle, or other); date harvest received by buying station; if a vessel, ADF&G vessel registration number; if a vehicle, license plate number; if other than a vessel or vehicle, description.

(iii) Whether a blue discard logsheet was received from catcher vessel; if not received, reason given; discard or disposition species; if groundfish or PSC herring, enter species code, product code, and weight (in pounds or mt); if PSC halibut, salmon, or crab, enter species code, product code, and count (in numbers of animals).

(iv) If a CDQ delivery, enter species code, product code, weight (in pounds or mt) and count of PSQ halibut.

(f) SPELR printed reports—(1) Requirement—(i) Daily printouts. The manager daily must print onsite at the shoreside processor or stationary floating processor two reports: a shoreside logbook daily production report and a delivery worksheet using pre-determined formats generated by the SPELR or NMFS-approved software.

(ii) Signature. The owner or manager of the shoreside processor or stationary floating processor must sign and enter date of signature onto each SPELR printed report. The signature of the owner or manager on SPELR printed reports is verification of acceptance of the responsibility required in paragraphs (e) and (f) of this section.

(iii) Delivery worksheet. The Delivery Worksheet results from a SPELR or NMFS-approved pre-determined format of the data; it summarizes daily landings and discards.

(iv) Shoreside logbook daily production report. The Shoreside Logbook Daily Production Report results from a SPELR or NMFS-approved pre-determined format of the data; it summarizes daily production.

(2) Retention. The manager must retain the paper copies of the reports described in paragraph (f)(1) of this section as follows:

(i) Onsite. Onsite at the shoreside processor or stationary floating processor until the end of the fishing year during which the reports were made and for as long thereafter as fish or fish products recorded in the reports are retained.

(ii) For 3 years. For 3 years after the end of the fishing year during which the reports were made.

(3) Inspection. The owner or manager must make available the reports described in paragraph (f)(1) of this section upon request of observers, NMFS personnel, and authorized officers.

(g) Groundfish Product Transfer Report (PTR). (1) Except as provided in paragraphs (g)(1)(i) through (iv) of this section, the operator of a mothership or catcher/processor or the manager of a shoreside processor or stationary floating processor must record on a separate PTR each transfer of groundfish product (including unprocessed fish) or donated prohibited species.

(i) Exemption: Bait sales. The operator or manager may aggregate individual sales or transfers of groundfish to vessels for bait purposes during a day onto one PTR when recording the amount of such bait product leaving a facility that day. If transfer is a daily aggregation of bait sales, enter “BAIT SALES” in the “RECEIVER” box and enter the time of the first sale of the day and the time of the last sale of the day.

(ii) Exemption: Over-the-counter groundfish sales. The operator or manager may aggregate individual over-the-counter sales of groundfish for human consumption in quantities less than 10 lb (0.0045 mt) per sale during a day onto one PTR when recording the amount of such over-the-counter product leaving a facility that day. If transfer is a daily aggregation of over-the-counter product sales, enter “OVER-THE-COUNTER SALES” in the “RECEIVER” box and enter the time of the first sale of the day and the last sale of the day.

(iii) Exemption: Wholesale sales. The operator or manager may aggregate wholesale sales of groundfish by species during a single day onto one PTR when recording the amount of such wholesale product leaving a facility that day, as long as the invoices detailing destinations for all of the product are available for inspection by an authorized officer. If transfer is a daily aggregation of wholesale product sales, enter “WHOLESALE SALES” in the “RECEIVER” box and enter the time of the first sale of the day and the last sale of the day.

(iv) Exemption: IFQ Registered Buyer permit and IFQ or CDQ sablefish product. If the operator or the manager possesses a Registered Buyer permit issued per § 679.4(d)(2), the operator or manager is not required to submit a PTR to document shipment of IFQ or CDQ sablefish product. However, a shipment report as described at paragraph (l)(3) of this section is required for each shipment of IFQ or CDQ sablefish product.

(2) Time limits and submittal. The operator of a mothership or catcher/processor or manager of a shoreside processor or stationary floating processor must:

(i) Record all product transfer information on a PTR within 2 hours of the completion of the transfer.

(ii) Submit by FAX or electronic file a copy of each PTR to NOFE, Juneau, by 1200 hours, A.l.t., on the Tuesday following the end of the applicable weekly reporting period in which the transfer occurred.

(iii) A PTR is not required to accompany a shipment or offload.

(3) General information. In addition to requirements described in paragraphs (a) and (b) of this section the operator or manager must record on a PTR:

(i) Whether original or revised PTR;

(ii) Whether receipt or shipment. “RECEIPT” if product is received; “SHIPMENT” if transferring product off your site or transferring product off your vessel;

(iii) Your processor type;

(iv) Whether you are the shipper or the receiver.

(4) Transfer Information—(i) Shipper. (A) Enter information about your company: If you are shipping groundfish or groundfish product, enter your company name, address, FAX number, and ADF&G processor code.

(B) Enter information about the other company: If you are receiving groundfish or groundfish product from another company, enter name of the other company and ADF&G processor code (if applicable).

(ii) Receiver. (A) Enter information about your company: If you are receiving groundfish or groundfish product, enter your company name and ADF&G processor code.

(B) Enter information about the other company: If you are shipping groundfish or groundfish product to another company on land, enter name of the receiver and ADF&G processor code (if applicable).

(C) If you are the shipper, enter appropriate information about the other company as provided in the following table:

If . . . | You must provide the . . . | Date and time of product transfer | Position of product transfer or port of landing | Mode of transportation & intended route
(1) Receiver is on land | Name of the receiver and ADF&G processor code (if applicable) | (i) Ground Transportation. If transfer involves one van or truck, the date and time when shipment leaves the plant | N/A | The name of the shipping company and van or truck arrival location.
|  | (ii) If transfer involves multiple vans or trucks, the date and time when loading of vans or trucks is completed each day | N/A | The name of the shipping company and van or truck arrival location.
|  | (iii) Airline Transportation. If transfer involves one airline flight, the date and time when shipment leaves the plant | N/A | The name of the airline and airport arrival location.
|  | (iv) If transfer involves multiple airline flights, record date and time when the last airline flight shipment of the day leaves | N/A | The name of the airline and airport arrival location.
(2) Receiver is a vessel | Name and call sign of the vessel | Start and finish dates and times of product transfer | If the product transfer occurs at sea, enter transfer position coordinates in latitude and longitude in degrees and minutes. If a mothership or catcher/ processor and the product transfer takes place in port, enter the name of the port and country (if other than USA) | The first destination of the vessel.
(3) Receiver is an agent (buyer, distributor, or shipping agent) | Name and location (city, state) of agent | Start and finish dates and times of product transfer | N/A | If a containerized van, the name of the vessel transporting the van and arrival port.
(4) If aggregating individual over-the-counter sales of groundfish for human consumption in quantities less than 10 lb (0.0045 mt) per sale during a day onto one PTR | “OVER-THE-COUNTER SALES” | The time of the first sale of the day and the time of the last sale of the day | N/A | N/A
(5) If aggregating individual bait sales of groundfish during a day onto one PTR | “BAIT SALES” | N/A | N/A | N/A
(6) If aggregating wholesale product sales of ground-fish by species during a single day onto one PTR and maintaining for inspection by an authorized officer, invoices detailing destinations for all of the product | “WHOLESALE SALES” | N/A | N/A | N/A

(5) Products shipped or received. Enter information for each transfer:

(i) The species code and product code for each product transferred (Tables 1 and 2 to this part).

(ii) The number of cartons or production units transferred.

(iii) The average weight of one carton or production unit for each species and product code in kilograms or pounds (indicate which).

(iv) The total net weight (to the nearest 0.001 mt) of the products transferred.

(v) In addition to paragraphs (g)(5)(i) through (iv) of this section, if recording two or more species with one or more product types of fish in the same carton, enter the actual scale weight of each product of each species to the nearest 0.001 mt. If not applicable, enter “n/a” in the species weight column. If you use more than one line to record species in one carton, use a bracket } to tie the carton information together.

(6) Total or partial offload. (i) If a mothership or catcher/processor, indicate whether the transfer is a total or partial offload.

(ii) If a partial offload, for the products remaining on board, enter: species code, product code, and total product weight to the nearest 0.001 mt for each product.

(h) Check-in/check-out report—(1) Requirements. The operator of a catcher/processor or mothership and the manager of a shoreside processor or stationary floating processor must submit check-in reports during any active period and check-out reports when not active for every check-in report submitted within the given time limits to the Regional Administrator by FAX; Telex; or transmit a data file by e-mail, modem, or satellite (specifically INMARSAT standards A, B, or C); or transmit by voluntary electronic check-in and check-out reports.

(i) Check-in report (BEGIN message). Except as indicated in paragraph (h)(1)(iii) to this part, the operator or manager must submit a check-in report according to the following table:

Submit a separate BEGIN message for . . . | If you are a . . . | Within this time limit
(A) Each reporting area of groundfish harvest, except 300, 400, 550, or 690 | (1) C/P using trawl gear | Before gear deployment.
| (2) C/P using longline or pot gear | Before gear deployment. May be checked in to more than one area simultaneously.
| (3) MS, SS, SFP | Before receiving groundfish. May be checked in to more than one area simultaneously.
| (4) MS | Must check-in to reporting area(s) where groundfish were harvested.
(B) COBLZ or RKCSA | (1) C/P using trawl gear | Prior to fishing. Submit one check-in for the COBLZ or RKCSA and another check-in for the area outside the COBLZ or RKCSA.
| (2) MS, SS, SFP | Before receiving groundfish harvested with trawl gear, submit one check-in for the COBLZ or RKCSA and another check-in for the area outside the COBLZ or RKCSA.
(C) Gear Type | (1) C/P | If in the same reporting area but using more than one gear type, prior to fishing submit a separate check-in for each gear type.
| (2) MS, SS, SFP | If harvested in the same reporting area but using more than one gear type, prior to receiving groundfish submit a separate check-in for each gear type.
(D) CDQ | (1) C/P | Prior to groundfish CDQ fishing under each CDQ program.
| (2) MS, SS, SFP | Prior to receiving groundfish CDQ. If receiving groundfish under more than one CDQ number, use a separate check-in for each number.
(E) Exempted or Research Fishery | (1) C/P | If in an exempted or research fishery, prior to fishing submit a separate check-in for each type.
| (2) MS, SS, SFP | If receiving groundfish from an exempted or research fishery, prior to receiving submit a separate check-in for each type.
(F) Processor type | C/P, MS | If a catcher/processor and functioning simultaneously as a mothership in the same reporting area, before functioning as either processor type.
(G) Change of fishing year | C/P, MS, SS, SFP | If continually active through the end of one fishing year and at the beginning of a second fishing year, submit a check-in for each reporting area to start the year on January 1.

(ii) Check-out report (CEASE message). Except as indicated in paragraph (h)(1)(iii) to this part, the operator or manager must submit a check-out report according to the following table:

Submit a separate CEASE message for | If you are a | Within this time limit
(A) COBLZ or RKCSA | (1) C/P using trawl gear | Upon completion of gear retrieval for groundfish, submit a separate check-out for the COBLZ or RKCSA and another check-out for the area outside the COBLZ or RKCSA.
| (2) MS, SS, SFP | If receiving groundfish harvested with trawl gear, upon completion of receipt of groundfish, submit a separate check-out for the COBLZ or RKCSA and another check-out for the area outside the COBLZ or RKCSA.
(B) Processor type | C/P, MS | Upon completion of simultaneous activity as both catcher/ processor and mothership, a separate check-out, one for catcher/processor and one for mothership.
(C) Gear Type | (1) C/P | Upon completion of gear retrieval for groundfish, submit a separate check-out for each gear type for which a check-in was submitted.
| (2) MS, SS, SFP | Upon completion of receipt of groundfish, submit a separate check-out for each gear type for which a check-in was submitted.
(D) CDQ | (1) C/P | Within 24 hours after groundfish CDQ fishing for each CDQ group has ceased.
| (2) MS, SS, SFP | Within 24 hours after receipt of groundfish CDQ has ceased for each CDQ group.
(E) Exempted or Research Fishery | (1) C/P | If groundfish are caught during an exempted or research fishery, submit a separate check-out for each type for which a check-in was submitted.
| (2) MS, SS, SFP | Upon completion of receipt of groundfish under an exempted or research fishery, submit a separate check-out for each type for which a check-in was submitted.
(F) Reporting Area | (1) C/P using longline or pot gear | Upon completion of gear retrieval and within 24 hours after departing each reporting area.
| (2) C/P using trawl gear | Within 24 hours after departing a reporting area but prior to checking-in another reporting area.
| (3) SS, SFP | Within 48 hours after the end of the applicable weekly reporting period that a shoreside processor or stationary floating processor ceases to receive or process groundfish from that reporting area for the fishing year.
| (4) MS, SS, SFP | If receipt of groundfish from a reporting area is expected to stop for a period of time (month(s)) during the fishing year and then start up again, may submit a check-out report for that reporting area.
| (5) MS | Within 24 hours after receipt of fish is complete from that reporting area.
(G) Change of fishing year | C/P, MS, SS, SFP | If a check-out report was not previously submitted during a fishing year for a reporting area, submit on December 31, a check-out report for each reporting area.
(H) Interruption of production | SS, SFP | If receipt of groundfish from a reporting area is expected to stop for a period of time (month(s)) during the fishing year and then start up again, the manager may choose to submit a check-out report for that reporting area.

(iii) Exception, two adjacent reporting areas. If on the same day a catcher/processor intends to fish in two adjacent reporting areas (an action which would require submittal of check-out reports and check-in reports multiple times a day when crossing back and forth across a reporting area boundary), and the two reporting areas have on that day and time an identical fishing status for every species, the operator must submit to NMFS:

(A) A check-in report to the first area prior to entering the first reporting area, and

(B) A check-in report to the second area prior to entering the second reporting area.

(C) If the catcher/processor remains within 10 nautical miles (18.5 km) of the boundary between the two areas and crosses back and forth between the first and second reporting areas one or more times, a check-out report from either reporting area is not required.

(D) If the catcher/processor proceeds in the second reporting area beyond 10 nautical miles (18.5 km) of the boundary between the two areas, the operator must submit a check-out report from the first reporting area.

(2) Transit through reporting areas. The operator of a catcher/processor or mothership is not required to submit a check-in or check-out report if the vessel is transiting through a reporting area and is not fishing or receiving fish.

(3) Required information. The operator of a mothership or catcher/processor or the manager of a shoreside processor or stationary floating processor must record the following information.

(i) For each check-in and check-out report. (A) Whether an original or revised report;

(B) Participant identification information (see paragraph (a)(5) of this section);

(C) Representative information (see paragraph (b)(2) of this section);

(D) Management program name and identifying number (if any);

(E) If a mothership or catcher/processor, processor type and gear type.

(ii) For each check-in report, mothership. (A) Date and time when receipt of groundfish will begin;

(B) Position coordinates where groundfish receipt begins;

(C) Reporting area code where gear deployment begins;

(D) Primary and secondary target species expected to be received the following week. A change in intended target species within the same reporting area does not require a new BEGIN message.

(iii) For each check-in report, catcher/processor. (A) Date and time when gear deployment will begin;

(B) Position coordinates where gear is deployed;

(C) Reporting area code of groundfish harvest;

(D) Primary and secondary target species expected to be harvested the following week. A change in intended target species within the same reporting area does not require a new BEGIN message.

(iv) For each check-in report, shoreside processor or stationary floating processor: (A) Indicate check-in report;

(B) Date facility will begin to receive groundfish;

(C) Whether checking in for the first time this fishing year or checking in to restart receipt and processing of groundfish after filing a check-out report;

(D) The product weight of all fish or fish products (including non-groundfish) remaining at the facility (other than public cold storage) by species code and product code;

(E) Whether pounds or 0.001 mt.

(v) For each check-out report, mothership: Date, time, reporting area code, and position coordinates where the last receipt of groundfish was completed.

(vi) For each check-out report, catcher/processor: date, time, reporting area code, and position coordinates where the vessel departed the reporting area.

(vii) For each check-out report, shoreside processor or stationary floating processor: (A) Indicate check-out report;

(B) Date facility ceased to receive or process groundfish;

(C) The product weight of all fish or fish products (including non-groundfish) remaining at the facility (other than public cold storage) by species code and product code;

(D) Whether pounds or 0.001 mt.

(i) Weekly Production Report (WPR)—(1) Who needs to submit a weekly production report? (i) Except as indicated in paragraph (i)(1)(iii) of this section, the operator or manager must submit a WPR for any week the mothership, catcher/processor, shoreside processor, or stationary floating processor is checked-in pursuant to paragraph (h)(2) of this section.

(ii) If a vessel is operating simultaneously during a weekly reporting period as both a catcher/processor and a mothership, the operator must submit two separate WPRs for that week, one for catcher/processor fishing activity and one for mothership fishing activity.

(iii) Exemption. If using SPELR or software approved by the Regional Administrator as described in § 679.5(d), a shoreside processor or stationary floating processor is exempt from the requirements to submit a WPR.

(2) Time limit and submittal. The operator or manager must submit a separate WPR by FAX or electronic file to the Regional Administrator by 1200 hours, A.1.t. on Tuesday following the end of the applicable weekly reporting period.

(3) Submit separate WPR. The operator or manager must submit a separate WPR if:

(i) Processor type. For each processor type if a catcher/processor is functioning simultaneously as a Mothership in the same reporting area.

(ii) Gear type. For each gear type of harvester if groundfish are caught in the same reporting area using more than one gear type.

(iii) COBLZ or RKCSA. If groundfish are caught with trawl gear, submit one report for fish harvested in the COBLZ or RKCSA and another report for fish harvested outside the COBLZ or RKCSA.

(iv) Management Program. If groundfish are caught under a specific management program, submit a separate report for each program.

(v) Reporting area. For each reporting area, except 300, 400, 550, or 690.

(vi) Change of fishing year. If continually active through the end of one fishing year and at the beginning of a second fishing year, the operator or manager must submit a WPR for each reporting area:

(A) To complete the year at midnight, December 31, if still conducting fishing activity regardless of where this date falls within the weekly reporting period.

(B) To start the year on January 1, if still conducting fishing activity regardless of where this date falls within the weekly reporting period.

(4) Required information. The operator or manager must record:

(i) Whether original or revised WPR;

(ii) Week-ending date;

(iii) Participant identification information (see paragraph (a)(5) of this section);

(iv) Representative information (see paragraph (b)(2) of this section);

(v) Date (month-day-year) WPR completed;

(vi) Management program name and identifying number (if any);

(vii) Gear type of harvester;

(viii) If a mothership or catcher/processor, processor type and crew size;

(ix) Reporting area of harvest;

(x) If a shoreside processor or stationary floating processor, landings scale weights of groundfish by species and product codes and product designations; scale weights or fish product weights of groundfish by species and product codes and product designations;

(xi) Discard or disposition weights or numbers by species and product codes;

(xii) ADF&G fish ticket numbers issued to catcher vessels at delivery (except catcher/processors).

(j) Daily Production Report (DPR)—(1) Notification. If the Regional Administrator determines that DPRs are necessary to avoid exceeding a groundfish TAC or prohibited species bycatch allowance, NMFS may require submittal of DPRs from motherships, catcher/processors, shoreside processors and stationary floating processors for reporting one or more specified species, in addition to a WPR. NMFS will publish notification in the Federal Register specifying the fisheries that require DPRs and the dates that submittal of DPRs are required.

(2) Applicability. (i) If a catcher/processor or mothership is checked in to the specified reporting area and is harvesting, receiving, processing, or discarding the specified species or is receiving reports from a catcher vessel of discard at sea of the specified species, the operator must submit a DPR.

(ii) If a shoreside processor or stationary floating processor is receiving, processing, or discarding the specified species or is receiving reports from a catcher vessel of discard at sea of the specified species, the manager must submit a DPR.

(iii) The operator of a catcher/processor or mothership or the manager of a shoreside processor or stationary floating processor must use a separate DPR for each gear type, processor type, and CDQ number.

(3) Time limit and submittal. The operator or manager must submit a DPR by FAX to the Regional Administrator by 1200 hours, A.l.t., the day following each day of landings, discard, or production.

(4) Information required. In addition to requirements described in paragraphs (a) and (b) of this section, the operator of a catcher/processor or mothership, or the manager of a shoreside processor or stationary floating processor must record the processor type.

(k) U.S. Vessel Activity Report (VAR)—(1) Who needs to submit a VAR? Except as noted in paragraphs (k)(1)(iii) and (iv) of this section, the operator of a catcher vessel greater than 60 ft (18.3 m) LOA, a catcher/ processor, or a mothership holding a Federal fisheries permit issued under this part and carrying fish or fish product onboard must complete and submit a VAR by FAX or electronic file to NOFE, Juneau, AK, before the vessel crosses the seaward boundary of the EEZ off Alaska or crosses the U.S.-Canadian international boundary between Alaska and British Columbia.

(i) Both groundfish and IFQ fish. If a vessel is carrying both groundfish and IFQ halibut or IFQ sablefish, the operator must submit a VAR in addition to a Vessel Departure Report (VDR) or a Vessel Clearance (VC).

(ii) Revised VAR. If groundfish are landed at a port other than the one specified, submit a revised VAR showing the actual port of landing.

(iii) Exemption: Vessel clearance. If a vessel is carrying only IFQ halibut or IFQ sablefish onboard and the operator has received a Vessel Clearance per paragraph (l)(5)(iii) of this section, a VAR is not required.

(iv) Exemption: If a vessel is carrying only IFQ halibut or IFQ sablefish onboard and the operator has submitted a Departure Report per paragraph (l)(5)(iii)(B) of this section, a VAR is not required.

(2) Information required. Whether original or revised VAR; name and Federal fisheries permit number of vessel; type of vessel (whether catcher vessel, catcher/processor, or mothership); and representative information (see paragraph (b)(2) of this section).

(i) Return report. “Return,” for purposes of this paragraph, means coming back to Alaska. If the vessel is crossing into the seaward boundary of the EEZ off Alaska or crossing the U.S.-Canadian international boundary between Alaska and British Columbia into U.S. waters, indicate a “return” report and enter:

(A) Intended Alaska port of landing (see Table 14 to this part);

(B) Estimated date and time (hour and minute, Greenwich mean time) the vessel will cross;

(C) The estimated position coordinates the vessel will cross.

(ii) Depart report. “Depart” means leaving Alaska. If the vessel is crossing out of the seaward boundary of the EEZ off Alaska or crossing the U.S.-Canadian international boundary between Alaska and British Columbia into Canadian waters, indicate a “depart” report and enter:

(A) The intended U.S. port of landing or country other than the United States;

(B) Estimated date and time (hour and minute, Greenwich mean time) the vessel will cross;

(C) The estimated position coordinates in latitude and longitude the vessel will cross.

(iii) The Russian Zone. Indicate whether your vessel is returning from fishing in the Russian Zone or is departing to fish in the Russian Zone.

(iv) Fish or fish products. For all fish or fish products (including non-groundfish) on board the vessel, enter: Harvest zone code; species codes; product codes; and total fish product weight in lbs or to the nearest 0.001 mt.

(l) IFQ Recordkeeping and reporting. In addition to the recordkeeping and reporting requirements in this section and as prescribed in the annual management measures published in the Federal Register pursuant to § 300.62 of this title, the following IFQ reports are required, when applicable: prior notices of landing, landing report, shipment report, transshipment authorization, vessel clearance, and IFQ departure report.

(1) Prior notice of IFQ landing—(i) Applicability. Except as provided in paragraph (l)(1)(iv) of this section, the operator of any vessel making an IFQ landing must notify NOFE, Juneau, no fewer than 6 hours before landing IFQ halibut or IFQ sablefish, unless permission to commence an IFQ landing within 6 hours of notification is granted by a clearing officer.

(ii) Time limits. A prior notice of landing must be made to the toll-free telephone number specified on the IFQ permit between the hours of 0600 hours, A.l.t., and 2400 hours, A.l.t.

(iii) Information required. A prior notice of landing must include the following:

(A) Vessel name and ADF&G vessel registration number;

(B) Name and permit number of the Registered Buyer who will be responsible for completion and submittal of the IFQ Landing Report(s);

(C) The location of the landing (port name or code);

(D) The date and time (A.l.t.) that the landing will take place;

(E) Landing directions;

(F) Species and estimated weight (in pounds) of the IFQ halibut or IFQ sablefish that will be landed;

(G) IFQ regulatory area(s) in which the IFQ halibut or IFQ sablefish were harvested;

(H) IFQ permit number(s) that will be used to land the IFQ halibut or IFQ sablefish.

(iv) Exemption. An IFQ landing of halibut of 500 lb or less of IFQ weight determined pursuant to § 679.42(c)(2) and concurrent with a legal landing of salmon or a legal landing of lingcod harvested using dinglebar gear is exempt from the prior notice of landing required by this section.

(v) Revision to prior notice of landing. The operator of any vessel wishing to land IFQ halibut or IFQ sablefish before the date and time (A.l.t.) reported in the prior notice of landing or later than 2 hours after the date and time (A.l.t.) reported in the prior notice of landing must submit a new prior notice of IFQ landing as described in paragraphs (l)(1)(i) through (iii) of this section.

(2) Landing report—(i) Applicability. (A) A Registered Buyer must report an IFQ landing within 6 hours after all such fish are landed and prior to shipment of said fish or departure of the delivery vessel from the landing site.

(B) All IFQ catch retained onboard a vessel must be debited from the IFQ permit holder's account under which the catch was harvested.

(C) The weight of any halibut or sablefish offshore landings made by a catcher/processor into product (frozen) prior to offload at the landing site must be properly debited from the IFQ permit holder's account under which the catch was harvested.

(ii) Electronic landing report. (A) Electronic landing reports must be submitted to NOFE, Juneau, using magnetic strip cards issued by NMFS, Alaska Region, and transaction terminals with printers driven by custom-designed software, as provided and/or specified by NMFS, Alaska Region. It is the responsibility of the Registered Buyer to locate or procure a transaction terminal and report as required. Waivers from the electronic reporting requirement can only be granted in writing on a case-by-case basis by a local clearing officer.

(B) The IFQ cardholder must initiate a landing report by using his or her own magnetic card and personal identification number (PIN).

(C) Once landing operations have commenced, the IFQ cardholder and the harvesting vessel may not leave the landing site until the IFQ account is properly debited. The offloaded IFQ species may not be moved from the landing site until the IFQ landing report is received by NOFE, Juneau, and the IFQ cardholder's account is properly debited. A properly concluded transaction terminal receipt or manual landing report receipt received by FAX from NOFE, Juneau, constitutes confirmation that NOFE received the landing report and that the cardholder's account was properly debited. After the Registered Buyer enters the landing data in the transaction terminal and a receipt is printed, the IFQ cardholder must sign the receipt. Legible copies of the receipt must be retained by both the Registered Buyer and the IFQ cardholder pursuant to paragraph (l)(7) of this section.

(iii) Manual landing report. (A) If a waiver has been granted pursuant to paragraph (l)(2)(ii) of this section, manual landing instructions must be obtained from NOFE, Juneau, at (800)304-4846 or (907)586-7163. Completed manual landing reports must be submitted by FAX to NOFE, Juneau, at (907)586-7313.

(B) The manual landing report must be signed by the Registered Buyer or his/her representative, the IFQ cardholder, and the NOFE representative to show that the IFQ cardholder's account was properly debited.

(iv) Time limits and submittals. (A) An IFQ landing may commence only between 0600 hours, A.l.t., and 1800 hours, A.l.t., unless:

(1) Permission to land at a different time is granted in advance by a clearing officer; or

(2) An IFQ landing of halibut of 500 lb or less of IFQ weight determined pursuant to § 679.42(c)(2) and concurrent with a legal landing of salmon or a legal landing of lingcod harvested using dinglebar gear.

(B) An IFQ landing report must be completed and the IFQ account(s) properly debited, as defined in paragraph (l)(2)(ii)(C) of this section, within 6 hours after the completion of the IFQ landing.

(v) Landing verification and inspection. Each IFQ landing and all fish retained on board the vessel making an IFQ landing are subject to verification, inspection, and sampling by authorized officers, clearing officers, or observers. Each IFQ halibut landing is subject to sampling for biological information by persons authorized by the IPHC.

(vi) Information required. The Registered Buyer must enter accurate information contained in a complete IFQ landing report as follows:

(A) Date and time (A.l.t.) of the IFQ landing;

(B) Location of the IFQ landing (port code or if at sea, lat. and long.);

(C) Name and permit number of the IFQ card holder;

(D) Name and permit number of Registered Buyer receiving the IFQ species;

(E) The harvesting vessel's name and ADF&G vessel registration number;

(F) Gear type used to harvest IFQ species;

(G) Alaska State fish ticket number(s) for the landing;

(H) ADF&G statistical area of harvest reported by the IFQ cardholder;

(I) If ADF&G statistical area is bisected by a line dividing two IFQ regulatory areas, the IFQ regulatory area of harvest reported by the IFQ cardholder;

(J)(1) Except as indicated in paragraph (l)(2)(vi)(J)(2) of this section, for each ADF&G statistical area of harvest, the species codes, product codes, and initial accurate scale weight (in pounds) made at the time offloading commences for IFQ species sold and retained;

(2) If the vessel operator is a Registered Buyer reporting the IFQ landing, the accurate weight of IFQ sablefish processed product obtained before the offload may be substituted for the initial accurate scale weight at time of offload.

(K) (Effective January 1, 2002) Whether ice and slime is present on the fish as offloaded from the vessel (YES or NO). Fish which have been washed prior to weighing or which have been offloaded from refrigerated salt water are not eligible for a 2 percent deduction for ice and slime and must indicate NO SLIME & ICE.

(L) If IFQ halibut is incidental catch concurrent with legal landing of salmon or concurrent with legal landing of lingcod harvested using dinglebar gear;

(M) Signature of Registered Buyer representative;

(N) Signature of IFQ/CDQ card holder.

(vii) Manual landing report. When a waiver is issued pursuant to paragraph (l)(2)(ii)(A) of this section, additional information is required. In addition to the information required in paragraph (l)(2)(vi) of this section, the following information is required to complete a landing report using a manual landing report:

(A) Whether the manual landing report is an original or revised;

(B) Name, telephone number, and FAX number of individual submitting the manual landing report.

(3) Shipment report—(i) Requirement. Each Registered Buyer, other than those conducting dockside sales must:

(A) Except as provided in paragraph (l)(3)(i)(D) of this section, complete a written shipment report for each shipment or transfer of IFQ halibut and IFQ sablefish from that Registered Buyer before the fish leave the landing site.

(B) Assure that a shipment report is submitted to, and received by, NOFE, Juneau, by FAX to (907) 586-7313 or mail to P.O. Box 21767, Juneau, AK 99802-1767, within 7 days of the date shipment commenced.

(C) Ensure that a copy of the shipment report or a bill of lading containing the same information accompanies the shipment of IFQ species from the landing site to the first destination beyond the location of the IFQ landing.

(D) A shipment report is not required for transportation of IFQ species directly from the landing site to a processing facility owned by the Registered Buyer submitting the IFQ landing report. When transporting the fish in this manner, the landing report receipt from the IFQ terminal documenting the IFQ landing must accompany the offloaded IFQ species. For IFQ species transported in this manner, the Registered Buyer must complete a shipment report for each shipment or transfer of IFQ halibut and IFQ sablefish from the Registered Buyer's processing facility.

(ii) Information required. A shipment report must specify the following:

(A) Whether revised or original report;

(B) Shipment date;

(C) Registered Buyer name, address, FAX number, and permit number;

(D) Signature of Registered Buyer or Registered Buyer's representative;

(E) Receiver name (this is the first receiver; the purchaser, wholesaler, or retailer who will receive the shipment from the Registered Buyer) and address;

(F) Mode of transportation and intended route;

(G) Name of the shipping company or entity that is transporting the shipment.

(1) If by air, enter the name of the airline, flight number, departure and arrival airport locations.

(2) If by containerized van, enter the name of the shipping company, vessel transporting the van, and departure and arrival ports.

(3) If by vessel, enter the name of the shipping company if applicable, name of the vessel transporting, and the departure and arrival ports.

(4) If by ground transportation, enter the name of the shipping or trucking company, and departure and arrival locations.

(H) Species codes and product codes of IFQ species;

(I) Total number of production units (blocks, trays, pans, individual fish, boxes, or cartons; if iced, enter number of totes or containers);

(J) Unit weight (weight of single production unit as listed in “No. of Units”); indicate whether metric tons or pounds;

(K) Total fish product weight of shipment less packing materials; indicate whether metric tons or pounds.

(iii) Revision to shipment report. Each Registered Buyer must ensure that, if any information on the original Shipment Report changes prior to the first destination of the shipment, a revised shipment report is submitted to NOFE, Juneau, clearly labeled “Revised Report” and that the revised shipment report be received by NOFE, Juneau, within 7 days of the change.

(iv) Dockside sale or outside landing. A Registered Buyer conducting dockside sales must issue a receipt in lieu of a shipment report, that includes the date of sale or transfer, the Registered Buyer permit number, and the fish product weight of the IFQ sablefish or halibut transferred to each individual receiving IFQ halibut or IFQ sablefish.

(4) Transshipment authorization. (i) No person may transship processed IFQ halibut or IFQ sablefish between vessels without authorization by a clearing officer. Authorization from a clearing officer must be obtained for each instance of transshipment at least 24 hours before the transshipment is intended to commence.

(ii) Information required. To obtain a transshipment authorization, the vessel operator must provide the following information to the clearing officer:

(A) Date and time (A.l.t.) of transshipment;

(B) Location of transshipment;

(C) Name and ADF&G vessel registration number of vessel offloading transshipment;

(D) Name of vessel receiving the transshipment;

(E) Product destination;

(F) Species and product type codes;

(G) Total product weight;

(H) Time (A.l.t.) and date of the request;

(I) Name, telephone number, FAX number (if any) for the person making the request.

(5) Vessel clearance. (i) A vessel operator who makes an IFQ landing at any location other than in an IFQ regulatory area or in the State of Alaska must first obtain a prelanding written vessel clearance from a clearing officer.

(ii) Canadian ports. A vessel operator who lands IFQ species in Canada must first obtain a vessel clearance from a clearing officer and must make an IFQ landing in Canada only at the ports of Port Hardy, Prince Rupert, or Vancouver, British Columbia.

(iii) Foreign port other than Canada. A vessel operator who lands IFQ species in a foreign port must first obtain a vessel clearance from a clearing officer located at a primary port in the State of Alaska (see Table 14 to this part).

(iv) Registered Buyer permit. A vessel operator obtaining an IFQ vessel clearance must have a Registered Buyer permit.

(v) IFQ permits on board. A vessel operator obtaining an IFQ vessel clearance must ensure that one or more IFQ cardholders is on board with enough remaining IFQ balance to harvest amounts of IFQ fish equal to or greater than all IFQ halibut and IFQ sablefish on board.

(vi) Inspection. A vessel for which a vessel operator is seeking an IFQ vessel clearance is subject to inspection of all fish, logbooks, permits, and other documents on board the vessel at the discretion of the clearing officer.

(vii) Primary ports. Unless specifically authorized on a case-by-case basis, IFQ vessel clearances will be issued only by clearing officers at the primary ports listed in Table 14 to this part.

(viii) Completion of fishing. An IFQ vessel operator who obtains an IFQ vessel clearance may only obtain that IFQ vessel clearance after completion of all fishing. If any fishing takes place after issuance of an IFQ vessel clearance, the vessel operator must obtain a new IFQ vessel clearance.

(ix) Required information. To obtain an IFQ vessel clearance, the vessel operator must provide the following information to the clearing officer:

(A) Date, time (A.l.t.), and location of requested IFQ vessel clearance;

(B) Vessel name and ADF&G vessel registration number;

(C) Name and permit numbers of IFQ permits used to harvest IFQ species on board;

(D) Vessel operator's IFQ Registered Buyer permit number;

(E) Estimated total weight of IFQ halibut on board (lb/kg/mt);

(F) Estimated total weight of IFQ sablefish on board;

(G) IFQ areas of harvest;

(H) Intended date, time (A.l.t.) and location of landing;

(I) Signature of vessel operator.

(x) First landing of any species. A vessel operator must land and report all IFQ species on board at the same time and place as the first landing of any species harvested during an IFQ fishing trip.

(xi) IFQ landing after vessel clearance. A vessel operator having been granted an IFQ vessel clearance must be the Registered Buyer responsible for the IFQ landing and must submit the IFQ landing report, required under this section, for all IFQ halibut, IFQ sablefish and products thereof that are on board the vessel at the first landing of any fish from the vessel.

(xii) IFQ departure report. (A) A vessel operator intending to obtain an IFQ vessel clearance for the vessel at a port in a state other than Alaska must first provide an IFQ departure report, by telephone, to NOFE, Juneau, at 907-586-7225 or 800-304-4846. The IFQ departure report may only be submitted after completion of all IFQ fishing and prior to departing the waters of the EEZ adjacent to the jurisdictional waters of the State of Alaska, the territorial sea of the State of Alaska, or the internal waters of the State of Alaska. The vessel operator must provide the following information:

(B) Vessel name and ADF&G registration number;

(C) Name of vessel operator submitting the IFQ departure report;

(D) Total weight on board of IFQ halibut and total weight of IFQ sablefish;

(E) Intended date, time (A.l.t.), and location for obtaining an IFQ vessel clearance.

(6) Record retention. A copy of all reports and receipts required by this section must be retained by Registered Buyers and be made available for inspection by an authorized officer or a clearing officer for a period of 3 years.

(7) * * *

(i) * * *

(D) The registered buyer must complete an IFQ buyer report and submit it by mail, fax, or electronic submittal to the following address: Administrator, Alaska Region, NMFS, Attn: RAM Program, P.O. Box 21668, Juneau, AK 99802-1668, FAX: (907) 586-7354.

* * * * *

(m) Consolidated weekly ADF&G fish tickets from motherships—(1) Requirement. (i) The operator of a mothership must ensure that any groundfish catch received by a mothership from a catcher vessel that is issued a Federal fisheries permit under § 679.4 is recorded for each weekly reporting period on a minimum of one ADF&G groundfish fish ticket. The operator of a mothership may create a fish ticket for each delivery of catch. (An ADF&G fish ticket is further described at Alaska Administrative Code, 5 AAC Chapter 39.130.) A copy of the Alaska Administrative Code can be obtained from the Alaska Regional Office, see § 600.502 of this chapter, Table 1.

(ii) The operator of a mothership must ensure that the information listed in paragraph (m)(2)(iii) of this section is written legibly or imprinted from the catcher vessel operator's State of Alaska, Commercial Fisheries Entry Commission (CFEC) permit card on the consolidated weekly ADF&G fish ticket.

(2) Information required from the catcher vessel. (i) The operator of a catcher vessel delivering groundfish to a mothership must complete the parts of the fish ticket listed in paragraph (m)(2)(iii) of this section, sign the fish ticket, and provide it to the operator of the mothership receiving groundfish harvest for submittal to ADF&G.

(ii) If there is a change in the operator of the same catcher vessel during the same weekly reporting period, complete a fish ticket for each operator.

(iii) Information required: (A) Name and ADF&G vessel registration number of the catcher vessel;

(B) Name, signature and CFEC permit number of CFEC permit holder aboard the catcher vessel;

(C) The six-digit ADF&G groundfish statistical area denoting the actual area of catch;

(D) Write in gear type used by the catcher vessel, whether hook and line, pot, nonpelagic trawl, pelagic trawl, jig, troll, or other.

(3) Information required from the mothership. The operator of a mothership must ensure that the following information is written legibly or imprinted from the mothership's CFEC processor plate card on the consolidated weekly ADF&G fish ticket:

(i) Mothership name and ADF&G processor code;

(ii) Enter “FLD” for port of landing or vessel transshipped to;

(iii) Signature of the mothership operator;

(iv) The week-ending date of the weekly reporting period during which the mothership received the groundfish from the catcher vessel;

(v) Species code for each species from Table 2 to this part, except species codes 120, 144, 168, 169, or 171;

(vi) The product code from Table 1 to this part (in most cases, this will be product code 01, whole fish);

(vii) ADF&G 6-digit statistical area in which groundfish were harvested. If there are more than eight statistical areas for a fish ticket in a weekly reporting period, complete a second fish ticket. These statistical areas are defined in a set of charts obtained at no charge from Alaska Commercial Fisheries Management & Development Division, Department of Fish and Game, 211 Mission Road, Kodiak, AK, 99615-6399;

(viii) The landed weight of each species to the nearest pound. If working in metric tons, convert to pounds using 2204.6 lb = 1 mt before recording on fish ticket.

(4) Time limit and submittal. (i) The operator of a mothership must complete a minimum of one ADF&G groundfish fish ticket for each catcher vessel by 1200 hours, A.l.t., on Tuesday following the end of the applicable weekly reporting period.

(ii) The operator of a mothership must ensure copy distribution within the indicated time limit or retention of the multiple copies of each consolidated weekly ADF&G groundfish fish ticket (G series) as follows:

If fish ticket color is . . . | Distribute to . . . | Time limit
(A) White | Retained by Mothership, see paragraph (a)(13)(ii)(D)(6) | N/A
(B) Yellow | Alaska Commercial Fisheries Management & Development Division, Department of Fish & Game, 211 Mission Road, Kodiak, AK, 99615-6399 | Within 45 days after landings are received.
(C) Pink | Catcher vessel delivering groundfish to the mothership | 1200 hours, A.l.t., on Tuesday following the end of the applicable weekly reporting period.
(D) Golden rod | Extra copy | N/A

(n) Groundfish CDQ fisheries—(1) CDQ delivery report—(i) Who must submit a CDQ delivery report? The manager of each shoreside processor and stationary floating processor taking deliveries of groundfish CDQ or PSQ species from catcher vessels must submit for each delivery a CDQ delivery report, unless using the SPELR described at paragraph (e) of this section to submit the required CDQ information.

(ii) Time limit and submittal. The manager as defined at paragraph (n)(1)(i) of this section must submit to the Regional Administrator a CDQ delivery report within 24 hours of completion of each delivery of groundfish CDQ or PSQ species to the processor.

(iii) Information required. The manager as defined at paragraph (n)(1)(i) of this section must record whether the report is original or a revision and the following information on each CDQ delivery report:

(A) CDQ group information. CDQ group number as defined at § 679.2 and CDQ group name or acronym.

(B) Processor information. (1) Name and federal processor permit number of the processor as defined at paragraph (n)(1)(i) of this section taking delivery of the CDQ catch.

(2) Date delivery report submitted.

(C) Vessel and catch information. (1) Enter the name, Federal Fisheries Permit number if applicable, and ADF&G vessel registration number of the vessel delivering CDQ catch. Write “unnamed” if the vessel has no name;

(2) Enter the delivery date, date fishing began, harvest gear type, and Federal reporting area of CDQ harvest. If caught with trawl gear, check appropriate box(es) to indicate if catch was made in the CVOA or the COBLZ.

(D) Groundfish CDQ Species in this delivery. Enter weight by species codes and product codes as defined in Tables 1 and 2 to this part, respectively, of groundfish CDQ species that were delivered. Report the weight of each CDQ species in metric tons to at least the nearest 0.001 mt.

(E) Halibut CDQ, halibut IFQ and sablefish IFQ in this delivery. For nontrawl vessels only, enter the product code and product weight for any halibut CDQ, halibut IFQ, and sablefish IFQ in this catch. Submit this same information to the Regional Administrator on an IFQ landing report (see paragraph (l)(2) of this section).

(F) PSQ information. For halibut, enter the species code and the weight to the nearest 0.001 mt. For salmon or crab, enter the species code and the number of animals.

(1) Enter PSQ species delivered and discarded from processor by species code and weight or numbers.

(2) Enter at-sea discards of PSQ for vessels without observers by species code and weight or numbers.

(2) CDQ catch report—(i) Who must submit a CDQ catch report? The CDQ representative must submit a CDQ catch report for all groundfish catch made by vessels groundfish CDQ fishing as defined at § 679.2 or for any groundfish harvested by vessels greater than or equal to 60 ft (18.3 m) LOA while halibut CDQ fishing and delivered to a shoreside processor, to a stationary floating processor, or to a mothership.

(ii) Time limit and submittal. Submit to the Regional Administrator a CDQ catch report:

(A) Within 7 days of the date CDQ catch was delivered by a catcher vessel to a shoreside processor, stationary floating processor, or mothership.

(B) Within 7 days of the date gear used to catch CDQ was retrieved by a catcher/processor.

(iii) Information required, all CDQ catch reports. Record whether an original or revised report and the following information on each CDQ catch report:

(A) Vessel type. Indicate one appropriate vessel/gear/delivery type.

(B) Vessel catch information. (1) Enter the name, Federal fisheries permit number if applicable, and ADF&G vessel registration number of the vessel delivering CDQ catch. Write “unnamed” if the vessel has no name.

(2) Reporting area. Enter reporting area in which CDQ catch occurred. If a set occurs in more than one area, record the area code where gear retrieval was completed.

(3) Gear type. Circle gear type used to harvest CDQ catch. If caught with trawl gear, check appropriate box(es) to indicate if catch was made in the CVOA or the COBLZ.

(C) CDQ group information. Enter CDQ number as defined at § 679.2, CDQ group name or acronym, and date report submitted to NMFS.

(iv) Catch and delivery Information: catcher vessels retaining all groundfish CDQ and delivering to shoreside processors or stationary floating processors (Option 1 in the CDP). Record the following information on each applicable CDQ catch report:

(A) Delivery information. Name and Federal processor permit number of the shoreside processor or the stationary floating processor taking delivery of the CDQ catch; date catch delivered to processor; and date fishing began on this trip.

(B) Catch information, groundfish CDQ species. Report the weight in metric tons to at least the nearest 0.001 mt for each groundfish CDQ species retrieved by a catcher/processor or delivered to a processor as defined in paragraph (n)(1)(i) of this section by product code and species code as defined in Tables 1 and 2 to this part, respectively.

(C) Catch information, halibut CDQ, halibut IFQ and sablefish IFQ. For non-trawl vessels only, enter the product code as defined in Table 1 to this part and product weight in metric tons to at least the nearest 0.001 mt for any halibut CDQ, halibut IFQ, and sablefish IFQ in the CDQ delivery. Submit this same information to the Regional Administrator on an IFQ landing report (see § 679.5(l)(2)).

(D) Mortality information, salmon and crab PSQ. For salmon or crab, enter the species code, as defined in Table 2 to this part, and the number of animals.

(E) Mortality information, halibut PSQ. For halibut PSQ catch, enter the round weight to the nearest 0.001 mt, mortality rate, and overall halibut mortality in metric tons to the nearest 0.001 mt. Use the target fishery designations and halibut bycatch mortality rates in the annual final specifications published in the Federal Register under § 679.20(c).

(v) Catch and delivery information: catcher/processors, catcher vessels delivering unsorted codends to motherships, or catcher vessels (with observers) using nontrawl gear and discarding groundfish CDQ at sea (Option 2 in the CDP). Record the following information on each applicable CDQ catch report.

(A) Delivery information. (1) If a catcher vessel (with observers) using nontrawl gear, discarding groundfish CDQ at sea, and delivering to a shoreside processor or stationary floating processor, enter name and Federal processor permit number of the shoreside processor or the stationary floating processor, date catch delivered, and date fishing began on this trip.

(2) If a catcher vessel delivering unsorted codends to a mothership, enter the mothership name and Federal fisheries permit number, observer's haul number for this catch, and date codend is completely onboard the mothership as determined by the Level 2 observer.

(3) If a catcher/processor, the observer's haul number for this catch, and the date on which the gear was retrieved as determined by the Level 2 observer.

(B) Catch information, groundfish CDQ species. (See paragraph (n)(2)(iv)(B) of this section).

(C) Catch information, halibut IFQ/CDQ and sablefish IFQ (See paragraph (n)(2)(iv)(C) of this section).

(D) Mortality information, salmon and crab prohibited species. (See paragraph (n)(2)(iv)(D) of this section).

(E) Mortality information, halibut PSQ. (See paragraph (n)(2)(iv)(E) of this section).

(o) Catcher vessel cooperative pollock catch report—(1) Applicability. The designated representative of each AFA inshore processor catcher vessel cooperative must submit to the Regional Administrator a catcher vessel cooperative pollock catch report detailing each delivery of pollock harvested under the allocation made to that cooperative. The owners of the member catcher vessels in the cooperative are jointly responsible for compliance and must ensure that the designated representative complies with the applicable recordkeeping and reporting requirements of this section.

(2) Time limits and submittal. (i) The cooperative pollock catch report must be submitted by one of the following methods:

(A) An electronic data file in a format approved by NMFS; or

(B) By FAX.

(ii) The cooperative pollock catch report must be received by the Regional Administrator by 1200 hours, A.l.t. 1 week after the date of completion of delivery.

(3) Information required. The cooperative pollock catch report must contain the following information:

(i) Cooperative account number;

(ii) Catcher vessel ADF&G number;

(iii) Inshore processor Federal processor permit number;

(iv) Delivery date;

(v) Amount of pollock (in lb) delivered plus weight of at-sea pollock discards;

(vi) ADF&G fish ticket number.

(p) Commercial Operator's Annual Report (COAR)—(1) Requirement. The owner of a mothership or catcher/processor must annually complete and submit to ADF&G the appropriate Forms A through M and COAR certification page for each year in which the mothership or catcher/processor was issued a Federal Fisheries permit. The owner of a mothership must include all fish received and processed during the year, including fish received from an associated buying station. The ADF&G COAR is further described under Alaska Administrative Code (5 AAC 39.130) (see § 679.3(b)(2)).

(2) Time limit and submittal of COAR. The owner of a mothership or catcher/processor must submit to ADF&G the appropriate Forms A through M and COAR certification page by April 1 of the year following the year of issuance of a Federal Fisheries permit to the following address: Alaska Department of Fish & Game, Division of Commercial Fisheries, Attn: COAR, P.O. Box 25526, Juneau, Alaska 99802-5526.

(3) Information required, certification page. The owner of a mothership or catcher/processor must:

(i) Enter the company name and address, including street, city, state, and zip code; also seasonal mailing address, if applicable.

(ii) Enter the vessel name and ADF&G processor code.

(iii) Check YES or NO to indicate whether fishing activity occurred conducted during the appropriate year.

(iv) If response to paragraph (p)(3)(iii) of this section is YES, complete the applicable forms of the COAR (see table 18 to this part) and complete and sign the certification page.

(v) If response to paragraph (p)(3)(iii) of this section is NO, complete and sign only the certification page.

(vi) Sign and enter printed or typed name, e-mail address, title, telephone number, and FAX number of owner.

(vii) Enter printed or typed name, e-mail address, and telephone number of alternate contact.

(4) Buying information (exvessel), Forms A(1-3), C(1-2), E, G, I(1-2), and K—(i) Requirement. The owner of a mothership (if the first purchaser of raw fish) must complete and submit the appropriate COAR buying forms (A(1-3), C(1-2), E, G, I(1-2), and K) for all information for each species purchased from fishermen during the applicable year.

(ii) Buying information required. The owner of the mothership must record the following information on the appropriate COAR buying forms:

(A) Species name and code (see table 2 to this part).

(B) Area purchased (see table 16 to this part).

(C) Gear code (see table 15 to this part).

(D) Delivery code (form G only) (see table 1 to this part).

(E) Total weight (to the nearest lb) purchased from fishermen.

(F) Total amount paid to fishermen, including all post-season adjustments and/or bonuses and any credit received by fishermen for gas expenses, ice, delivery premiums, and other miscellaneous expenses.

(G) Price per pound. If additional adjustments are made after this report has been filed, the owner must check the “$ not final” box, and submit Form M when these adjustments are paid. Do not include fish purchased from another processor.

(5) Production forms, Forms B(1-6), D, F, H, J(1-2), and K). For purposes of this paragraph, the total wholesale value is the amount that the processor receives for the finished product (free on board pricing mothership or catcher/processor). For products finished but not yet sold (still held in inventory), calculate the estimated value using the average price received to date for that product.

(i) Requirement—(A) Mothership. The owner of a mothership must record and submit the appropriate COAR production forms (B(1-6), D, F, H, J(1-2), and K) for all production that occurred for each species during the applicable year:

(1) That were purchased from fishermen on the grounds and/or dockside, including both processed and unprocessed seafood.

(2) That were then either processed on the mothership or exported out of the State of Alaska.

(B) Catcher/processor. The owner of a catcher/processor must record and submit the appropriate COAR production forms (B(1-6), D, F, H, J(1-2), and K) for each species harvested during the applicable year that were then either processed on the vessel or exported out of the State of Alaska.

(ii) Information required, non-canned production.

(A) Enter area of processing (see table 16 to this part). List production of Canadian-harvested fish separately.

(B) Processed product. Processed product must be described by entering three codes:

(1) Process prefix code (see table 17 to this part).

(2) Process suffix code (see table 17 to this part).

(3) Product code (see table 1 to this part).

(C) Total net weight. Enter total weight in pounds of the finished product.

(D) Total value($). Enter the total wholesale value of the finished product.

(E) Enter price per pound of the finished product.

(iii) Information required, canned production. Complete an entry for each can size produced:

(A) Enter area of processing (see table 16 to this part).

(B) Process 51 or 52. Enter conventional canned code (51) or smoked, conventional canned code (52).

(C) Total value($). Enter the total wholesale value of the finished product.

(D) Enter can size in ounces, to the hundredth of an ounce.

(E) Enter number of cans per case.

(F) Enter number of cases.

(6) Custom production forms, Form L(1-2)—(i) Requirement. The owner of a mothership or catcher/processor must record and submit COAR production form L(1-2) for each species in which custom production was done by the mothership or catcher/processor for another processor and for each species in which custom production was done for the mothership or catcher/processor by another processor.

(ii) Custom-production by mothership or catcher/processor for another processor. If the mothership or catcher/processor custom-processed fish or shellfish for another processor during the applicable year, the owner of the mothership or catcher/processor must list the processor name and ADF&G processor code (if known) to describe that processor, but must not include any of that production in production form L(1-2).

(iii) Custom-production by another processor for mothership or catcher/processor. If a processor custom-processed fish or shellfish for the mothership or catcher/processor during the applicable year, the owner of the mothership or catcher/processor must use a separate page to list each processor and must include the following information.

(A) Custom fresh/frozen miscellaneous production. The owner of a mothership or catcher/processor must list the following information to describe production intended for wholesale/retail market and that are not frozen for canning later:

(1) Species name and code (see Table 2 to this part).

(2) Area of processing (see Table 16 to this part).

(3) Processed product. Processed product must be entered using three codes:

(i) Process prefix code (see Table 17 to this part).

(ii) Process suffix code (see Table 17 to this part).

(iii) Product code (see Table 1 to this part).

(4) Total net weight. Enter total weight in pounds of the finished product.

(5) Total wholesale value($). Enter the total wholesale value of the finished product.

(B) Custom canned production. The owner of a mothership or catcher/processor must list the following information to describe each can size produced in custom canned production:

(1) Species name and code (see Table 2 to this part).

(2) Area of processing (see Table 16 to this part).

(3) Process 51 or 52. Enter conventional canned code (51) or smoked, conventional canned code (52).

(4) Total wholesale value($). Enter the total wholesale value of the finished product.

(5) Can size in ounces, to the hundredth of an ounce.

(6) Number of cans per case.

(7) Number of cases.

(7) Fish buying retro payments/post-season adjustments, Form M—(i) Requirement. The owner of a mothership must record and submit COAR production Form M to describe additional adjustments and/or bonuses awarded to a fisherman, including credit received by fishermen for gas expenses, ice, delivery premiums, and other miscellaneous expenses.

(ii) Information required. (A) Enter species name and code (see Table 2 to this part).

(B) Enter area purchased (see Table 16 to this part).

(C) Enter gear code (see Table 16 to this part).

(D) Enter total pounds purchased from fisherman.

(E) Enter total amount paid to fishermen (base + adjustment).

5. In § 679.7, paragraphs (a)(10) and (a)(11) are revised to read as follows:

§ 679.7 Prohibitions.

* * * * *

(a) * * *

(10) Recordkeeping and reporting. (i) Fail to comply with or fail to ensure compliance with requirements in § 679.4 or § 679.5.

(ii) Alter, erase, or mutilate any permit, card or document issued under § 679.4 or § 679.5.

(iii) Fail to submit or submit inaccurate information on, any report, application, or statement required under this part.

(iv) Intentionally submit false information on any report, application, or statement required under this part.

(11) Buying station—(i) Tender vessel. Use a catcher vessel or catcher/processor as a tender vessel before offloading all groundfish or groundfish product harvested or processed by that vessel.

(ii) Associated processor. Function as a vessel or land-based buying station without an associated processor.

* * * * *

6. In § 679.21, paragraphs (b)(1), (e)(1)(ii), and (e)(1)(iii) are revised to read as follows:

§ 679.21 Prohibited species bycatch management.

* * * * *

(b) General. (1) See § 679.2 for definition of prohibited species.

* * * * *

(e) . . .

(1) . . .

(ii) Red king crab in Zone 1. The PSC limit of red king crab caught by trawl vessels while engaged in directed fishing for groundfish in Zone 1 during any fishing year will be specified annually by NMFS, after consultation with the Council, based on abundance and spawning biomass of red king crab using the criteria set out under paragraphs (e)(1)(iii)(A) through (C) of this section. The following table refers to the PSC limits for red king crab that you must follow in Zone 1:

When the number of mature female red king crab . . . | The zone 1 PSC limit will be . . .
(A) Is at or below the threshold of 8.4 million mature crab or the effective spawning biomass is less than or equal to 14.5 million lb (6,577 mt) | 32,000 red king crab.
(B) Is above the threshold of 8.4 million mature crab and the effective spawning biomass is greater than 14.5 but less than 55 million lb (24,948 mt) | 97,000 red king crab.
(C) Is above the threshold of 8.4 million mature crab and the effective spawning biomass is equal to or greater than 55 million lb | 197,000 red king crab.

(iii) Tanner crab (C. bairdi). The PSC limit of C. bairdi crabs caught by trawl vessels while engaged in directed fishing for groundfish in Zones 1 and 2 during any fishing year will be specified annually by NMFS under paragraph (e)(6) of this section, based on total abundance of C. bairdi crabs as indicated by the NMFS annual bottom trawl survey, using the criteria set out under paragraphs (e)(1)(iii)(A) and (B) of this section.

(A) The following table refers to the PSC limits for C. bairdi that you must follow in Zone 1:

When the total abundance of C. bairdi crabs is . . . | The PSC limit will be . . .
(1) 150 million animals or less | 0.5 percent of the total abundance minus 20,000 animals.
(2) Over 150 million to 270 million animals | 730,000 animals.
(3) Over 270 million to 400 million animals | 830,000 animals.
(4) Over 400 million animals | 980,000 animals.

(B) This table refers to the PSC limits for C. bairdi that you must follow in Zone 2.

When the total abundance of C. bairdi crabs is . . . | The PSC limit will be . . .
(1) 175 million animals or less | 1.2 percent of the total abundance, minus 30,000 animals.
(2) Over 175 million to 290 million animals | 2,070,000 animals.
(3) Over 290 million to 400 million animals | 2,520,000 animals.
(4) Over 400 million animals | 2,970,000 animals.

* * * * *

7. In § 679.22, paragraph (a)(11)(iv)(A) is added and reserved, and paragraph (a)(11)(iv)(B) is added; and paragraph

(b)(3)(iii)(A) is added and reserved, and paragraph (b)(3)(iii)(B) is added to read as follows:

§ 679.22 Closures.

(a) . . .

(11) . . .

(iv) . . .

(A) [Reserved]

(B) The SCA is described in Figure 20 to this part.

* * * * *

(b) * * *

(3) * * *

(iii) * * *

(A) [Reserved]

(B) The SSCA is described in Figure 19 to this part.

* * * * *

8. In § 679.24, paragraph (b)(2) is removed and reserved; paragraph (a) heading and paragraphs (a)(1) and (e)(1) are revised to read as follows:

§ 679.24 Gear limitations.

* * * * *

(a) Marking of hook-and-line, longline pot, and pot-and-line gear. (1) All hook-and-line, longline pot, and pot-and-line marker buoys carried on board or used by any vessel regulated under this part shall be marked with the following:

(i) The vessel's name; and

(ii) The vessel's Federal fisheries permit number; or

(iii) The vessel's ADF&G vessel registration number

* * * * *

(e) * * *

(1) Applicability. The operator of a vessel who is required to obtain a Federal fisheries permit under § 679.4(b)(1) must comply with the seabird avoidance measures in paragraphs (e)(2) and (e)(3) of this section while fishing with hook-and-line gear in the BSAI, in the GOA, or in waters of the State of Alaska that are shoreward of the BSAI and the GOA.

* * * * *

9. In § 679.31, paragraph (d) is revised to read as follows:

§ 679.31 CDQ reserves.

* * * * *

(d) Crab CDQ reserves. King and Tanner crab species in the Bering Sea and Aleutian Islands Area that have a guideline harvest level specified by the State of Alaska that is available for commercial harvest are apportioned to a crab CDQ reserve of 7.5 percent.

* * * * *

§ 679.32 [Amended]

10. In § 679.32, paragraph (a)(2) is removed and the designation for paragraph (a)(1) is removed.

11. In § 679.40, paragraphs (a)(2)(i)(C) and (D) are added to read as follows:

§ 679.40 Sablefish and halibut QS.

* * * * *

(a) * * *

(2) * * *

(i) * * *

(C) Who is a citizen of the United States at the time of application for QS.

(D) Who is a corporation, partnership, association, or other entity that would have qualified to document a fishing vessel as a vessel of the United States during the QS qualifying years of 1988, 1989, and 1990.

* * * * *

§ 679.41 [Amended]

12. In § 679.41, paragraph (i)(2) is removed; and paragraph (i)(3) is redesignated as paragraph (i)(2).

13. In § 679.42, paragraph (c)(2) is revised and paragraph (c)(3) is added to read as follows:

§ 679.42 Limitations on use of QS and IFQ.

* * * * *

(c) Requirements and deductions. * * *

(2) NMFS shall use the following sources of information to debit a CDQ or IFQ account. A CDQ or IFQ account will be debited as indicated in Table 3 to this part.

(i) Except as provided in § 679.5(l)(2)(vi)(J)(2), if offload of unprocessed CDQ or IFQ halibut or IFQ sablefish from a vessel, the scale weight of the halibut or sablefish product actually measured at the time of offload, as required by § 679.5(l)(2)(vi) to be included in the IFQ/CDQ landing report.

(ii) If offload of processed IFQ & CDQ halibut or IFQ sablefish from a vessel, the scale weight of the halibut or sablefish processed product actually measured at or before the time of offload. If the product scale weights are taken before the time of offload, then the species and actual product weight of each box or container must be visibly marked on the outside of each container to facilitate enforcement inspection.

(3) All IFQ catch onboard a vessel must be debited from the IFQ permit holder's account under which the catch was harvested.

* * * * *

14. In part 679, Figure 3b, “Coordinates,” is revised, and Figures 19 and 20 are added to read as follows:

Figure 3 to Part 679.—Gulf of Alaska Statistical and Reporting Areas
b. Coordinates
Code | Description | Code | Description
610 | Western GOA Regulatory Area, Shumagin District. Along the south side of the Aleutian Islands, including those waters south of Nichols Point (54°51′30″ N lat) near False Pass, and straight lines between the islands and the Alaska Peninsula connecting the following coordinates in the order listed: 52°49.18′ N, 169°40.47′ W; 52°49.24′ N, 169°07.10′ W; 53°23.13′ N, 167°50.50′ W; 53°18.95′ N, 167°51.06′ W; 53°58.97′ N, 166°16.50′ W; 54°02.69′ N, 166°02.93′ W; 54°07.69′ N, 165°39.74′ W; 54°08.40′ N, 165°38.29′ W; 54°11.71′ N, 165°23.09′ W; 54°23.74′' N, 164°44.73′ W; and southward to the limits of the US EEZ as described in the current editions of NOAA chart INT 813 (Bering Sea, Southern Part) and NOAA chart 500 (West Coast of North America, Dixon Entrance to Unimak Pass), between 170°00′ W long and 159°00' W long.
620 | Central GOA Regulatory Area, Chirikof District. Along the south side of the Alaska Peninsula, between 159°00′ W long and 154°00′ W long, and southward to the limits of the US EEZ as described in the current edition of NOAA chart 500 (West Coast of North America, Dixon Entrance to Unimak Pass).
630 | Central GOA Regulatory Area, Kodiak District. Along the south side of continental Alaska, between 154°00′ W long and 147°00′ W long, and southward to the limits of the US EEZ as described in the current edition of NOAA chart 500 (West Coast of North America, Dixon Entrance to Unimak Pass). Excluding area 649.
640 | Eastern GOA Regulatory Area, West Yakutat District. Along the south side of continental Alaska, between 147°00′ W long and 140°00′ W long, and southward to the limits of the US EEZ, as described in the current edition of NOAA chart 500 (West Coast of North America, Dixon Entrance to Unimak Pass). Excluding area 649.
649 | Prince William Sound. Includes those waters of the State of Alaska inside the base line as specified in Alaska State regulations at 5 AAC 28.200.
650 | Eastern GOA Regulatory Area, Southeast Outside District. East of 140°00′ W long and southward to the limits of the US EEZ as described in the current edition of NOAA chart 500 (West Coast of North America, Dixon Entrance to Unimak Pass). Excluding area 659.
659 | Eastern GOA Regulatory Area, Southeast Inside District. As specified in Alaska State regulations at 5 AAC 28.105(a) (1) and (2).
690 | GOA outside the U.S. EEZ as described in the current editions of NOAA chart INT 813 (Bering Sea, Southern Part) and NOAA chart 500 (West Coast of North America, Dixon Entrance to Unimak Pass).
Note: A statistical area is the part of a reporting area contained in the EEZ.

BILLING CODE 3510-22-J

BILLING CODE 3510-22-C

15. In part 679, Tables 1, 2, 3, 7, 8, 9, 10, and 11 are revised, Tables 16 through 18 are added and reserved, and Table 19 is added to read as follows:

Table 1 to Part 679.—Product and Delivery Codes
[These codes describe the condition of the fish at the point it is weighed and recorded]
Product description | Code
General Use Codes
Belly flaps. Flesh in region of pelvic and pectoral fins and behind head (ancillary only) | 19
Bled only. Throat, or isthmus, slit to allow blood to drain | 03
Bled fish destined for fish meal (includes offsite production). Do Not Record on PTR | 42
Bones (if meal, report as 32) (ancillary only) | 39
Butterfly, no backbone. Head removed, belly slit, viscera and most of backbone removed; fillets attached | 37
Cheeks. Muscles on sides of head (ancillary only) | 17
Chins. Lower jaw (mandible), muscles, and flesh (ancillary only) | 18
Fillets, deep-skin. Meat with skin, adjacent meat with silver lining, and ribs removed from sides of body behind head and in front of tail, resulting in thin fillets | 24
Fillets, skinless/boneless. Meat with both skin and ribs removed, from sides of body behind head and in front of tail | 23
Fillets with ribs, no skin. Meat with ribs with skin removed, from sides of body behind head and in front of tail | 22
Fillets with skin and ribs. Meat and skin with ribs attached, from sides of body behind head and in front of tail | 20
Fillets with skin, no ribs. Meat and skin with ribs removed, from sides of body behind head and in front of tail | 21
Fish meal. Meal from whole fish or fish parts; includes bone meal | 32
Fish oil. Rendered oil from whole fish or fish parts Record only oil destined for sale and not oil stored or burned for fuel onboard | 33
Gutted, head on. Belly slit and viscera removed | 04
Headed and gutted, with roe | 06
Headed and gutted, Western cut. Head removed just in front of the collar bone, and viscera removed | 07
Headed and gutted, Eastern cut. Head removed just behind the collar bone, and viscera removed | 08
Headed and gutted, tail removed. Head removed usually in front of collar bone, and viscera and tail removed | 10
Heads. Heads only, regardless where severed from body (ancillary only) | 16
Kirimi (Steak) Head removed either in front or behind the collar bone, viscera removed, and tail removed by cuts perpendicular to the spine, resulting in a steak | 11
Mantles, octopus or squid. Flesh after removal of viscera and arms | 36
Milt. (in sacs, or testes) (ancillary only) | 34
Minced. Ground flesh | 31
Other retained product. If product is not listed on this table, enter code 97 and write a description with product recovery rate next to it in parentheses | 97
Pectoral girdle. Collar bone and associated bones, cartilage and flesh | 15
Roe. Eggs, either loose or in sacs, or skeins (ancillary only) | 14
Salted and split. Head removed, belly slit, viscera removed, fillets cut from head to tail but remaining attached near tail Product salted | 12
Stomachs. Includes all internal organs (ancillary only) | 35
Surimi. Paste from fish flesh and additives | 30
Whole fish/meal. Whole fish destined for meal (includes offsite production). Do Not Record on PTR | ¹ 41
Whole fish/food fish | ¹ 01
Whole fish/bait. Bait. Sold | 02
Wings. On skates, side fins are cut off next to body | 13
Discard/Disposition Codes
Whole fish/donated prohibited species. Number of Pacific salmon or Pacific halibut, otherwise required to be discarded, that is donated to charity under a NMFS-authorized program | 86
Whole fish/onboard bait. Whole fish used as bait on board vessel Not sold | ¹ 92
Whole fish/damaged. Whole fish damaged by observer's sampling procedures | ¹ 93
Whole fish/personal use, consumption. Fish or fish products eaten on board or taken off the vessel for personal use. Not sold or utilized as bait | ¹ 95
Whole fish, discard, at sea. Whole groundfish and prohibited species discarded by catcher vessels, catcher/processors, motherships, or vessel buying stations. Do Not Record on PTR | 98
Whole fish, discard, infested. Flea-infested fish, parasite-infested fish | 88
Whole fish, discard, decomposed. Decomposed or previously discarded fish | 89
Whole fish, discard, onshore. Discard after delivery and before processing by shoreside processors, stationary floating processors and buying stations and in-plant discard of whole groundfish and prohibited species during processing. Do not record on PTR | 99
Product Designation Codes
Ancillary product. A product, such as meal, heads, internal organs, pectoral girdles, or any other product that may be made from the same fish as the primary product | A
Primary product. A product, such as fillets, made from each fish, with the highest recovery rate | P
Reprocessed or rehandled product. A product, such as meal, that results from processing a previously reported product or from rehandling a previously reported product | R
Pacific Halibut IFQ & CDQ Codes
The following codes are authorized for IFQ and CDQ reporting of Pacific halibut
Gutted, head off. Belly slit and viscera removed Pacific halibut only | 05
Gutted, head on. Belly slit and viscera removed Pacific halibut | 04
The following codes are effective through December 31, 2001
Whole fish/food fish with ice & slime. Sablefish only | 51
Gutted, head on, with ice & slime. Belly slit and viscera removed Pacific halibut and sablefish | 54
Gutted, head off, with ice & slime. Belly slit and viscera removed Pacific halibut only | 55
Headed and gutted, Western cut, with ice & slime. Sablefish only | 57
Headed and gutted, Eastern cut, with ice & slime. Sablefish only | 58
¹ When using whole fish codes, record round weights not product weights, even if the whole fish is not used.

Table 2 to Part 679.—Species Codes for FMP Species and Non-FMP Species
[Codes without asterisks are FMP species—Federal groundfish or prohibited species in groundfish fisheries—that must be recorded in R&R systems]
Species description | Code
Atka mackerel (greenling) | 193
Flounder:
Arrowtooth and/or Kamchatka | 121
Starry | 129
Alaska Plaice | 133
Octopus | 870
Pacific Cod | 110
Pollock | 270
Rockfish:
Aurora | 185
Black (BSAI) | 142
Blackgill | 177
Blue (BSAI) | 167
Bocaccio | 137
Canary | 146
Chilipepper | 178
China | 149
Copper | 138
Darkblotched | 159
Dusky | 154
Greenstriped | 135
Harlequin | 176
Northern | 136
Pacific Ocean Perch (S. alutus only) | 141
Pygmy | 179
Quillback | 147
Redbanded | 153
Redstripe | 158
Rosethorn | 150
Rougheye | 151
Sharpchin | 166
Shortbelly | 181
Shortraker | 152
Silvergray | 157
Splitnose | 182
Stripetail | 183
Thornyhead (all Sebastolobus species) | 143
Tiger | 148
Vermillion | 184
Widow | 156
Yelloweye | 145
Yellowmouth | 175
Yellowtail | 155
Sablefish (blackcod) | 710
Sculpins | 160
Sharks:
General | 689
Pacific sleeper | 692
Salmon | 690
Spiny dogfish | 691
Skate, longnose | 701
Skates, general | 700
Sole:
Butter | 126
Dover | 124
English | 128
Flathead | 122
Petrale | 131
Rex | 125
Rock | 123
Sand | 132
Yellowfin | 127
Squid | 875
Turbot, Greenland | 134
Forage Fish (all species of the following families):
Bristlemouths, lightfishes, and anglemouths (family Gonostomatidae) | 209
Capelin smelt (family Osmeridae) | 516
Deep-sea smelts (family Bathylagidae) | 773
Eulachon smelt (family Osmeridae) | 511
Gunnels (family Pholidae) | 207
Krill (order Euphausiacea) | 800
Laternfishes (family Myctophidae) | 772
Pacific herring (family Clupeidae) | 235
Pacific Sand fish (family Trichodontidae) | 206
Pacific Sand lance (family Ammodytidae) | 774
Pricklebacks, war-bonnets, eelblennys, cockscombs and Shannys (family Stichaeidae) | 208
Surf smelt (family Osmeridae) | 515
Group Codes
(DO NOT USE FOR SORTING SPECIES. Do not record on ADF&G fish tickets)
Demersal shelf rockfish (china, copper, quillback, rosethorn, tiger, yellow-eye, canary) | 168
Miscellaneous flatfish (all flatfish without separate codes) | 120
Pelagic shelf rockfish (dusky, yellowtail, widow) | 169
Shortraker/rougheye rockfish | 171
Slope rockfish (aurora, blackgill, Bocaccio, redstripe, silvergray, chili-pepper, dark-blotched, green-striped, harlequin, pygmy, redbanded, shortbelly, split-nose, stripetail, vermillion, yellowmouth, sharpchin). | 144
Prohibited Species Codes
Crab:
Red king | 921
Blue king | 922
Gold/brown king | 923
Scarlet king | 924
Bairdi Tanner | 931
Opilio Tanner | 932
Tanner, grooved | 933
Tanner, triangle | 934
Pacific halibut | 200
Pacific herring (family Clupeidae) | 235
Salmon:
Chinook | 410
Sockeye | 420
Coho | 430
Pink | 440
Chum | 450
Steelhead trout | 540
Additional *non-FMP Codes
(*These species codes may be recorded in NMFS logbooks and reports but are not required by regulations at 50 CFR part 679.)
Abalone | * 860
Albacore | * 720
Arctic char, anadromous | * 521
Clams:
Butter | * 810
Cockle | * 820
Eastern softshell | * 842
Geoduck | * 815
Little-neck | * 840
Razor | * 830
Surf | * 812
Coral | * 899
Crab:
Box | * 900
Dungeness | * 910
Korean horsehair | * 940
Multispina | * 951
Verrilli | * 953
Dolly varden, anadromous | * 531
Eels or eel-like fish | * 210
Giant grenadier | * 214
Greenling, kelp | * 194
Greenling, rock | * 191
Greenling, whitespot | * 192
Grenadier (rattail) | * 213
Jellyfish | * 625
Lamprey, pacific | * 600
Lingcod | * 130
Lumpsucker | * 216
Mussel, blue | * 855
Pacific flatnose | * 260
Pacific hagfish | * 212
Pacific saury | * 220
Pacific tomcod | * 250
Prowfish | * 215
Rockfish, black (GOA) | * 142
Rockfish, blue (GOA) | * 167
Sardine, Pacific (pilchard) | * 170
Scallop, weathervane | * 850
Scallop, pink (or calico) | * 851
Sea cucumber | * 895
Sea urchin, green | * 893
Sea urchin, red | * 892
Shad | * 180
Shrimp:
Pink | * 961
Sidestripe | * 962
Humpy | * 963
Coonstripe | * 964
Spot | * 965
Skilfish | * 715
Smelt, surf | * 515
Snails | * 890
Sturgeon, general | * 680

Table 3 to Part 679.—Product Recovery Rates for Groundfish Species and Conversion Rates for Pacific Halibut
Species code | FMP species | Product code: 1, 2, 41, 86, 92, 93, 95 Whole Fish | Product code: 3, 42 Bled | Product code: 4 Gutted head on | Product code: 5 Gutted head off (net weight) | Product code: 6 H&G with roe | Product code: 7 H&G western cut | Product code: 8 H&G eastern cut | Product code: 10 H&G w/o tail | Product code: 11 Kirimi | Product code: 12 SaltED & split | Product code: 13 Wings | Product code: 14 Roe
110 | Pacific Cod | 1.00 | 0.98 | 0.85 |  | 0.63 | 0.57 | 0.47 | 0.44 |  | 0.45 |  | 0.05
121 | Arrowtooth Flounder | 1.00 | 0.98 | 0.90 |  | 0.80 | 0.72 | 0.65 | 0.62 | 0.48 |  |  | 0.08
122 | Flathead Sole | 1.00 | 0.98 | 0.90 |  | 0.80 | 0.72 | 0.65 | 0.62 | 0.48 |  |  | 0.08
123 | Rock Sole | 1.00 | 0.98 | 0.90 |  | 0.80 | 0.72 | 0.65 | 0.62 | 0.48 |  |  | 0.08
124 | Dover Sole | 1.00 | 0.98 | 0.90 |  | 0.80 | 0.72 | 0.65 | 0.62 | 0.48 |  |  | 0.08
125 | Rex Sole | 1.00 | 0.98 | 0.90 |  | 0.80 | 0.72 | 0.65 | 0.62 | 0.48 |  |  | 0.08
127 | Yellowfin Sole | 1.00 | 0.98 | 0.90 |  | 0.80 | 0.72 | 0.65 | 0.62 | 0.48 |  |  | 0.08
134 | Greenland Turbot | 1.00 | 0.98 | 0.90 |  | 0.80 | 0.72 | 0.65 | 0.62 | 0.48 |  |  | 0.08
143 | Thornyhead Rockfish | 1.00 | 0.98 | 0.88 |  | 0.55 | 0.60 | 0.50 |  |  |  |  |
160 | Sculpins | 1.00 | 0.98 | 0.87 |  |  | 0.50 | 0.40 |  |  |  |  |
193 | Atka Mackerel | 1.00 | 0.98 | 0.87 |  | 0.67 | 0.64 | 0.61 |  |  |  |  |
270 | Pollock | 1.00 | 0.98 | 0.80 |  | 0.70 | 0.65 | 0.56 | 0.50 | 0.25 |  |  | 0.07
510 | Smelts | 1.00 | 0.98 | 0.82 |  |  | 0.71 |  |  |  |  |  |
511 | Eulachon | 1.00 | 0.98 | 0.82 |  |  | 0.71 |  |  |  |  |  |
516 | Capelin | 1.00 | 0.98 | 0.89 |  |  | 0.78 |  |  |  |  |  |
689 | Sharks | 1.00 | 0.98 | 0.83 |  |  | 0.72 |  |  |  |  |  |
700 | Skates | 1.00 | 0.98 | 0.90 |  |  |  | 0.32 |  |  |  | 0.32 |
710 | Sablefish | 1.00 | 0.98 | 0.89 |  |  | 0.68 | 0.63 | 0.50 |  |  |  |
710 | IFQ Sablefish | 1.00 | 0.98 | 0.89 |  |  | 0.68 | 0.63 | 0.50 |  |  |  |
870 | Octopus | 1.00 | 0.98 | 0.81 |  |  |  |  |  |  |  |  |
875 | Squid | 1.00 | 0.98 | 0.69 |  |  |  |  |  |  |  |  |
| Rockfish | 1.00 | 0.98 | 0.88 |  |  | 0.60 | 0.50 |  |  |  |  |
200 | Conversion rates to Net Weight PACIFIC HALIBUT |  |  | 0.90 | 1.0 |  |  |  |  |  |  |  |

Table 3 to Part 679.—Product Recovery Rates for groundfish Species and Conversion Rates for Pacific Halibut
Species code | FMP species | Product code: 15 Pectoral Girdle | Product code: 16 Heads | Product code: 17 Cheeks | Product code: 18 Chins | Product code: 19 Belly | Product code: 20 Fillets W/Skin & Ribs | Product code: 21 Fillets W/Skin no Ribs | Product code: 22 Fillets W/Ribs no skin | Product code: 23 Fillets Skinless/Bnless | Product code: 24 Fillets Deep Skin | Product code: 30 Surimi | Product code: 31 Mince
110 | Pacific Cod | 0.05 |  | 0.05 |  | 0.01 | 0.45 | 0.35 | 0.25 | 0.25 |  | 0.15 | 0.5
121 | Arrowtooth Flounder |  |  |  |  |  | 0.32 | 0.27 | 0.27 | 0.22 |  |  |
122 | Flathead Soleounder |  |  |  |  |  | 0.32 | 0.27 | 0.27 | 0.22 |  |  |
123 | Rock Sole |  |  |  |  |  | 0.32 | 0.27 | 0.27 | 0.22 |  |  |
124 | Dover Sole |  |  |  |  |  | 0.32 | 0.27 | 0.27 | 0.22 |  |  |
125 | Rex Sole |  |  |  |  |  | 0.32 | 0.27 | 0.27 | 0.22 |  |  |
127 | Yellowfin Sole |  |  |  |  |  | 0.32 | 0.27 | 0.27 | 0.22 |  | 0.18 |
134 | Greenland Turbotder |  |  |  |  |  | 0.32 | 0.27 | 0.27 | 0.22 |  |  |
143 | Thornyhead Rockfish |  | 0.20 | 0.05 | 0.05 | 0.05 | 0.40 | 0.30 | 0.35 | 0.25 |  |  |
160 | Sculpins |  |  |  |  |  |  |  |  |  |  |  |
193 | Atka Mackerel |  |  |  |  |  |  |  |  |  |  | 0.15 |
270 | Pollock |  | 0.15 |  |  |  | 0.35 | 0.30 | 0.30 | 0.21 | 0.16 | 0.16¹, 0.17² | 0.22
510 | Smelts |  |  |  |  |  |  | 0.38 |  |  |  |  |
511 | Eulachon |  |  |  |  |  |  | 0.38 |  |  |  |  |
516 | Capelin |  |  |  |  |  |  |  |  |  |  |  |
689 | Sharks |  |  |  |  |  |  | 0.30 | 0.30 | 0.25 |  |  |
700 | Skates |  |  |  |  |  |  |  |  |  |  |  |
710 | Sablefish |  |  | 0.05 |  |  | 0.35 | 0.30 | 0.30 | 0.25 |  |  |
710 | IFQ Sablefish |  |  | 0.05 |  |  | 0.35 | 0.30 | 0.30 | 0.25 |  |  |
870 | Octopus |  |  |  |  |  |  |  |  |  |  |  |
875 | Squid |  |  |  |  |  |  |  |  |  |  |  |
| Rockfish |  | 0.15 | 0.05 | 0.05 | 0.10 | 0.40 | 0.30 | 0.33 | 0.25 |  |  |
200 | Conversion rates Net Weight for PACIFIC HALIBUT |  |  |  |  |  |  |  |  |  |  |  |

Table 3 to Part 679—Product Recovery Rates for Groundfish Species and Conversion Rates for Pacific Halibut
Species code | FMP species | Product Code (Ice and Slime codes 51, 54, 55, 57, and 58 effective through 12/31/01): 32 Meal | Product Code (Ice and Slime codes 51, 54, 55, 57, and 58 effective through 12/31/01): 33 Oil | Product Code (Ice and Slime codes 51, 54, 55, 57, and 58 effective through 12/31/01): 34 Milt | Product Code (Ice and Slime codes 51, 54, 55, 57, and 58 effective through 12/31/01): 35 Stomachs | Product Code (Ice and Slime codes 51, 54, 55, 57, and 58 effective through 12/31/01): 36 Mantles | Product Code (Ice and Slime codes 51, 54, 55, 57, and 58 effective through 12/31/01): 37 Butterfly Backbone removed | Product Code (Ice and Slime codes 51, 54, 55, 57, and 58 effective through 12/31/01): 51 Whole Fish w/I&S | Product Code (Ice and Slime codes 51, 54, 55, 57, and 58 effective through 12/31/01): 54 Gutted, head on w/I&S | Product Code (Ice and Slime codes 51, 54, 55, 57, and 58 effective through 12/31/01): 55 Gutted, head off w/I&S | Product Code (Ice and Slime codes 51, 54, 55, 57, and 58 effective through 12/31/01): 57 H&G western w/I&S | Product Code (Ice and Slime codes 51, 54, 55, 57, and 58 effective through 12/31/01): 58 H&G eastern w/I&S | Product Code (Ice and Slime codes 51, 54, 55, 57, and 58 effective through 12/31/01): 88, 89 Infested or decomposed fish | Product Code (Ice and Slime codes 51, 54, 55, 57, and 58 effective through 12/31/01): 98, 99 Discards
110 | Pacific Cod | 0.17
121 | Arrowtooth Flounder | 0.17
122 | Flathead Sole | 0.17 |  |  |  |  |  |  |  |  |  |  | 0.00 | 01.00
123 | Rock Sole | 0.17 |  |  |  |  |  |  |  |  |  |  | 0.00 | 01.00
124 | Dover Sole | 0.17 |  |  |  |  |  |  |  |  |  |  | 0.00 | 01.00
125 | Rex Sole | 0.17 |  |  |  |  |  |  |  |  |  |  | 0.00 | 01.00
127 | Yellowfin Sole | 0.17 |  |  |  |  |  |  |  |  |  |  | 0.00 | 01.00
134 | Greenland Turbot | 0.17 |  |  |  |  |  |  |  |  |  |  | 0.00 | 01.00
143 | Thornyhead Rockfish | 0.17 |  |  |  |  |  |  |  |  |  |  | 0.00 | 01.00
160 | Sculpins | 0.17 |  |  |  |  |  |  |  |  |  |  | 0.00 | 01.00
193 | Atka Mackerel | 0.17 |  |  |  |  |  |  |  |  |  |  | 0.00 | 01.00
270 | Pollock | 0.17 |  |  |  |  | 0.43 |  |  |  |  |  | 0.00 | 01.00
510 | Smelts | 0.17 |  |  |  |  |  |  |  |  |  |  | 0.00 | 01.00
511 | Eulachon | 0.17 |  |  |  |  |  |  |  |  |  |  | 0.00 | 01.00
516 | Capelin | 0.17 |  |  |  |  |  |  |  |  |  |  | 0.00 | 01.00
689 | Sharks | 0.17 |  |  |  |  |  |  |  |  |  |  | 0.00 | 01.00
700 | Skates | 0.17 |  |  |  |  |  |  |  |  |  |  | 0.00 | 01.00
710 | Sablefish | 0.17 |  |  |  |  |  |  |  |  |  |  | 0.00 | 01.00
710 | IFQ Sablefish | 0.17 |  |  |  |  |  | 1.02 | 0.91 |  | 0.70 | 0.65 | 0.00 | 01.00
870 | Octopus | 0.17 |  |  |  | 0.85 |  |  |  |  |  |  | 0.00 | 01.00
875 | Squid | 0.17 |  |  |  | 0.75 |  |  |  |  |  |  | 0.00 | 01.00
| Rockfish |  |  |  |  |  |  |  |  |  |  |  | 0.00 | 01.00
200 | Conversion rates to Net Weight for PACIFIC HALIBUT |  |  |  |  |  |  |  | 0.88 | 0.98 |  |  | 0.00 | 0.75
¹ Standard pollock surimi rate during January through June.
² Standard pollock surimi rate during July through December.
Notes: To obtain round weight of groundfish, divide the product weight of groundfish by the table PRR.
To obtain IFQ net weight of Pacific halibut, multiply the product weight of halibut by the table conversion rate.
To obtain round weight from net weight of Pacific halibut, divide net weight by 0.75 or multiply by 1.33333.

Table 7—to Part 679.—Communities Determined To Be Eligible To Apply for Community Development Quotas
[Other communities may also be eligible, but do not appear on this table]
Aleutian Region:
1. Akutan
2. Atka
3. False Pass
4. Nelson Lagoon
5. Nikolski
6. St. George
7. St. Paul
Bering Strait:
1. Brevig Mission
2. Diomede/Inalik
3. Elim
4. Gambell
5. Golovin
6. Grayling
7. Koyuk
8. Nome
9. Savoonga
10. Shaktoolik
11. St. Michael
12. Stebbins
13. Teller
14. Unalakleet
15. Wales
16. White Mountain
Bristol Bay:
1. Alegnagik
2. Clark's Point
3. Dillingham
4. Egegik
5. Ekuk
6. Ekwok
7. Levelock
8. Manokotak
9. Naknek
10. Pilot Point
11. Portage Creek
12. Ugashik
13. Port Heiden/Meschick
14. South Naknek
15. Sovonoski/King Salmon
16. Togiak
17. Twin Hills
Southwest Coastal Lowlands:
1. Alakanuk
2. Chefornak
3. Chevak
4. Eek
5. Emmonak
6. Goodnews Bay
7. Hooper Bay
8. Kipnuk
9. Kongiganak
10. Kotlik
11. Kwigillingok
12. Mekoryuk
13. Mountain Village
14. Napaskiak
15. Napakiak
16. Newtok
17. Nightmute
18. Oscarville
19. Platinum
20. Quinhagak
21. Scammon Bay
22. Sheldon's Point (Nunam Iqua)
23. Toksook Bay
24. Tununak
25. Tuntutuliak

Table 8 to Part 679.—Harvest Zone Codes for Use With Vessel Activity Reports
Harvest zone | Description
A1 | BSAI EEZ off Alaska.
A2 | GOA EEZ off Alaska.
B | State waters of Alaska.
C | State waters other than Alaska.
D | Donut Hole.
F | Foreign Waters Other than Russia.
I | International Waters other than Donut Hole and Seamounts.
R | Russian waters.
S | Seamounts in International waters.
U | U.S. EEZ other than Alaska.

Table 9 to Part 679.—Required Logbooks, Reports, Forms and Electronic Logbook and Reports From Participants in the Federal Groundfish Fisheries
Requirement name | Catcher vessel | Catcher/Processor | Mothership | Shoreside processor ³ | Buying Station
1. Daily Fishing Logbook (DFL) ¹ | Y | N | N | N | N
2. Daily Cumulative Production Logbook (DCPL)1 | N | Y | Y | Y | N
3. Buying Station Report (BSR) | N | N | N | N | Y
4. Check-in/Check-out Report | N | Y | Y | Y | N
5. Optional: Electronic Check-in/out report | N | Y | Y | Y | N
6. Weekly Production Report (WPR) | N | Y | Y | Y | N
7. Optional: Electronic WPR | N | Y | Y | Y | N
8. Shoreside Processor Electronic Logbook Report (SPELR) instead of DCPL and WPR when receiving AFA pollock or pollock harvested in a directed pollock fishery | N | N | N | Y | N
9. Optional: SPELR instead of DCPL and WPR | N | N | N | Y | N
10. U.S. Vessel Activity Report (VAR) | Y | Y | Y | N | N
11. Daily Production Report (DPR) ² | N | Y | Y | Y | N
12. Product Transfer Report (PTR) | N | Y | Y | Y | N
13. Required use AFA and CDQ at-sea scales, including daily scale test, printed scale output, request for inspection of scales and observer station, scale approval sticker | N | Y | Y | N | N
14. VMS when fishing for Atka mackerel or AFA pollock | Y | Y | N | N | N
¹ Two formats of the DFL and catcher/processor DCPL exist: one for trawl gear and one for longline and pot gear.
² DPR is submitted only when specifically requested by Regional Administrator.
³ Also stationary floating processor.

BILLING CODE 3510-22-P

Table 19 to Part 679.—Seabird Avoidance Gear Codes
Code | Seabird avoidance gear
1 | Bird streamer line. Tow a streamer line or lines during deployment of gear to prevent birds from taking hooks. Streamer line consists of three components: a length of line, streamers attached along a portion of the length and one or more float devices at the terminal end. This device can be single or paired.
2 | Buoy bag, bird bag, or other float device. Tow a buoy, board, stick or other device during deployment of gear, at a distance appropriate to prevent birds from taking baited hooks. Each of these devices consist of two components: a length of line (without streamers attached), and one or more float devices at the terminal end. Multiple devices may be used.
3 | Lining tube and/or line shooter. Deploy hooks underwater through a lining tube at a depth sufficient to prevent birds from settling on hooks during deployment of gear.
4 | Combination of devices. Any combination of the above devices (codes 1, 2, and/or 3).
9 | No bird deterrent device deployed.
0 | Night fishing. Deploy gear only during the hours specified in § 679.24(e)(3) using only the minimum vessel's lights necessary for safety.

§§ 679.1, 679.2, 679.4, 679.5, 679.6, 679.7, 679.20, 679.21, 679.22, 679.23, 679.24, 679.26, 679.30, 679.32, 679.41, 679.43, 679.50, and Figure 3 to Part 679 [Amended]

16. At each of the locations shown in the “Location” column, remove the phrase indicated in the “Remove” column and replace it with the phrase indicated in the “Add” column.

Location | Remove | Add | Frequency
§ 679.1 introductory paragraph | Magnuson-Stevens Act | Magnuson-Stevens Act and the Northern Pacific Halibut Act | 1
§ 679.1(f) | (applicable through December 31, 1997) | (applicable through December 31, 2002) | 1
§ 679.2 Definition for Area endorsement | means a | means (for purposes of groundfish LLP) a | 1
§ 679.2 Definition for Area endorsement, paragraph (3) | Central Area of the Gulf of Alaska | Central GOA regulatory area | 1
§ 679.2 Definition for Area endorsement, paragraph (5) | Western Area of the Gulf of Alaska | Western GOA regulatory area | 1
§ 679.2 Definition for Area/species endorsement, paragraph (1) | Aleutian Islands brown king | Aleutian Islands brown king (see Figure 15 to this part) | 1
§ 679.2 Definition for Area/species endorsement, paragraph (2) | Aleutian Islands red king | Aleutian Islands red king (see Figure 15 to this part) | 1
§ 679.2 Definition for Area/species endorsement, paragraph (3) | Bristol Bay red king | Bristol Bay red king (see Figure 15 to this part) | 1
§ 679.2 Definition for Area/species endorsement, paragraph (4) | Bering Sea and Aleutian Islands Area C. opilio and C. bairdi | Bering Sea and Aleutian Islands Area C. opilio and C. bairdi (see Figure 16 to this part) | 1
§ 679.2 Definition for Area/species endorsement, paragraph (5) | Norton Sound red king and Norton Sound blue king | Norton Sound red king and Norton Sound blue king (see Figure 15 to this part) | 1
§ 679.2 Definition for Area/species endorsement, paragraph (6) | Pribilof red king and Pribilof blue king | Pribilof red king and Pribilof blue king (see Figure 15 to this part) | 1
§ 679.2 Definition for Area/species endorsement, paragraph (7) | St. Matthew blue king | St. Matthew blue king (see Figure 15 to this part) | 1
§ 679.2 Definition for Authorized distributor | taken as bycatch | taken as incidental catch | 1
§ 679.2 Definition for Authorized fishing gear | limitations) means | limitations and Table 15 to this part for gear codes) means | 1
§ 679.2 Definition for Buying station | shoreside processor | shoreside processor, stationary floating processor | 1
§ 679.2 Definition for Central Gulf or GOA Central Regulatory Area | Central Gulf or GOA Central Regulatory Area | Central GOA Regulatory Area | 1
§ 679.2 Definition for CDQ number or group number | CDQ number or group number | CDQ group number | 1
§ 679.2 Definition for Clearing officer | ports listed in § 679.5(l)(3)(viii) | ports listed in Table 14 to this part | 1
§ 679.2 Definition for Crab species | Crab species means | Crab species means (see also king crab and tanner crab) | 1
§ 679.2 Definition for Eastern Gulf or GOA Eastern Regulatory Area | Eastern Gulf or GOA Eastern Regulatory Area | Eastern GOA Regulatory Area | 1
§ 679.2 Definition for Eligible applicant | means a | means (for purposes of the LLP program) a | 1
§ 679.2 Definition for Eligible community | means a | means (for purposes of the CDQ program) a | 1
§ 679.2 Definition for Federal waters | EEZ off Alaska | EEZ off Alaska (see also reporting area) |
§ 679.2 Definition for Fishing day | means a | means (for purposes of Subpart E) a | 1
§ 679.2 Definition for Fishing month | refers to | means (for purposes of subpart E) a | 1
§ 679.2 Definition for Food bank distributor | relief agencies | relief agencies (see § 679.26) | 1
§ 679.2 Definition for Food bank network | relief agencies | relief agencies (see § 679.26) | 1
§ 679.2 Definition for groundfish license | means a | means (for purposes of the LLP program) a | 1
§ 679.2 Definition for Halibut CDQ fishing, paragraph (1)(ii) | maximum retainable bycatch amounts | maximum retainable amounts | 1
§ 679.2 Definition for Hunger relief agency | free of charge | free of charge (see § 679.26) | 1
§ 679.2 Definition for IFQ regulatory area, paragraph (1) | chapter III of this title | chapter III of this title (see also Figure 15 to this part) | 1
§ 679.2 Definition for IFQ regulatory area, paragraph (2) | limited entry program | limited entry program (see Figure 14 to this part) | 1
§ 679.2 Definition for Manager | shoreside processor | shoreside processor, stationary floating processor | 2
§ 679.2 Definition for Observer | vessels or shoreside processors | vessels, shoreside processors, or stationary floating processors | 1
§ 679.2 Definition for Observer contractor | vessels and shoreside processors | vessels, shoreside processors, or stationary floating processors | 1
§ 679.2 Definition for Red King Crab Savings Area (RKCSA) of the BSAI | (see § 679.22(a)(3)) | (see § 679.22(a)(3) and Figure 11 to this part) | 1
§ 679.2 Definition for Red King Crab Savings Subarea (RKCSS) of the BSAI | (see § 679.21(e)(3) (ii)(B)) | (see § 679.21(e)(3) (ii)(B)) and Figure 11 to this part) | 1
§ 679.2 Definition for Resident fisherman | means an | means (for purposes of the CDQ Program) an | 1
§ 679.2 Definition for Rockfish, paragraph (1) | For the Gulf of Alaska | For the GOA | 1
§ 679.2 Definition for Rockfish, paragraph (2) | For the Bering Sea and Aleutian Islands Management Area | For the BSAI | 1
§ 679.2 Definition for Southeast Outside District of the GOA | Eastern Regulatory Area | Eastern GOA Regulatory Area | 1
§ 679.2 Definition for Tender vessel | shoreside processor | shoreside processor, stationary floating processor | 1
§ 679.2 Definition for Transfer, paragraph (1) | or shoreside processor | shoreside processor, or stationary floating processor | 1
§ 679.2 Definition for Transfer, paragraph (1) | at any shoreside processor | at any shoreside processor, stationary floating processor | 1
§ 679.2 Definition for Transfer, paragraph (2) | at any shoreside processor | at any shoreside processor, stationary floating processor | 1
§ 679.2 Definition for Unsorted codend | mothership or shoreside processor | mothership, shoreside processor, or stationary floating processor | 1
§ 679.2 Definition for Vessel Activity Report (VAR) | (see § 679.5) | (see § 679.5(k)) | 1
§ 679.2 Definition for Vessel operations category | (see § 679.4) | (see § 679.5(b)(3)) | 1
§ 679.2 Definition for West Yakutat District of the GOA | GOA Eastern Regulatory Area | Eastern GOA Regulatory Area | 1
§ 679.2 Definition for Western Gulf or GOA Western Regulatory Areas | Western Gulf or GOA Western Regulatory Areas | Western GOA Regulatory Area | 1
§ 679.4(b)(4)(ii), (f)(4)(ii) | RAM Division | RAM Program | 1
§ 679.4(f)(1) | or vessel of the United States operating solely as a mothership in Alaska State waters | or stationary floating processor | 1
§ 679.4(f)(2)(vi) | shoreside processor | shoreside processor or stationary floating processor | 1
§ 679.4(f)(6)(i) | shoreside processor | shoreside processor, or stationary floating processor | 1
§ 679.4(j) | Salmon donation program permits | Prohibited species donation program permits | 1
§ 679.4(k)(1)(i) | issued by NMFS to a qualified person | issued by NMFS | 1
§ 679.4(k)(4)(ii)(C) (1), (2), (3), and (4) | Western Area of the Gulf of Alaska | Western GOA regulatory area | once for (1), (2), (4); twice for (3)
§ 679.4(k)(4)(ii)(D) (1), (2), and (3) | Central Area of the Gulf of Alaska | Central GOA regulatory area | 1
§ 679.6 (b)(7) introductory text, (d)(1)(iii), (d)(1)(v), (d)(1)(vi), (d)(2), (e) introductory text, (e)(1), (e)(2), (e)(3), (e)(4), (e)(5), (e)(7), (e)(8) | experimental fishing | exempted fishing | 1
§ 679.6(b) introductory text, (b)(3), (b)(9), (d)(1) introductory text | experimental fishing | exempted fishing | 2
§ 679.6(f) | Experimental fishing | Exempted fishing | 2
§ 679.6(f) | Experimental fishng | Exempted fishing | 1
§ 679.7(a)(15) | or vessel of the United States operating solely as a mothership in Alaska State waters | or stationary floating processor | 1
§ 679.7(a)(16) | maximum retainable groundfish bycatch amount | maximum retainable groundfish amount | 1
§ 679.7(d)(16) | retainable bycatch amounts | maximum retainable amounts | 1
§ 679.7(d)(20) | shoreside processor | shoreside processor, stationary floating processor | 1
§ 679.8 | § 600.740 | § 600.730 | 1
§ 679.20(a)(4)(i) heading | GOA Eastern Area | Eastern GOA regulatory area | 1
§ 679.20(a)(4)(i) text | Eastern Area of the GOA | Eastern GOA regulatory area | 1
§ 679.20(a)(4)(ii) heading | GOA Central and Western Areas | Central and western GOA regulatory areas | 1
§ 679.20(a)(4)(ii)(A) | Central and Western Areas of the GOA | Central and western GOA regulatory areas | 1
§ 679.20(a)(4)(ii)(A) | Central and Western Areas | Central and western GOA regulatory areas | 1
§ 679.20(e) heading | Maximum retainable bycatch amounts | Maximum retainable amounts | 1
§ 679.20(e)(1), (e)(2)(i), (e)(2)(iii) | maximum retainable bycatch amount | maximum retainable amount | 1
§ 679.21(d)(4)(iii)(A) | GOA Eastern Regulatory Area | Eastern GOA regulatory areas | 1
§ 679.22(a)(3) | § 679.21(e)(4)(ii)(B) | § 679.21(e)(3)(ii)(B) | 1
§ 679.22(a)(11)(iv)(B) introductory text | SCA | SCA (see Figure 20 to this part) | 1
§ 679.22(b)(3)(iii)(A) | defined at § 679.23(d)(3) of this part | defined at § 679.23(d)(3) and Figure 20 to this part | 1
§ 679.22(b)(3)(iii)(B) introductory text | Shelikof Strait conservation area | Shelikof Strait conservation area (see Figure 19 to this part) | 1
§ 679.23(h)(1) | Western and Central Regulatory Areas of the GOA | Western and Central GOA regulatory areas | 1
§ 679.23(h)(2) | Western Regulatory Area of the GOA | Western GOA regulatory area | 2
§ 679.23(h)(3) | Central Regulatory Area of the GOA | Central GOA regulatory area | 2
§ 679.24(c)(2) heading, (c)(2)(i)(A) | GOA Eastern Area | Eastern GOA regulatory area | 1
§ 679.24(c)(2)(ii) (A), (B) | GOA Eastern Regulatory Area | Eastern GOA regulatory area | 1
§ 679.24(c)(3) heading | GOA Central and Western Areas | Central and Western GOA regulatory areas | 1
§ 679.24(c)(3) | GOA Central and Western Regulatory Areas | Central and western GOA regulatory areas | 1
§ 679.24(d)(2) introductory text | in this paragraph (d) | in this paragraph (d) and in Figure 7 to this part | 1
§ 679.26(b)(3) heading | SDP Permit | PSD Permit | 1
§ 679.26(c)(3) | until 1 year after | until 3 years after | 1
§ 679.30(a)(5)(i)(B) heading | Shoreside processors | shoreside processors or stationary floating processors | 1
§ 679.30(a)(5)(i)(B) | shoreside processor | shoreside processor or stationary floating processor | 1
§ 679.32(c) | shoreside processors | shoreside processors or stationary floating processors | 1
§ 679.32(c)(3)heading | Shoreside processors and vessels of the United States operating solely as a mothership in Alaska State waters | shoreside processors and stationary floating processors | 1
§ 679.32(c)(3) introductory text | shoreside processor or the operator of a vessel of the U.S. operating solely as a mothership in Alaska State waters | shoreside processor or stationary floating processor | 1
§ 679.32(d)(1) | shoreside processor or the operator of a vessel of the U.S. operating solely as a mothership in Alaska State waters | shoreside processor or stationary floating processor | 1
§ 679.32(f)(1) | shoreside processor | shoreside processor or stationary floating processor | 1
§ 679.32(f)(3) | shoreside processor | shoreside processor or stationary floating processor | 2
§ 679.41(e)(2)(iii) | Central Gulf area | Central GOA regulatory area | 1
§ 679.41(e)(2)(iv) | Western Gulf area | Western GOA regulatory area | 1
§ 679.43(a) | under part 679 of this chapter | under this subpart D as well as portions of subpart C of this part | 1
§ 679.50(c)(1)(vi) | Eastern Regulatory Area of the GOA | Eastern GOA regulatory area | 1
§ 679.50(c)(3)(iii) | shoreside processor or to a mothership processor vessel in Alaska State waters | shoreside processor or stationary floating processor | 1
§ 679.50(d) introductory text heading | shoreside processors | shoreside processors and stationary floating processors | 1
§ 679.50(d) introductory text and (d)(4)(i) | shoreside processor | shoreside processor or stationary floating processor | 1
§ 679.50(e)(2), (g) | vessels or shoreside processors | vessels, shoreside processors or stationary floating processors | 1
§ 679.50(f)(2) heading | shoreside processor | shoreside processor or stationary floating processor | 1
§ 679.50(f)(2) | shoreside processor | shoreside processor or stationary floating processor | 1
§ 679.50(f)(2)(iii) (A), (f)(2)(iv), (f)(2)(v) | shoreside processors | shoreside processors or stationary floating processors | 1
§ 679.50(h)(2)(i)(A)(4) | vessel or shoreside processor | vessel, shoreside processor, or stationary floating processor | 1
§ 679.50(i)(2)(v)(A) | shoreside processor | shoreside processor or stationary floating processor | 1
§ 679.50(i)(2)(v)(C) | vessels and/or shoreside processors | vessels, shoreside processors and/or stationary floating processors | 1
§ 679.50(i)(2)(xiv) (B), (C), and (D) | vessel or shoreside processor | vessel, shoreside processor, or stationary floating processor | 1
§ 679.50(i)(2)(xiv) (G)(3) and (4) | shoreside processors | shoreside processors or stationary floating processors | 1
§ 679.50(j)(4)(i) | vessels and shoreside processors | vessels, shoreside processors, and stationary floating processors | 1

[FR Doc. 01-18672 Filed 8-7-01; 8:45 am]

BILLING CODE 3510-22-P